DEPARTMENT OF THE INTERIOR

Fish and Wildlife Service

50 CFR Part 32

RIN 1018-AU14

2005-2006 Refuge-Specific Hunting and Sport Fishing Regulations

AGENCY: Fish and Wildlife Service, Interior.

ACTION: Final rule.

SUMMARY: The Fish and Wildlife Service adds six refuges to the list of areas open for hunting and/or sport fishing programs and increases the activities available at seven other refuges. We also implement pertinent refuge-specific regulations for those activities and amend certain regulations on other refuges that pertain to migratory game bird hunting, upland game hunting, big game hunting, and sport fishing for the 2005-2006 season.

DATES: This rule is effective on September 13, 2005.

FOR FURTHER INFORMATION CONTACT: Leslie A. Marler, (703) 358-2397; Fax (703) 358-2248.

SUPPLEMENTARY INFORMATION: The National Wildlife Refuge System Administration Act of 1966 closes national wildlife refuges in all States except Alaska to all uses until opened. The Secretary of the Interior (Secretary) may open refuge areas to any use, including hunting and/or sport fishing, upon a determination that such uses are compatible with the purposes of the refuge and National Wildlife Refuge System (Refuge System) mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review refuge hunting and sport fishing programs to determine whether to include additional refuges or whether individual refuge regulations governing existing programs need modifications, deletions, or additions. Changing environmental conditions, State and Federal regulations, and other factors affecting fish and wildlife populations and habitat may warrant modifications to refuge-specific regulations to ensure the continued compatibility of hunting and sport fishing programs and to ensure that these programs will not materially interfere with or detract from the fulfillment of refuge purposes or the Refuge System's mission.

Provisions governing hunting and sport fishing on refuges are in Title 50 of the Code of Federal Regulations in part 32 (50 CFR part 32). We regulate hunting and sport fishing on refuges to:

• Ensure compatibility with refuge purpose(s);

• Properly manage the fish and wildlife resource(s);

• Protect other refuge values;

• Ensure refuge visitor safety; and

• Provide opportunities for quality wildlife-dependent recreation.

On many refuges where we decide to allow hunting and sport fishing, our general policy of adopting regulations identical to State hunting and sport fishing regulations is adequate in meeting these objectives. On other refuges, we must supplement State regulations with more-restrictive Federal regulations to ensure that we meet our management responsibilities, as outlined in the “Statutory Authority” section. We issue refuge-specific hunting and sport fishing regulations when we open wildlife refuges to migratory game bird hunting, upland game hunting, big game hunting, or sport fishing. These regulations list the wildlife species that you may hunt or fish, seasons, bag or creel limits, methods of hunting or sport fishing, descriptions of areas open to hunting or sport fishing, and other provisions as appropriate. You may find previously issued refuge-specific regulations for hunting and sport fishing in 50 CFR part 32. With this rulemaking, we are also standardizing and clarifing the existing language of these regulations.

Plain Language Mandate

In this rule, we made some of the revisions to the individual refuge units to comply with a Presidential mandate to use plain language in regulations; as such, these particular revisions do not modify the substance of the previous regulations. These types of changes include using “you” to refer to the reader and “we” to refer to the Service, using the word “allow” instead of “permit” when we do not require the use of a permit for an activity, and using active voice.

Statutory Authority

The National Wildlife Refuge System Administration Act (Administration Act) of 1966 (16 U.S.C. 668dd-668ee, as amended) and the Refuge Recreation Act (Recreation Act) of 1962 (16 U.S.C. 460k-460k-4) govern the administration and public use of refuges.

Amendments enacted by the National Wildlife Refuge System Improvement Act of 1997 (Improvement Act) build upon the Administration Act in a manner that provides an “organic act” for the Refuge System similar to those that exist for other public Federal lands. The Improvement Act serves to ensure that we effectively manage the Refuge System as a national network of lands, waters, and interests for the protection and conservation of our Nation's wildlife resources. The Administration Act states first and foremost that we focus Refuge System mission on conservation of fish, wildlife, and plant resources and their habitats. The Improvement Act requires the Secretary, before allowing a new use of a refuge, or before expanding, renewing, or extending an existing use of a refuge, to determine that the use is compatible. The Improvement Act established as the policy of the United States that wildlife-dependent recreation, when compatible, is a legitimate and appropriate public use of the Refuge System, through which the American public can develop an appreciation for fish and wildlife. The Act established six wildlife-dependent recreational uses, when compatible, as the priority general public uses of the Refuge System. These uses are: hunting, fishing, wildlife observation and photography, and environmental education and interpretation.

The Recreation Act authorizes the Secretary to administer areas within the Refuge System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop refuge-specific regulations to ensure the compatibility of the programs with the purpose(s) for which we established the refuge and the Refuge System mission. We ensure initial compliance with the Administration Act and the Recreation Act for hunting and sport fishing on newly acquired refuges through an interim determination of compatibility made at or near the time of acquisition. These regulations ensure that we make the determinations required by these acts prior to adding refuges to the lists of areas open to hunting and sport fishing in 50 CFR part 32. We ensure continued compliance by the development of comprehensive conservation plans, specific plans, and by annual review of hunting and sport fishing programs and regulations.

Response to Comments Received

In the July 12, 2005, Federal Register (70 FR 40108), we published a proposed rulemaking identifying refuges and their proposed hunting and/or fishing programs and invited public comments. We reviewed and considered all comments received by August 5, 2005, the end of a 30-day comment period that opened on the date of public filing (July 6, 2005). We received 859 comments on the proposed rule. The comments/responses are grouped by major issue area.

Comment 1: Many commenters expressed opposition to opening refuges to hunting and fishing and believe refuges should offer protection and safe haven for wildlife. They feel this rule violates the Service's own policy that “wildlife comes first in the National Wildlife Refuge System.” Also, commenters were concerned about endangered species being accidentally killed.

Response 1: The Administration Act authorizes the Secretary to allow use of any refuge area for any purpose as long as those uses are compatible; and the Act specifically references hunting and fishing. Amendments to the Administration Act made by the National Wildlife Refuge System Improvement Act of 1997 (Improvement Act) establish wildlife-dependent recreational uses as priority uses, when compatible. It specifically includes hunting and fishing as wildlife-dependent recreational uses.

Additionally, we comply with ESA Section 7 before opening or expanding hunting on refuges in order to insure the programs will not jeopardize listed species.

Comment 2: A commenter questioned the use of the 2001 figures from the “national source of hunting and fishing and wildlife” as being very old and inaccurate.

Response 2: Due to the unavailability of site-specific expenditure data, we use the national estimates from the 2001 National Survey of Fishing, Hunting, and Wildlife Associated Recreation to identify expenditures for food and lodging, transportation, and other incidental expenses. These are the best available data that are consistent nationwide.

The number of hunting and fishing days are collected by each individual refuge annually. The hunting and fishing numbers presented represent the year 2004.

Comment 3: A commenter questioned the use of lead shot by hunters.

Response 3: 50 CFR 32.2(k) specifically prohibits the possession of toxic shotgun pellets by hunters on waterfowl production areas and certain other areas (refuges or areas within refuges) of the System. This regulation does not apply to turkey and deer hunters using buckshot or slugs, except as specifically authorized by refuge-specific regulations or State laws. The only shot types allowed on the Refuge System are specifically identified in 50 CFR 20.21(j).

Comment 4: Several commenters questioned the practice of allowing ATV use on refuges. They felt that refuges should prohibit ATV use unless they were found to be compatible and that our regulations did not address these issues of compatibility and other procedural issues relating to this subject.

Response 4: We allow limited ATV use on some refuges. For example, in the State of Arkansas on Felsenthal, Overflow, and Pond Creek Refuges and in the State of Louisiana on Catahoula National Wildlife Refuge, we allow ATVs for wildlife-dependent activities only but restrict their use to designated times, dates, and specific trails. The refuges further limit the size of the engines, tires, etc. so as to minimize their impact. The refuges provide ATV use specifics to the public in their brochures. On Black Bayou Lake, D'Arbonne, and Upper Ouachita National Wildlife Refuges in the State of Louisiana, we prohibit hunting from or across ATV trails. And similar to the refuges mentioned at the beginning of this response, these refuges limit ATV use to designated times, dates, and specific trails, in addition to limiting their engine and tire size.

On Laguna Atascosa National Wildlife Refuge in the State of Texas, we allow ATV use for hunters with mobility impairments and other disabilities through the issuance of a Special Use Permit.

On Squaw Creek National Wildlife Refuge in the State of Missouri, the refuge manager has decided to prohibit all ATV use on the refuge, and we have revised condition A9 accordingly.

As required by the Administration Act, we determined these uses are compatible. In addition, we have complied with NEPA with regard to the hunting programs and associated ATV use. However, because these comments have raised the issue, we are commencing a System-wide review of our ATV approvals to ensure that we are meeting the requirements of E.O. 11644 and 11989.

Comment 5: A commenter felt we should not allow hunting of greater prairie chicken and/or rail at Glacial Ridge National Wildlife Refuge in the State of Minnesota as most hunters cannot differentiate between a “flushed grouse and a greater prairie chicken or a snipe and yellow rail prior to discharging their weapon.”

Response 5: The proposal to allow hunting of the greater prairie chicken on the Glacial Ridge National Wildlife Refuge (Refuge) will be cooperatively managed with the State of Minnesota (State). While it is possible for hunters to misidentify birds and take protected species, it is anticipated that through the Minnesota Firearm Safety Program, which is mandatory and covers wildlife identification, as well as providing the public other educational materials, this would be rare. In addition, sharp-tailed grouse, and the sora and Virginia rails, are species for which the State allows hunting. Ruffed grouse will not be affected, as it occupies different habitat.

Currently, the Service owns only 2,300 acres of the proposed 35,000 acre refuge. While it will be many years before we reach this goal, we are also developing plans for providing opportunities for the nonhunting public. While the main purpose of the Refuge is the restoration and management of tallgrass prairie habitat, we anticipate that the refuge will accommodate both consumptive and nonconsumptive compatible public use.

Comment 6: A commenter was concerned about negligence in the hunting community and wondered about the lack of funding spent for law enforcement. Other commenters expressed concern about safety in general on refuges.

Response 6: While there is inherent risk in any type of activity on a refuge, we promote hunter safety as much as possible. We require a State hunting license of hunters on national wildlife refuges. Most State regulations require hunter safety courses and certification prior to issuance of hunting licenses, and safety on refuges has increased as a result. We routinely review their needs, and changes in the 2006 budget will make it much easier to track law enforcement expenditures and plan accordingly.

Comment 7: A commenter felt that without sufficiently detailed, annotated maps accompanying each refuge in the regulations, a brief physical description of the areas open to hunting is unclear, and we are in violation of Executive Order 12866.

Response 7: We disagree and believe we are in full compliance with the Executive Order. Balancing a number of factors, including efficient ease of understanding and feasibility, we ask refuges to describe the boundary of the hunting areas for inclusion in regulations when they can do so simply. For many reasons, we do not publish maps for each refuge where public activities take place. For example, refuge boundaries are subject to change depending on land acquisition, and the refuge maps would be of such a small size to fit into the Federal Register, and subsequently codified in the CFR as to be useless for detailed boundaries of areas in question. However, detailed information is available at each refuge. We advise the public to consult with the refuge staff for further details and information, pick up a brochure (which in most cases include maps) available at each refuge, and/or view large-scale refuge maps posted at each refuge.

Comment 8: Concerning Moosehorn National Wildlife Refuge in Maine, two commenters questioned allowing deer hunting, alleging it made the refuge unavailable for safe access for other users (including visits by school groups in October). Further, a commenter said that because of many years of deer hunting only, other species are less wary and more likely to be seen and easily killed. A commenter also felt that for years part of Washington County had been unsuccessfully trying to recover from overhunting, illegal hunting, and clear cutting. A commenter also felt woodcock numbers hadn't been growing and questioned allowing hunting for that species. A commenter also asked about adding coot and rail to the list of hunted species. A commenter also believes that since there are more wildlife watchers than hunters in Maine, this should be the focus of departmental policy.

Response 8: Moosehorn National Wildlife Refuge has modified the regular Maine hunting season and provided 2,077 acres of “No Hunt Zones” to provide for hiking, photography, wildlife viewing, and other activities during the hunting season. Deer hunting will take place in areas of the Edmunds Division and in the section of Baring Division to the west of Route 191. We do not have a school nature trail in these areas. The school nature trail, which is 1.8 miles (2.9 km) long, is in the center of the No Hunt Zone and circles around the refuge office. It is on the core Baring Division and the only expansion of hunting in this zone is incidental take of coyote and bear during the deer hunt season that has been in existence on the refuge since 1957. The refuge has experienced no incidences in this area, and many school groups have visited without complaint or incident. Twenty years ago there was a ¼ mile (.4 km) No Hunt Zone, which the refuge expanded to over ½ mile (.8 km) from trails and structures. This not only complies with State regulations but exceeds the standards. The refuge's Friends Group and Youth Conservation Corps are, in fact, working on this school trail this summer to insure that there are good directional signs.

It is the refuge's opinion that the wildlife population of eastern Washington County is diverse and healthy and that the clear-cut areas from 15-20 years ago have developed into excellent wildlife habitat. This habitat will provide excellent cover for wildlife, and an expanded hunting program will have little effect on migratory species and mammals that move on and off the refuge lands. The white-tailed deer population in Washington County has been below State optimal objective levels, but the reasons for this are not well understood. The average number of deer taken on the 28,800 acres of the refuge during the hunting season over the last 8 years is eight deer per year. The refuge has a vigorous biological program that monitors its wildlife resources, and along with our law enforcement program, ensures that we protect our resources.

The refuge's hunt plan does not call for any migratory bird hunting (which includes woodcock) on the core Baring Division. The refuge is trying to preserve this nonhunted woodcock population for further study. There was a study conducted (McAuley et al. 2005) that indicated that hunting did not appear to reduce the overall survival of woodcock on the Moosehorn Breeding Grounds. Woodcock numbers have, in fact, increased substantially on the refuge since intense habitat management began in the late 1970s.

The refuge gave consideration to adding coot and rail to the list of species for hunting; however, for this season they decided not to add them to the list.

The National Wildlife Refuge System Improvement Act of 1997 encourages hunting, when compatible, on national wildlife refuges along with other activities as long as the biological compatibility process has been met. It is the refuge's finding that, based on State data, the species hunted have sustainable populations.

We are considering adding coot, sora, and Virginia rail to the list of species hunted and will review and make that determination for the next hunting season (2006-2007).

Regardless of the number of participants in wildlife watching or hunting activities, we believe both of these uses are important to the economy, and we provide for both groups as best we can within our budgets.

Comment 9: A commenter questioned the use of “natural material” for hunters constructing blinds and wondered if that might be a source of introduced nonnative/invasive species on a refuge.

Response 9: We are adding language to all of the wetland management districts in North and South Dakota that will read as follows: “We prohibit bringing any type of live or dead vegetation onto the refuge for any purpose at any time.” We are also amending the language for Upper Mississippi River National Wildlife Refuge in Illinois to expressly prohibit nonnative materials. On Don Edwards San Francisco Bay National Wildlife Refuge, the refuge has allowed the public to bring in materials for temporary blind construction in the Ravenswood ponds for decades. It has not resulted in invasive species being introduced to the area.

Comment 10: A commenter recommended that we make all attempts to minimize the amount of additional regulation, restriction, permits, fees, etc., associated with implementing this proposed rule and felt there were redundancies with State regulations. This comment was specific to Great Meadows National Wildlife Refuge in Massachusetts (Great Meadows).

Response 10: It is not our intent to burden a hunter with additional regulations and restrictions. Rather, our intent is to provide hunters with quality wildlife-dependent recreational experience, as stated in Refuge System policy (8 RM 5.2A of the Refuge Manual, U.S. Fish and Wildlife Service, 1985). The Refuge Manual (8 RM 5.5) states: “Refuge hunting programs should be planned, supervised, conducted, and evaluated to promote positive hunting values and hunter ethics such as fair chase and sportsmanship. In general, hunting on refuges should be superior to that available on other public or private lands and should provide participants with reasonable harvest opportunities, uncrowded conditions, limited interference from or dependence on mechanized aspects of the sport. This may require zoning the hunt unit and limiting the number of participants. Good planning will minimize the controls and regimentation needed to achieve hunting objectives.” The additional measures implemented by refuge staff will help facilitate such an experience. In addition, we review the hunting program annually to ensure compatibility with the Service mission and refuge purposes as well as its compliance with Federal and State hunting regulations.

Comment 11: The same commenter questioned our repeating the State requirement of required hunter orange clothing for hunters on Great Meadows.

Response 11: Safety is a priority on all of our refuges, and we feel this is a condition that bears inclusion in our regulations, even if it repeats the State regulations. The statement of this requirement may seem redundant because it is listed under three separate refuges (Assabet River, Great Meadows, and Oxbow National Wildlife Refuges) on the same page of the Federal Register.

Comment 12: The same commenter questioned whether condition A12 should apply to big game hunting as well as to migratory bird hunting on Great Meadows.

Response 12: The commenter points up an error on our part. In fact, condition A12 states that we allow no more than two dogs per hunting party and is only applicable to Migratory Game Bird Hunting, not for Big Game Hunting. The correct condition we should have referenced for Big Game Hunting under C4 is A10, which actually prohibits use of dogs during scouting. We corrected that error in the final rule.

Comment 13: The same commenter questioned our statement that costs should be minimal for the proposed rule, which flowed down to the individual refuge hunt plans, for Great Meadows. Therefore, the commenter feels that no additional fees or charges should be implemented or associated with the proposed rule.

Response 13: There are sufficient funds within the annual operating budget of the Eastern Massachusetts National Wildlife Refuge Complex (of which Great Meadows is a part) to conduct the refuge hunt program. There will be little difference in the amount of law enforcement needed whether or not the refuge is open to hunting. We focus current law enforcement efforts on prohibiting poaching on the refuge. By opening Great Meadows to hunting, the refuge will incur additional administrative costs due to the issuance of hunt permits and outreach, particularly in the first few years of the hunt program.

Comment 14: The same commenter questioned where the “Additional Hunting Day” figures came from on Table 1, Additional Hunting Days, and felt that the numbers were too low for Great Meadows. The commenter felt that the refuge can accommodate a much larger number of hunting days over the course of the hunting season. The commenter recommended eliminating the permit restrictions after the initial opening days.

Response 14: The number of hunters anticipated represent good-faith estimates from the refuges when they were asked to estimate annual hunter participation for the new activities for purposes of economic analysis on the overall impact of the rule on the local economy, and this is a conservative estimate. At this time the Service plans to institute a two-tiered permit process (first tier is that each hunter must possess a general permit, second tier is a lottery for big game and waterfowl hunting) that will be in effect at the three refuges located in the northern part of the complex (Great Meadows, Assabet River, and Oxbow). We will charge a fee for the permit and limit the number of permits issued through a lottery to ensure a quality hunt and help us achieve refuge management objectives. We are implementing this permit process because the anticipated level of interest in hunting deer, waterfowl, and turkey (where allowed) at these refuges is unknown, but could be initially high due to interest in hunting areas that have not been open for hunting for many years. Limiting the number of hunters on the refuge should ensure a quality hunt, increase safety, and reduce potential conflicts with other refuge users. The need to maintain the two-tiered permit process will be reevaluated after a few hunt seasons, and modified or eliminated if determined to no longer be necessary.

Comment 15: The same commenter opposes the imposition of fees or user charges for hunters that would exceed any current fees/charges for other users of these refuge properties for Great Meadows. The commenter feels the permits should be free of charge.

Response 15: Costs of administering the hunt will be partially offset by revenues received from the issuance of hunt permits. The only way the Service will be able to achieve, maintain, and provide a quality hunting program in the future is with additional funds to cover the administrative costs. Failure to receive additional revenues will have a significant impact on our ability to provide quality hunting opportunities on refuges and provide participants with reasonable harvest opportunities.

Comment 16: The same commenter feels that the refuge should not attempt to regulate/limit scouting for waterfowl hunting areas, nor should they require a permit for this purpose for Great Meadows.

Response 16: Once a hunter obtains a permit, we would then allow scouting in areas that are normally off limits or closed to the public. Allowing unlimited scouting in these areas could lead to adverse impacts on refuge habitat.

Comment 17: A commenter expressed concerns about the section of Great Meadows around Heard Pond as being quite small. The commenter feels allowing hunting creates a safety issue as the area is in the midst of suburban neighborhoods.

Response 17: The refuge weighs a number of factors in opening an area to hunting, including visitor safety considerations. The refuge manager may, upon annual review of the hunting program, impose further restrictions on hunting, recommend that the refuge be closed to hunting, or further liberalize hunting within the limits of State law. Restrictions will occur if hunting becomes inconsistent with other higher priority refuge programs or endangers refuge resources or public safety. There will be areas on the refuge where we prohibit hunting. We strive to achieve a balance between consumptive and nonconsumptive uses on the refuges. Because Massachusetts prohibits hunting on Sunday, at a minimum nonhunters will be free to enjoy the refuge with no concern about possible hunting conflicts on those days during the hunting seasons.

In others, we have restricted hunting because of the mandated safety zones, such as in the Heard Pond area. Further, State regulation requires a 500 foot (150 m) zone around any inhabited structure. As we state in the draft comprehensive conservation plan (CCP), “Hunting, whether by gun or bow, is prohibited in this area unless the hunter received permission from the owner of the building. It is the hunter's responsibility to ensure that he/she is more than 500 feet (150 m) from any such buildings.” There are times in which the safety zone extends into the refuge. We will prohibit hunting within these areas.

Based upon concerns expressed in response to the draft CCP, we reviewed the most up-to-date aerial photographs available, which include the Heard Pond area. We analyzed locations of the 500-foot safety zones around existing homes to determine whether or not a reasonable hunting area could be provided given the constraints associated with safety zones. In addition to the aerial photo analysis, we went to the refuges to determine how visible the homes near the refuge are from inside the refuge. The Service will assist hunters and nonhunters in delineating any areas where there may be confusion as to the actual location of the safety zone.

Comment 18: Many commenters also felt that the procedure by which we open refuges circumvents the review process mandated by both the National Environmental Policy Act (NEPA) and the Endangered Species Act (ESA). In a related comment, a commenter felt the Service erred in categorically excluding the proposed rule from NEPA review and feels we should prepare an Environmental Impact Statement (EIS).

Response 18: As discussed in the section SUPPLEMENTARY of this rule, “New Hunting and Sport Fishing Programs,” we detail the steps which follow NEPA and ESA mandates. This final rule represents a compilation of the new refuges opening for this season and makes corrections to existing refuges listed in 50 CFR part 32. Each individual refuge, when making a determination as to whether or not to allow hunting and/or fishing, includes the appropriate NEPA and ESA Section 7 compliance when preparing an “opening package.” For each of the refuges included in the rulemaking, we prepared Environmental Assessments and determined that EISs were unnecessary. No changes were made to the regulation as a result of this comment.

The Service applies a categorical exclusion regarding the action of publishing the proposed and final rules. It does not assert a categorical exclusion regarding the opening or alteration of existing hunting or fishing programs. On the contrary, the Service complied with NEPA in each and every case in arriving at the decision to open or alter these programs. As we noted in the preamble to the proposed rule, we conduct all of the legally required compliance steps at each of the involved refuges before coordinating publication at the Headquarters level. It is the act of publishing the proposed rule, not the decisions regarding openings or alterations, which we categorically exclude. We also disagree with the commenter's opinion that the openings and alterations require an EIS.

Comment 19: Several commenters objected to the 30-day public comment period as being insufficient time for adequate public comment.

Response 19: We disagree that the comment period is insufficient. The process of opening refuges is done in stages, with the fundamental work being done on the ground at the refuge and in the community where the program is administered. In these stages, the public is given other opportunities to comment, for example, on the comprehensive conservation plans and the compatibility determinations. The second stage is when we publish the proposed rule in the Federal Register each summer for additional comment, commonly a 30-day comment period. There is nothing contained in this annual regulation outside the scope of the annual review process where we add refuges or determine whether individual refuges need modifications, deletions, or additions made to them. We make every attempt to collect all of the proposals from the refuges nationwide and process them expeditiously to maximize the time available for public review. We believe that a 30-day comment period, through the broader publication following the earlier public involvement, gives the public sufficient time to comment and allows us to establish hunting and fishing programs in time for the upcoming seasons. Many of these rules also relieve restrictions and allow the public to participate in wildlife-dependent recreational activities on a number of refuges. Even after issuance of a final rule, we accept comments, suggestions, and concerns for consideration for any appropriate subsequent rulemaking.

Comment 20: A commenter felt we believe that the Improvement Act provides carte blanche approval to us to open refuges to hunting and fishing and feels we have not ensured the availability of sufficient funds as the law requires.

Response 20: We do not agree with commenter's characterization that the Improvement Act provides carte blanche approval for hunting and fishing on refuges. That Act, amending the National Wildlife Refuge System Administration Act, maintained the requirement that all uses be found compatible before allowing them, and the Service adheres to that. Each of these uses has been found compatible. We do note, however, that the Improvement Act establishes a policy that compatible wildlife-dependent recreational uses (two of the six specifically named being hunting and fishing) are to be facilitated. Moreover, the Improvement Act requires the Secretary to recognize the wildlife-dependent recreational uses as the priority general public uses, ensure that opportunities for compatible wildlife-dependent uses are provided within the Refuge System, and provides increased opportunities for families to experience wildlife-dependent uses such as hunting and fishing.

The reference to the Refuge Recreation Act (16 U.S.C. 460k) regarding a finding on availability of funds is incorrect. The Improvement Act specifically exempts wildlife-dependent recreational uses from that requirement.

Comment 21: A commenter expressed concern that elk are being targeted as a threat to the Columbian white-tailed deer instead of cattle grazing at Julia Butler Hansen Refuge for the Columbian White-tailed Deer in Washington.

Response 21: Elk traditionally used the mainland unit of the refuge as a wintering area. Before 1978, their numbers were relatively small (20 to 30), and they stayed on the refuge for only 2 to 4 months. After 1978, both the numbers of elk and the length of time they spent on the refuge began increasing for unknown reasons. By 1983 there were an estimated 110 elk living year-round on the refuge.

The Service recognized the need to control elk numbers to minimize competition between the deer and the elk. The Columbian White-tailed Deer Recovery Team stated that the presence of elk on the refuge was not compatible with the recovery of the deer and recommended that elk be significantly reduced or eliminated (letter from Recovery Team to Division of Endangered Species, dated February 13, 1984). In 1984, we prepared an Environmental Assessment (USFWS 1984) for elk control, and a public meeting was held in Cathlamet, Washington. We evaluated several alternatives, and it was decided to proceed, with the support of Washington Department of Fish and Wildlife (WDFW), with transplanting the elk to other areas of Wahkiakum County, construction of a barrier fence along the northeast side of the refuge, and off-refuge hunting (the issuance of additional anterless permits in the management unit adjacent to the refuge). In the Proposed Alternative of the 1984 Environmental Assessment, the Service proposed that we allow a maximum of 20-30 elk on the refuge. The transplanting program began in 1984 and 38 elk were moved off the refuge. Since then, an additional 283 elk have been captured and relocated. Currently transplanting elk is no longer feasible because the WDFW has withdrawn their support for this option.

The primary refuge objective is to maintain the refuge in optimum condition for the Columbian White-Tailed Deer (CWTD). High elk numbers have the potential of causing significant damage to CWTD habitat through feeding and movement activities. Although a small herd of 20-30 animals may cause a level of damage that is tolerable to the deer, larger numbers can cause serious problems for the deer recovery effort. Despite the refuge's best efforts to exclude new elk from entering the refuge, each year some succeed. The herd also continues to grow due to the fact that calves are generally born every year.

Because the refuge's main purpose is to provide high-quality habitat for the CWTD, and because high numbers of elk in a relatively restricted environment can degrade deer browsing and resting areas, we must control elk population numbers on the refuge. Options for controlling the size of the elk herd are somewhat limited due to State concerns regarding relocation of animals and because of limited funds for moving elk.

Cattle grazing on the refuge, an important management tool for providing high-quality forage for the deer, control reed canary grass that the deer find unpalatable and allow more desirable grasses and clover to grow. We allow cattle grazing only in the spring and summer months and restrict them to small, fenced pastures. These pastures occupy less than 10 percent of the refuge land base. The deer prefer the pastures for feeding areas during the winter months. Cattle numbers on the refuge have been reduced over the past 10 years and are presently now at an all-time low. Elk, on the other hand, are free to roam throughout the refuge feeding on and trampling sensitive riparian areas.

Cattle grazing do not limit the growth of brush and trees on the refuge. Old fields that are not grazed become dominated by reed canary grass that outcompetes woody seedlings. The refuge is presently establishing brush and trees in old fields by plowing and planting saplings.

Columbian white-tailed deer numbers continue to hover at around 100 animals on the mainland unit. The refuge's stated goal for the mainland unit of the refuge is 200 animals. Control of elk numbers has been and continues to be an important component in recovery of the mainland population of CWTD.

Comment 22: With regard to Eastern Massachusetts refuges generally, several commenters expressed concern about sufficient use of local population estimates in setting take limits for the proposed list of hunted species. They feel the local populations of woodcock, ruffed grouse, and common snipe appear to be low and should not be hunted. The commenter also felt that use of archery should be promoted over firearm hunting due to the refuges' location in a suburban area.

Response 22: Woodcock and waterfowl (ducks and geese) populations are managed at a national level. The Service Migratory Bird Regulations Committee, comprised of flyway and State representatives, and Service personnel, annually prescribes frameworks, or outer limits, for dates and times when hunting may occur and the maximum number of birds that may be taken and possessed in early and late seasons. The length of hunting seasons, the number of permits issued, and bag limits are annually changed to reflect population status. Numerous and varied monitoring efforts are undertaken by a wide variety of organizations. The Service's Office of Migratory Bird Management conducts a number of surveys in conjunction with the Service's Regional Offices, the Canadian Wildlife Service, and State and Provincial wildlife-management agencies. For more information about migratory bird management, please consult their Web site at: http://migratorybirds.fws.gov/mgmt/mgmttbl.html.

The refuges have found both archery and shotgun hunting to be compatible. Refer to Comment/Response #6 for a further discussion of safety issues. The Eastern Massachusetts refuges exercise strict limitations on both the numbers of permits issued and where we allow hunting to minimize conflicts.

Comment 23: A commenter also felt that deer (and another commenter mentioned turkey) hunting at the Eastern Massachusetts refuges should be determined by wildlife and habitat inventories and management step-down plans. They felt that hunting permits and check stations would be crucial to the success of such a program.

Response 23: The hunting of resident species, such as deer, rabbits, and squirrels, falls within the responsibility of State fish and wildlife agencies, which also monitor and manage populations to ensure healthy ecosystems, sustainable populations, and a certain level of hunter success. We work in partnership with the Massachusetts Division of Fisheries and Wildlife and rely on their knowledge and expertise to determine the appropriateness of hunting seasons. We base any decisions we make to limit or prevent the harvest of resident species on any refuge on other refuge management concerns and not on a concern about the population of a given species. State fish and wildlife agencies have an excellent record of sound, professional wildlife management, and this is true in Massachusetts as well.

Refuge law enforcement staff will work independently, and in conjunction with State Environmental Police, to enforce State and Federal hunting regulations on the refuge.

The refuge will not provide check stations. Hunters will be required to tag and report harvested game according to State regulations.

Comment 24: Several commenters wondered about the archery-only “buffer” at Assabet River National Wildlife Refuge in Massachusetts and why that buffer was not extended to the eastern portion (Marlboro Road) of the refuge. A commenter also asked why specific areas of Assabet River were designated archery only.

Response 24: During the CCP process, based upon comments that the refuge received regarding Hudson Road and Stearns Lane, they made a revision to the hunting areas on the north section of the refuge. The area outside of the entire Patrol Road has been designated “Archery Only.” (The map currently published in the CCP and on the website does not reflect this change and will be updated).

Pertaining to the request for extension of the archery-only area east of Marlboro Road, the refuge weighs a number of factors before opening an area to hunting, including visitor safety considerations. The refuge manager may, upon annual review of the hunting program, impose further restrictions on hunting, recommend closure of the refuge to hunting, or further liberalize hunting within the limits of the State law. Restrictions will occur if hunting becomes inconsistent with other higher priority refuge programs or endangers refuge resources or public safety.

To mitigate some of the concerns about safety at Assabet River, the refuge manager wanted to keep all shotgun hunting within the confines of Patrol Road and Craven Lane, thus creating a clear landmark for hunters to orient themselves when participating in this priority use north of Hudson/Sudbury Road.

During the CCP process, some individuals expressed concerns about safety while using the refuge during hunting season and the assertion that the nonhunting public will not participate in other wildlife-dependent activities during the hunting seasons. Some people will be too uncomfortable to walk on the refuge during any hunt season. Others are or will become comfortable walking on the refuge during archery-only seasons. The refuge manager has a responsibility to facilitate all forms of wildlife-dependent public use on the refuges, when possible, and there may be days when people engaged in hunting will have preferential access to parts of the refuges.

Comment 25: A commenter asked that Assabet River Refuge specify how many hunting permits they will issue for each category of hunting and describe how they will advise hunters in the field of the boundaries of the hunting areas to avoid trespass on private property.

Response 25: Additional information about the application process and permits will be available on the respective refuge websites for Assabet River, Oxbow, and Great Meadows National Wildlife Refuges. We will encourage hunters to scout potential hunting areas in advance of their hunt in order to become familiar with refuge lands, boundaries, and hunting areas. We will provide refuge hunting regulations and maps with each permit to assist hunters in this effort to safely and legally participate in a hunt and minimize conflicts with refuge neighbors and refuge users. Ultimately, it is the hunters' responsibility to know where they are located on the refuge in order to comply with State laws and refuge specific regulations.

Comment 26: A commenter believes the Service has engaged in a pattern of compromising the biological and ecological integrity of our national wildlife refuges by providing hunters the opportunity to kill for fun and sport the deer, ducks, and a variety of other wildlife species that inhabit these refuges.

Response 26: We strongly disagree with and object to the allegations that we have compromised the biological and ecological integrity of the Refuge System and that we have not provided sufficient opportunities for nonconsumptive users of the System. The commenter has failed to take note of the repeated enactment of laws governing refuges whereby Congress has authorized and encouraged hunting and fishing on refuge lands. Those enactments recognize that all types of uses, consumptive as well as nonconsumptive, have their place on Refuge System lands, and we have taken steps that ensure those needs are balanced within the delegation given to the Secretary by them.

New Hunting and Sport Fishing Programs

In preparation for new openings, we include the following documents in each refuge's “opening package” (which the Region and/or California/Nevada Operations Office completes, the Regional Director and/or California/Nevada Operations Manager reviews, and the refuge copies and sends to the Headquarters Office for review of compliance with the various opening requirements): (1) Step-down management plan; (2) appropriate National Environmental Policy Act (NEPA) documentation (e.g., Categorical Exclusion, Environmental Assessment, or Environmental Impact Statement); (3) appropriate NEPA decision documentation (e.g., Finding of No Significant Impact, Record of Decision); (4) Endangered Species Act Section 7 evaluation; (5) copies of letters requesting State and, where appropriate, Tribal involvement and the results of the request(s); (6) draft news release; (7) outreach plan; and (8) draft refuge-specific regulation. Upon approval of these documents, the Regional Director(s) is certifying that the opening of these refuges to hunting and/or sport fishing has been found to be compatible with the principles of sound fish and wildlife management and administration and otherwise will be in the public interest.

In accordance with the Administration Act and Recreation Act, we have determined that these openings are compatible and consistent with the purpose(s) for which we established the respective refuges and the Refuge System mission. A copy of the compatibility determinations for these respective refuges is available by request to the Regional office noted under the heading “Available Information for Specific Refuges.”

The annotated chart below reflects the following changes for the 2005-2006 season. The key below the chart explains the symbols used:

Changes for 2005-2006 Hunt/Fish Season
Unit | State | Migratory bird hunting | Upland game hunting | Big game hunting | Sport fishing
Assabet River NWR | MA | A | A | A | A
Great Meadows NWR | MA | B |  | B | E
Moosehorn NWR | ME | B | B | C
Oxbow NWR | MA | C | C | B
Silvio O. Conte NWR | NH | A | A | A
Wertheim NWR | NY |  |  | B | Previously published.
Cahaba River NWR | AL |  | A | A | A
Julia Butler Hansen NWR | WA | Previously published |  | B
Stone Lakes NWR | CA | A
Glacial Ridge NWR | MN | A | A | A
Squaw Creek NWR | MO | B |  | Previously published | Previously published.
Sacramento River NWR | CA | B | B | B | D Previously published.
San Bernardino NWR | AZ | E | Previously published
Stewart B. McKinney NWR | CT | A
Pocasse NWR | SD |  | F
Rock Lake NWR | ND |  |  | F
A. Refuge added to part 32 and activity(ies) opened.
B. Refuge already listed in part 32; added hunt category.
C. Refuge already listed in part 32; species added to hunt category.
D. Refuge already listed in part 32; land added.
E. Refuge opened to that activity for many years but never listed in part 32; correcting administrative oversight.
F. Refuge removed from part 32 (explanation below).

We are adding 6 refuges to the list of open refuges in part 32 and increasing hunt categories at 7 refuges already listed in part 32.

Lands acquired as “waterfowl production areas,” which we generally manage as part of wetland management districts, are open to the hunting of migratory game birds, upland game, big game, and sport fishing subject to the provisions of State law and regulations (see 50 CFR 32.1 and 32.4). We are adding these existing wetland management districts (WMDs) to the list of refuges open for all four activities in 50 CFR part 32: Big Stone WMD and Minnesota Valley WMD (both in the State of Minnesota;) and Arrowwood WMD, Audubon WMD, Chase Lake WMD, Crosby WMD, J. Clark Salyer WMD, Kulm WMD, Lostwood WMD, Long Lake WMD, Tewaukon WMD, and Valley City WMD all in the State of North Dakota.

We are correcting the following administrative errors in 50 CFR part 32: we are removing Pocasse National Wildlife Refuge in the State of South Dakota because it was an easement refuge, and it is no longer a part of the Refuge System; we are removing Rock Lake National Wildlife Refuge in the State of North Dakota because it closed to hunting in 1996; we are adding Great Meadows in the State of Massachusetts as open to fishing as it has been open to that opportunity for years but this status has never been reflected in 50 CFR part 32; and we are adding migratory bird hunting to San Bernardino National Wildlife Refuge in the State of Arizona, because it has been open to that opportunity since 1986, but this status has not been reflected in 50 CFR part 32.

This document codifies in the Code of Federal Regulations, all of the Service's hunting and/or sport fishing regulations that are applicable at Refuge System units previously opened to hunting and/or sport fishing. We are doing this to better inform the general public of the requirements at each refuge, to increase understanding and compliance with these requirements, and to make enforcement of these regulations more efficient. In addition to now finding these conditions in 50 CFR part 32, visitors to our refuges will usually find these terms and conditions reiterated in literature distributed by each refuge or posted on signs.

We have cross-referenced a number of existing regulations in 50 CFR parts 26, 27, and 32 to assist hunting and sport fishing visitors with understanding safety and other legal requirements on refuges. This redundancy is deliberate, with the intention of improving safety and compliance in our hunting and sport fishing programs.

Fish Advisory

For health reasons, anglers should review and follow State-issued consumption advisories before enjoying recreational sport fishing opportunities on Service-managed waters. You can find information about current fish consumption advisories on the Internet at: http://www.epa.gov/ost/fish/.

We incorporate this regulation into 50 CFR part 32. Part 32 contains general provisions and refuge-specific regulations for hunting and sport fishing on refuges.

Regulatory Planning and Review

In accordance with the criteria in Executive Order 12866, the Service asserts that this rule is not a significant regulatory action. The Office of Management and Budget (OMB) makes the final determination under Executive Order 12866.

a. This rule will not have an annual economic effect of $100 million or adversely affect an economic sector, productivity, jobs, the environment, or other units of the government. A cost-benefit and full economic analysis is not required. However, a brief assessment follows to clarify the costs and benefits associated with the rule.

The purpose of this rule is to add six refuges to the list of areas open for hunting and/or sport fishing programs and increase the activities available at seven other refuges. The refuges are located in the States of Alabama, California, Connecticut, Maine, Massachusetts, Minnesota, Missouri, New Hampshire, New York, and Washington. Fishing and hunting are two of the wildlife-dependent uses of national wildlife refuges that Congress recognizes as legitimate and appropriate, and we should facilitate their pursuit, subject to such restrictions or regulations as may be necessary to ensure their compatibility with the purpose of each refuge. Many of the 545 existing national wildlife refuges already have programs where we allow fishing and hunting. Not all refuges have the necessary resources and landscape that would make fishing and hunting opportunities available to the public. By opening these refuges to new activities, we have determined that we can make quality experiences available to the public. This rule establishes hunting and/or fishing programs and expands existing activities at the following refuges: Cahaba River National Wildlife Refuge in Alabama, Sacramento River and Stone Lakes National Wildlife Refuges in California, Stewart B. McKinney National Wildlife Refuge in Connecticut, Moosehorn National Wildlife Refuge in Maine, Assabet River, Great Meadows, and Oxbow National Wildlife Refuges in Massachusetts, Glacial Ridge National Wildlife Refuge in Minnesota, Squaw Creek National Wildlife Refuge in Missouri, Silvio O. Conte National Wildlife Refuge in New Hampshire, Wertheim National Wildlife Refuge in New York, and Julia Butler Hansen Refuge for the Columbian White-Tailed Deer in Washington.

We are correcting the following administrative errors in 50 CFR part 32: We are removing Pocasse National Wildlife Refuge in the State of South Dakota as it was an easement refuge and is no longer a part of the Refuge System, and we are removing Rock Lake National Wildlife Refuge in the State of North Dakota, because it closed to hunting back in 1996. Since both of these closures happened years ago, and we are just correcting 50 CFR part 32 to reflect this, there is no appreciable economic impact.

Lands acquired as “waterfowl production areas,” which we generally manage as part of wetland management districts (WMDs), are open to the hunting of migratory game birds, upland game, big game, and sport fishing subject to the provisions of State law and regulations (see 50 CFR 32.1 and 32.4). We are adding these existing WMDs to the list of refuges open for all four activities in part 32 this year: Big Stone WMD and Minnesota Valley WMD, both in the State of Minnesota, and Arrowwood WMD, Audubon WMD, Chase Lake WMD, Crosby WMD, J. Clark Salyer WMD, Kulm WMD, Lostwood WMD, Long Lake WMD, Tewaukon WMD, and Valley City WMD, all in the State of North Dakota. We do not expect any change in visitation rates at these wetland management districts because recreationists currently have the option to participate in these activities. Therefore, there are no new economic impacts from the addition of these wetland management districts to the list in 50 CFR part 32.

Costs Incurred

Costs incurred by this regulation would be minimal, if any. We expect any law enforcement or other refuge actions related to recreational activities to be included in any usual monitoring of the refuge. Therefore, we expect any costs to be negligible.

Benefits Accrued

A correction has been made from the proposed rule concerning Squaw Creek National Wildlife Refuge (MO). The refuge expects an increase of 30 days during the Spring Conservation Order Season for migratory game birds, not an increase of 300 days. This corrected number impacts additional hunting days, total additional fishing and hunting days, and total days per year (Table 1); change in estimated customer surplus for hunters and change in total consumer surplus (Table 2); change of possible additional refuge expenditures for hunters (Table 3); and estimated maximum addition from new refuge and addition as a percentage of total for Squaw Creek (Table 4).

Benefits from this regulation would be derived from the new fishing and hunting days from opening the refuges to these activities. If the refuges establishing new fishing and hunting programs were a pure addition to the current supply of such activities, it would mean an estimated increase of 12,000 user days of fishing and 7,185 user days of hunting (Table 1). These new fishing and hunting days would generate: (1) Consumer surplus (the net benefit received by recreationists); and (2) expenditures associated with fishing and hunting on the refuges.

Table 1.—Estimated Change in Fishing and Hunting Opportunities in 2005/06
Refuge | Current hunting and/or fishing days (FY04) | Additional fishing days | Additional hunting days | Total additional fishing and hunting days
Assabet River |  | 3,000 | 130 | 3,130
Great Meadows | 49,050 |  | 125 | 125
Moosehorn | 43,500 |  | 985 | 985
Oxbow | 18,886 |  | 128 | 128
Silvio O. Conte |  |  | 65 | 65
Wertheim | 14,750 |  | 1,406 | 1,406
Cahaba River |  | 8,000 | 2,200 | 10,200
Julia Butler Hansen | 2,660 |  | 20 | 20
Stone Lakes |  |  | 14 | 14
Glacial Ridge |  |  | 87 | 87
Squaw Creek | 353 |  | 30 | 30
Sacramento River |  | 1,000 | 1,005 | 2,005
San Bernardino | 45 |  |  | 0
Stewart B. McKinney |  |  | 990 | 990
Total Days per Year | 129,244 | 12,000 | 7,185 | 19,185

Assuming the new days are a pure addition to the current supply, the additional days would create consumer surplus (CS) of approximately $906,000 annually ([7,185 days × $47.32 CS per day] + [12,000 days × $47.07 CS per day]) (Table 2). However, the participation trend is flat in fishing and hunting activities because the number of Americans participating in these activities has been stagnant since 1991. Any increase in the supply of these activities introduced by adding refuges where the activity is available will most likely be offset by other sites losing participants, especially if the new sites have higher quality fishing and/or hunting opportunities. Therefore, the additional consumer surplus is more likely to be smaller.

Table 2.—Estimated Change in Consumer Surplus From Additional Fishing and Hunting Opportunities in 2005/06
[2004 $]
| Fishing | Hunting | Total fishing and hunting
Total additional days | 12,000 | 7,185 | 19,185
Consumer surplus per day ¹ | $47.32 | $47.07 |
Change in total Consumer Surplus | $567,840 | $338,198 | $906,038
¹ Due to the unavailability of consistent consumer surplus estimates for these various site-specific activities, a national consumer surplus estimate is used for this analysis. The estimates are from: Pam Kaval and John Loomis. “Updated Outdoor Recreation Use Values with Emphasis on National Recreation.” October 2003.

In addition to benefits derived from consumer surplus, this rule would also have benefits from the recreation-related expenditures. Due to the unavailability of site-specific expenditure data, we use the national estimates from the 2001 National Survey of Fishing, Hunting, and Wildlife Associated Recreation to identify expenditures for food and lodging, transportation, and other incidental expenses. Using the average expenditures for these categories with the expected maximum additional participation on the Refuge System yields approximately $818,000 in fishing-related expenditures and $692,000 in hunting-related expenditures (Table 3).

Table 3.—Estimation of the Additional Expenditures With an Increase of Activities in Seven Refuges and the Opening of Six Refuges to Fishing and/or Hunting for 2005/06
| U.S. total expenditures in 2001 | Average expenditures per day | Current refuge expenditures w/o duplication | Possible additional refuge expenditures
Anglers
Total Days Spent | 557 Mil |  | 7.0 Mil | 12,000
Total Expenditures | 38.0 Bil | $68 | $453.6 Mil | $818,231
Trip Related | 15.6 Bil | 28 | $186.6 Mil | $336,549
Food and Lodging | 6.3 Bil | 11 | $74.9 Mil | $135,046
Transportation | 3.8 Bil | 7 | $44.8 Mil | $80,733
Other | 5.6 Bil | 10 | $66.9 Mil | $120,769
Hunters
Total Days Spent | 228 Mil |  | 2.4 Mil | 7,185
Total Expenditures | 22.0 Bil | $96 | $212.0 Mil | $691,676
Trip Related | 5.6 Bil | 25 | $54.0 Mil | $176,263
Food and Lodging | 2.6 Bil | 11 | $25.2 Mil | $82,216
Transportation | 1.9 Bil | 8 | $18.0 Mil | $60,047
Other | 1.1 Bil | 5 | $10.4 Mil | $33,999

By having ripple effects throughout the economy, these direct expenditures are only part of the economic impact of waterfowl hunting. Using a national impact multiplier for hunting activities (2.73) derived from the report “Economic Importance of Hunting in America” and a national impact multiplier for sportfishing activities (2.79) from the report “Sportfishing in America” for the estimated increase in direct expenditures yields a total economic impact of approximately $4.2 million (2004 dollars) (Southwick Associates, Inc., 2003). (Using a local impact multiplier would yield more accurate and smaller results. However, we employed the national impact multiplier due to the difficulty in developing local multipliers for each specific region.)

Since we know that most of the fishing and hunting occurs within 100 miles of a participant's residence, then it is unlikely that most of this spending would be “new” money coming into a local economy and, therefore, this spending would be offset with a decrease in some other sector of the local economy. The net gain to the local economies would be no more than $4.2 million, and most likely considerably less. Since 80 percent of the participants travel less than 100 miles to engage in hunting and fishing activities, their spending patterns would not add new money into the local economy and, therefore, the real impact would be on the order of $834,000 annually.

In summary, we estimate that the additional fishing and hunting opportunities would yield approximately $906,000 in consumer surplus and $834,000 in recreation-related expenditures annually. The 10-year quantitative benefit for this rule would be $17.4 million ($15.3 million discounted at 3 percent or $13.1 million discounted at 7 percent).

b. This rule will not create inconsistencies with other agencies' actions. This action pertains solely to the management of the Refuge System. The fishing and hunting activities located on national wildlife refuges account for approximately 1 percent of the available supply in the United States. Any small, incremental change in this supply will not measurably impact any other agencies' existing programs.

c. This rule will not materially affect entitlements, grants, user fees, loan programs, or the rights and obligations of their recipients. This rule does not affect entitlement programs. There are no grants or other Federal assistance programs associated with public use of national wildlife refuges.

d. This rule will not raise novel legal or policy issues. This rule opens six additional refuges for fishing and hunting programs and increases the activities available at seven other refuges. This rule continues the practice of allowing recreational public use of national wildlife refuges. Many refuges in the Refuge System currently have opportunities for the public to hunt and fish on refuge lands.

Regulatory Flexibility Act

Under the Regulatory Flexibility Act (as amended by the Small Business Regulatory Enforcement Fairness Act [SBREFA] of 1996) (5 U.S.C. 601, et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule would not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule would not have a significant economic impact on a substantial number of small entities.

This rule does not increase the number of recreation types allowed in the System but establishes hunting and/or fishing programs on six refuges and expands activities at seven other refuges. As a result, opportunities for wildlife-dependent recreation on national wildlife refuges will increase. The changes in the amount of allowed use are likely to increase visitor activity on these national wildlife refuges. But, as stated in the Regulatory Planning and Review section, this is likely to be a substitute site for the activity and not necessarily an increase in participation rates for the activity. To the extent visitors spend time and money in the area of the refuge that they would not have spent there anyway, they contribute new income to the regional economy and benefit local businesses.

Many small businesses within the retail trade industry (such as hotels, gas stations, taxidermy shops, bait and tackle shops, etc.) may benefit from some increased refuge visitation. A large percentage of these retail trade establishments in the majority of affected counties qualify as small businesses (Table 4).

We expect that the incremental recreational opportunities will be scattered, and so we do not expect that the rule will have a significant economic effect (benefit) on a substantial number of small entities in any region or nationally. Using the estimate derived in the Regulatory Planning and Review section, we expect approximately $834,000 to be spent in total in the refuges' local economies. The maximum increase ($4.2 million if all spending is new money) at most would be less than 1 percent for local retail trade spending (Table 4).

Table 4.—Comparative Expenditures for Retail Trade Associated With Additional Refuge Visitation for 2005/2006
Refuge/County(ies) | Retail trade in 1997 (2004 dollars in millions) | Estimated maximum addition from new refuge | Addition as a percent of total | Total number retail establish | Establish with <10 emp
Assabet River
Middlesex, MA | 17,021.1 | $148,079 | 0.0009 | 5,701 | 3,697
Great Meadows
Middlesex, MA | 17,021.1 | 5,884 | 0.0001 | 5,701 | 3,697
Moosehorn
Washington, ME | 306,233.4 | 46,364 | 0.0151 | 281 | 206
Oxbow
Middlesex, MA | 17,021.1 | 3,012 | 0.0001 | 5,701 | 3,697
Worcester, MA | 7,334.4 | 3,012 | 0.0001 | 2,796 | 1,896
Silvio O. Conte
Coos, NH | 498.8 | 3,060 | 0.0006 | 293 | 218
Wertheim
Suffolk, NY | 15,900.2 | 66,180 | 0.0004 | 8,946 | 6,904
Cahaba River
Bibb, AL | 90.8 | 482,114 | 0.5307 | 69 | 51
Julia Butler Hansen
Wahkiakum, WA | 8.6 | 471 | 0.0054 | 25 | 21
Clatsop, OR | 391.2 | 471 | 0.0001 | 407 | 291
Stone Lakes
Sacramento, CA | 11,183.2 | 659 | 0.0001 | 5,555 | 3,573
Glacial Ridge
Polk, MN | 249.2 | 4,095 | 0.0016 | 203 | 131
Squaw Creek
Holt, MO | 46.4 | 1,412 | 0.0030 | 32 | 22
Sacramento River
Butte, CA | 1,768.5 | 94,625 | 0.0054 | 1,095 | 736
San Bernardino
Cochise, AZ | 838.1 | 0 | 0.0001 | 628 | 439
Stewart B. McKinney
New Haven, CT | 9,092.1 | 23,300 | 0.0003 | 4,852 | 3,424
Fairfield, CT | 13,610.1 | 23,300 | 0.0002 | 5,672 | 3,994

With the small increase in overall spending anticipated from this rule, it is unlikely that a substantial number of small entities will have more than a small benefit from the increased spending near the affected refuges. Therefore, we certify that this rule will not have a significant economic effect on a substantial number of small entities as defined under the Regulatory Flexibility Act (5 U.S.C. 601 et seq.). An initial/final Regulatory Flexibility Analysis is not required. Accordingly, a Small Entity Compliance Guide is not required.

Small Business Regulatory Enforcement Fairness Act

The rule is not a major rule under 5 U.S.C. 804(2), the Small Business Regulatory Enforcement Fairness Act. We anticipate no significant employment or small business effects. This rule:

a. Does not have an annual effect on the economy of $100 million or more. The additional fishing and hunting opportunities at the seven refuges would generate angler and hunter expenditures with an economic impact estimated at $4.2 million per year (2004 dollars). Consequently, the maximum benefit of this rule for businesses both small and large would not be sufficient to make this a major rule. The impact would be scattered across the country and would most likely not be significant in any local area.

b. Will not cause a major increase in costs or prices for consumers, individual industries, Federal, State, or local government agencies, or geographic regions. This rule will have only a slight effect on the costs of hunting and fishing opportunities for Americans. Under the assumption that any additional hunting and fishing opportunities would be of high quality, participants would be attracted to the refuge. If the refuge is closer to the participants' residences, then a reduction in travel costs would occur and benefit the participants. The Service does not have information to quantify this reduction in travel cost but assumes that, since most people travel fewer than 100 miles to hunt and fish, the reduced travel cost would be small for the additional days of hunting and fishing generated by this rule. We do not expect this rule to affect the supply or demand for fishing and hunting opportunities in the United States and, therefore, it should not affect prices for fishing and hunting equipment and supplies, or the retailers that sell equipment. Additional refuge hunting and fishing opportunities would account for less than 0.001 percent of the available opportunities in the United States.

c. Does not have significant adverse effects on competition, employment, investment, productivity, innovation, or the ability of United States-based enterprises to compete with foreign-based enterprises. This rule represents only a small proportion of recreational spending of a small number of affected anglers and hunters, approximately a maximum of $4.2 million annually in impact. Therefore, this rule will have no measurable economic effect on the wildlife-dependent industry, which has annual sales of equipment and travel expenditures of $72 billion nationwide. Refuges that establish hunting and fishing programs may hire additional staff from the local community to assist with the programs, but this would not be a significant increase because we are only opening six refuges to hunting and/or fishing and only seven refuges are increasing programs by this rule.

Unfunded Mandates Reform Act

Since this rule applies to public use of federally owned and managed refuges, it does not impose an unfunded mandate on State, local, or tribal governments or the private sector of more than $100 million per year. The rule does not have a significant or unique effect on State, local, or tribal governments or the private sector. A statement containing the information required by the Unfunded Mandates Reform Act (2 U.S.C. 1531 et seq.) is not required.

Takings (Executive Order 12630)

In accordance with Executive Order 12630, the rule does not have significant takings implications. This regulation will affect only visitors at national wildlife refuges and describe what they can do while they are on a refuge.

Federalism (Executive Order 13132)

As discussed in the Regulatory Planning and Review and Unfunded Mandates Reform Act sections above, this rule does not have sufficient federalism implications to warrant the preparation of a Federalism Assessment under Executive Order 13132. In preparing this rule, we worked with State governments.

Civil Justice Reform (Executive Order 12988)

In accordance with Executive Order 12988, the Office of the Solicitor has determined that the rule does not unduly burden the judicial system and that it meets the requirements of sections 3(a) and 3(b)(2) of the Order. The regulation will clarify established regulations and result in better understanding of the regulations by refuge visitors.

Energy Supply, Distribution or Use (Executive Order 13211)

On May 18, 2001, the President issued Executive Order 13211 on regulations that significantly affect energy supply, distribution, and use. Executive Order 13211 requires agencies to prepare Statements of Energy Effects when undertaking certain actions. Because this rule opens six refuges to hunting and/or sport fishing programs and makes minor changes to other refuges open to those activities, it is not a significant regulatory action under Executive Order 12866 and is not expected to significantly affect energy supplies, distribution, and use. Therefore, this action is a not a significant energy action and no Statement of Energy Effects is required.

Consultation and Coordination With Indian Tribal Governments (Executive Order 13175)

In accordance with Executive Order 13175, we have evaluated possible effects on federally recognized Indian tribes and have determined that there are no effects. We coordinate recreational use on national wildlife refuges with tribal governments having adjoining or overlapping jurisdiction before we propose the regulations. This regulation is consistent with and not less restrictive than tribal reservation rules.

Paperwork Reduction Act

This regulation does not contain any information collection requirements other than those already approved by the Office of Management and Budget under the Paperwork Reduction Act (44 U.S.C. 3501 et seq.) (OMB Control Number is 1018-0102). See 50 CFR 25.23 for information concerning that approval. An agency may not conduct or sponsor and a person is not required to respond to a collection of information unless it displays a currently valid OMB control number. We are seeking further OMB approval for other necessary information collection.

Endangered Species Act Section 7 Consultation

In preparation for new openings, we include Section 7 consultation documents approved by the Service's Endangered Species program in the refuge's “openings package” for Regional review and approval from the Headquarters Office. We reviewed the changes in hunting and fishing regulations herein with regard to Section 7 of the Endangered Species Act of 1973 (16 U.S.C. 1531-1544, as amended) (ESA). For the national wildlife refuges opening for hunting and/or fishing, we have determined that Moosehorn National Wildlife Refuge (bald eagle), Wertheim National Wildlife Refuge, Cahaba River National Wildlife Refuge, Julia Butler Hansen National Wildlife Refuge (Columbia white-tailed deer and bald eagle), Glacial Ridge National Wildlife Refuge, Squaw Creek National Wildlife Refuge (bald eagle), and Sacramento River National Wildlife Refuge will not likely adversely affect any endangered or threatened species or designated critical habitat; and Assabet River National Wildlife Refuge, Great Meadows National Wildlife Refuge, Moosehorn National Wildlife Refuge (Atlantic salmon), Oxbow National Wildlife Refuge, Silvio O. Conte National Wildlife Refuge, Julia Butler Hansen National Wildlife Refuge (marbled murrelet, northern spotted owl, bull trout, howellia, Nelson's checkermallow, streaked horned lark), Stewart B. McKinney National Wildlife Refuge, Squaw Creek National Wildlife Refuge (piping plover and least tern), and Stone Lakes National Wildlife Refuge will not affect any endangered or threatened species or designated critical habitat; and Squaw Creek National Wildlife Refuge (Eastern Massasauga rattlesnake) is not likely to jeopardize candidate or proposed species critical habitat.

We also comply with Section 7 of the ESA when developing Comprehensive Conservation Plans (CCPs) and step-down management plans for public use of refuges, and prior to implementing any new or revised public recreation program on a refuge as identified in 50 CFR 26.32. We also make determinations when required by the ESA before the addition of a refuge to the lists of areas open to hunting or fishing as contained in 50 CFR 32.7.

National Environmental Policy Act

We analyzed this rule in accordance with the criteria of the National Environmental Policy Act of 1969 (NEPA) (42 U.S.C. 4332(C)) and 516 DM 6, Appendix 1. This rule does not constitute a major Federal action significantly affecting the quality of the human environment. An environmental impact statement/assessment is not required.

A categorical exclusion from NEPA documentation applies to this amendment of refuge-specific hunting and fishing regulations since it is technical and procedural in nature, and the environmental effects are too broad, speculative, or conjectural to lend themselves to meaningful analysis (516 DM 2, Appendix 1.10).

Prior to the addition of a refuge to the list of areas open to hunting and fishing in 50 CFR part 32, we develop hunting and fishing plans for the affected refuges. We incorporate these proposed refuge hunting and fishing activities in the refuge CCPs and/or other step-down management plans, pursuant to our refuge planning guidance in 602 FW 1, 3, and 4. We prepare these CCPs and step-down plans in compliance with section 102(2)(C) of NEPA, and the Council on Environmental Quality's regulations for implementing NEPA in 40 CFR parts 1500-1508. We invite the affected public to participate in the review, development, and implementation of these plans.

Available Information for Specific Refuges

Individual refuge headquarters retain information regarding public use programs and conditions that apply to their specific programs and maps of their respective areas. You may also obtain information from the regional offices at the addresses listed below:

Region 1—California, Hawaii, Idaho, Nevada, Oregon, and Washington. Regional Chief, National Wildlife Refuge System, U.S. Fish and Wildlife Service, Eastside Federal Complex, Suite 1692, 911 NE. 11th Avenue, Portland, Oregon 97232-4181; Telephone (503) 231-6214.

California/Nevada Operations Office—Assistant Manager, National Wildlife Refuge System, U.S. Fish and Wildlife Service, 2800 Cottage Way, Room W-2606, Sacramento, California 95825; Telephone (916) 414-6464

Stone Lakes National Wildlife Refuge; 1624 Hood-Franklin Road, Elk Grove, California 95757-9774; Telephone (916) 775-4421.

Region 2—Arizona, New Mexico, Oklahoma, and Texas. Regional Chief, National Wildlife Refuge System, U.S. Fish and Wildlife Service, Box 1306, 500 Gold Avenue, Albuquerque, New Mexico 87103; Telephone (505) 248-7419.

Region 3—Illinois, Indiana, Iowa, Michigan, Minnesota, Missouri, Ohio, and Wisconsin. Regional Chief, National Wildlife Refuge System, U.S. Fish and Wildlife Service, 1 Federal Drive, Federal Building, Fort Snelling, Twin Cities, Minnesota 55111; Telephone (612) 713-5401.

Glacial Ridge National Wildlife Refuge, c/o Rydell National Wildlife Refuge, 17788 349th Street, SE., Erskine, Minnesota 56535; Telephone (218) 687-2229.

Region 4—Alabama, Arkansas, Florida, Georgia, Kentucky, Louisiana, Mississippi, North Carolina, Tennessee, South Carolina, Puerto Rico, and the Virgin Islands. Regional Chief, National Wildlife Refuge System, U.S. Fish and Wildlife Service, 1875 Century Boulevard, Atlanta, Georgia 30345; Telephone (404) 679-7166.

Cahaba River National Wildlife Refuge; 291 Jimmy Parks Blvd., Anniston, Alabama 36205; Telephone (256) 848-7085.

Region 5—Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, Massachusetts 01035-9589; Telephone (413) 253-8306.

Assabet River National Wildlife Refuge, c/o Eastern Massachusetts National Wildlife Refuge Complex, 73 Weir Hill Road, Sudbury, Massachusetts 01776; Telephone (978) 443-4661.

Silvio O. Conte National Wildlife Refuge, 52 Avenue A, Turners Falls, Massachusetts 01376; Telephone (413) 863-0209.

Stewart B. McKinney National Wildlife Refuge, P.O. Box 1030, 733 Old Clinton Road, Westbrook, Connecticut 06498; Telephone (860) 399-2513.

Region 6—Colorado, Kansas, Montana, Nebraska, North Dakota, South Dakota, Utah, and Wyoming. Regional Chief, National Wildlife Refuge System, U.S. Fish and Wildlife Service, 134 Union Blvd., Lakewood, Colorado 80228; Telephone (303) 236-8145.

Region 7—Alaska. Regional Chief, National Wildlife Refuge System, U.S. Fish and Wildlife Service, 1011 E. Tudor Rd., Anchorage, Alaska 99503; Telephone (907) 786-3545.

Primary Author

The primary author of this rulemaking document is Leslie A. Marler, Management Analyst, Division of Conservation Planning and Policy, National Wildlife Refuge System, U.S. Fish and Wildlife Service, Arlington, Virginia 22203.

List of Subjects

50 CFR Part 32

Fishing, Hunting, Reporting and recordkeeping requirements, Wildlife, Wildlife refuges.

For the reasons set forth in the preamble, we amend Title 50, Chapter I, subchapter C of the Code of Federal Regulations as follows:

PART 32—HUNTING AND FISHING

1. The authority citation for part 32 continues to read as follows:

Authority: 5 U.S.C. 301; 16 U.S.C. 460k, 664, 668dd-668ee, and 715i.

§ 32.7 [Amended]

2. Amend § 32.7 “What refuge units are open to hunting and/or sport fishing?” by:

a. Adding the listing of Cahaba River National Wildlife Refuge in the State of Alabama;

b. Adding the listings of Sacramento River and Stone Lakes National Wildlife Refuges in the State of California;

c. Adding the listing of Stewart B. McKinney National Wildlife Refuge in the State of Connecticut;

d. Adding the listing of Assabet River National Wildlife Refuge in the State of Massachusetts;

e. Adding the listings of Big Stone Wetland Management District, Glacial Ridge National Wildlife Refuge, and Minnesota Valley Wetland Management in the State of Minnesota;

f. Adding the listing of Silvio O. Conte National Wildlife Refuge in the State of New Hampshire; and

g. Adding the listings of Arrowwood Wetland Management District, Audubon Wetland Management District, Chase Lake Wetland Management District, Crosby Wetland Management District, J. Clark Salyer Wetland Management District, Kulm Wetland Management District, Lostwood Wetland Management District, Long Lake Wetland Management District, Tewaukon Wetland Management District, and Valley City Wetland Management District in the State of North Dakota.

3. Amend § 32.20 Alabama by:

a. Adding Cahaba River National Wildlife Refuge; and

b. Revising the introductory text of paragraph C. and adding paragraph C.9. of Wheeler National Wildlife Refuge to read as follows:

§ 32.20 Alabama.

* * * * *

Cahaba River National Wildlife Refuge

A. Migratory Game Bird Hunting. [Reserved]

B. Upland Game Hunting. We allow hunting of quail, squirrel, rabbit, opossum, raccoon, coyote, and bobcat on designated areas of the refuge in accordance with State regulations subject to the following conditions:

1. You must possess and carry a signed hunt permit when hunting.

2. We prohibit hunting within 100 yards (90 m) of River Road.

3. We prohibit ATVs, mules, and horses on the refuge.

4. We allow the use of dogs to hunt upland game, but the dogs must be under the immediate control of the handler at all times and not allowed to run free (see § 26.21(b) of this chapter).

5. We allow shotguns with #4 shot or smaller, rifles firing .22 caliber rimfire ammunition, or archery equipment.

C. Big Game Hunting. We allow the hunting of white-tailed deer, feral hog, and wild turkey on designated areas of the refuge in accordance with State regulations subject to the following conditions:

1. You must possess and carry a signed hunt permit when hunting.

2. We only allow the use of archery equipment during white-tailed deer season.

3. We prohibit marking trees and the use of flagging tape, reflective tacks, and other similar marking devices.

4. We prohibit damaging trees or hunting from a tree that contains an inserted metal object (see § 27.51 of this chapter). Hunters must remove stands from trees after each day's hunt (see §§ 27.93 and 27.94 of this chapter).

5. We require tree stand users to use a safety belt or harness.

6. We prohibit the use of dogs for hunting or pursuit of big game.

7. Conditions B2 and B3 apply.

D. Sport Fishing. We allow sport fishing on designated areas of the refuge in accordance with State regulations subject to the following conditions:

1. We prohibit the taking of frog or turtle (see § 27.21 of this chapter).

2. Condition B3 applies.

* * * * *

Wheeler National Wildlife Refuge

* * * * *

C. Big Game Hunting. We allow the hunting of white-tailed deer and feral hog on designated areas of the refuge in accordance with State regulations subject to the following conditions:

* * * * *

9. You may only hunt feral hog during the refuge archery and flintlock deer season.

* * * * *

4. Amend § 32.22 Arizona by:

a. Revising paragraph B.1. of Bill Williams National Wildlife Refuge;

b. Revising Havasu National Wildlife Refuge;

c. Revising the introductory text of paragraphs A. and B., revising paragraphs B.2. through B.5., and revising paragraphs C. and D. of Imperial National Wildlife Refuge;

d. Revising paragraph A., revising the introductory text of paragraph B., and revising paragraph B.1. of San Bernardino National Wildlife Refuge to read as follows:

§ 32.22 Arizona.

* * * * *

Bill Williams National Wildlife Refuge

* * * * *

B. Upland Game Hunting. * * *

1. Conditions A1 through A7 apply.

* * * * *

Havasu National Wildlife Refuge

A. Hunting of Migratory Game Birds. We allow hunting of mourning and whitewinged dove, duck, coot, moorhen, goose, and common snipe on designated areas of the refuge in accordance with State regulations subject to the following conditions:

1. We prohibit falconry.

2. You may possess only approved nontoxic shot while in the field (see § 32.2(k)).

3. You may not hunt within 50 yards (45m) of any building or public road.

4. We prohibit target shooting or the discharge of any weapon except to hunt.

5. We prohibit possession of firearms except while hunting.

6. We prohibit the construction or use of pits and permanent blinds (see § 27.92 of this chapter).

7. You must remove temporary blinds, boats, hunting equipment, and decoys from the refuge following each day's hunt (see §§ 27.93 and 27.94 of this chapter).

8. We prohibit retrieving game from closed areas. You may retrieve game from areas closed to hunting, but otherwise open to entry, as long as you possess no firearms or other means of take.

9. Anyone hired to assist or guide hunter(s) must obtain, possess, and carry a valid Special Use Permit issued by the refuge manager.

10. We prohibit hunting on those refuge lands within the Lake Havasu City limits.

11. The following conditions apply only to Pintail Slough (all refuge lands north of North Dike):

i. We require a fee for waterfowl hunting. You must possess proof of payment (refuge permit) while hunting.

ii. Waterfowl hunters must hunt within 25 feet (7.5 m) of the numbered post of their assigned blind.

iii. We limit the number of persons at each waterfowl hunt blind to three. Observers cannot hold shells or guns unless in possession of a valid State hunting license and stamps.

iv. We limit the number of shells a waterfowl hunter may possess to 25.

v. Waterfowl hunters must possess at least 12 decoys per blind.

vi. You may use only dead vegetation or materials brought from off refuge for making or fixing hunt blinds. We prohibit the cutting, pulling, marking or removing vegetation (see § 27.51 of this chapter).

vii. Waterfowl hunters must be at their blind at least 45 minutes before legal shoot time and not leave their blind until 10:00 am MST.

viii. Waterfowl hunting ends at 12:00 p.m. (noon) MST. Hunters must be out of the slough area by 1:00 p.m. MST.

ix. We allow hunting in the juniors-only waterfowl season.

x. We allow dove hunting only during the September season.

12. The following conditions apply to all waters of the lower Colorado River within the Havasu NWR:

i. We close designated portions of Topock Marsh to all entry from October 1 through the last day of the waterfowl hunt season (including the State junior waterfowl hunt). These areas are indicated in refuge brochures and identified by buoys and/or signs.

ii. We prohibit hunting in the waters of the Colorado River and on those refuge lands within 1/4 mile (.4 km) of the waters of the Colorado River from and including Castle Rock Bay north to Interstate 40.

iii. We allow hunting on refuge lands and waters south of Castle Rock Bay to the north boundary of the Lake Havasu City limits.

B. Upland Game Hunting. We allow hunting of quail and cottontail rabbit on designated areas of the refuge in accordance with State regulations subject to the following conditions:

1. Conditions A1 through A10, A11vi., and A12 apply.

2. We prohibit the possession or use of rifles.

3. We allow hunting of quail in Pintail Slough prior to and following the State waterfowl season (The State waterfowl season includes the State general waterfowl season, the days between the juniors-only waterfowl hunt and the general State waterfowl season, and the juniors-only waterfowl hunt.).

4. We allow hunting of cottontail rabbit in Pintail Slough prior to and following the State waterfowl season (The State waterfowl season includes the State general waterfowl season, the days between the juniors-only waterfowl hunt and the general State waterfowl season, and the juniors-only waterfowl hunt.).

C. Big Game Hunting. We allow hunting of bighorn sheep on those refuge lands in Arizona Wildlife Management Area 16B in accordance with State regulations subject to the following conditions:

1. Conditions A3 through A9 and A12ii apply.

D. Sport Fishing. We allow fishing on designated areas of the refuge in accordance with State regulations (Colorado River specific regulations apply) subject to the following conditions:

1. We prohibit the use of all air-thrust boats or air-cooled propulsion engines, including floating aircraft.

2. We prohibit overnight boat mooring and shore anchoring unless actively fishing as defined by State regulations (see § 27.93 of this chapter).

3. Anyone hired to assist or guide anglers must obtain, possess, and carry a valid Special Use Permit issued by the refuge manager.

4. The following apply only on Topock Marsh:

i. We close designated portions to all entry from October 1 through the last day of the waterfowl hunt season (including the State junior waterfowl hunt).

ii. We close designated portions to all entry from April 1 through August 31. These areas are indicated in refuge brochures and identified by buoys and or signs.

iii. We prohibit personal watercraft (PWC, as defined by State law).

5. The following apply to all waters of the Colorado River within Havasu NWR from the south regulatory buoy line to the north regulatory buoy line at Interstate 40 (approximately 17 miles [27.2 km]).

i. We prohibit personal watercraft (PWC, as defined by State law) as indicated by signs or regulatory buoys in all backwaters.

ii. We limit watercraft speed as indicated by signs or regulatory buoys to no wake (as defined by State law) in all backwaters.

iii. We prohibit water-skiing, tubing, wake boarding, or other recreational-towed devices.

6. The following apply to the Mesquite Bay areas of Lake Havasu.

i. We prohibit entry of all watercraft (as defined by State law) in all three bays as indicated by signs or regulatory buoys.

ii. The Mesquite Bays are Day Use Only areas and open from 1 hour before legal sunrise to 1 hour after legal sunset.

Imperial National Wildlife Refuge

A. Hunting of Migratory Game Birds. We allow hunting of mourning and white-winged dove, duck, coot, moorhen, goose, and common snipe on designated areas of the refuge subject to the following conditions:

* * * * *

B. Upland Game Hunting. We allow hunting of quail, cottontail rabbit, coyote, and fox on designated areas of the refuge subject to the following conditions:

* * * * *

2. You may possess only approved nontoxic shot while hunting quail and cottontail rabbit (see § 32.2(k).

3. We allow cottontail rabbit hunting from September 1 to the close of the State quail season.

4. We require Special Use Permits for hunting coyote and fox.

5. We allow coyote and fox hunting only during the State quail season.

C. Big Game Hunting. We allow hunting of mule deer and desert bighorn sheep on designated areas of the refuge.

D. Sport Fishing. We allow fishing and frogging for bullfrog on designated areas of the refuge subject to the following condition: We close posted portions of Martinez Lake and Ferguson Lake to entry from October 1 through the last day of February.

* * * * *

San Bernardino National Wildlife Refuge

A. Migratory Game Bird Hunting. We allow hunting of mourning and white-winged dove on designated areas of the refuge in accordance with State regulations subject to the following conditions:

1. We allow only shotguns.

2. You may possess only approved nontoxic shot while in the field (see § 32.2(k)).

B. Upland Game Hunting. We allow hunting of quail and cottontail rabbit on designated areas of the refuge in accordance with State regulations subject to the following conditions:

1. Conditions A1 and A2 apply.

* * * * *

5. Amend § 32.23 Arkansas by:

a. Revising paragraphs A.10., A.13., and adding paragraph A.21., revising paragraph B.1., revising paragraph C.1., adding paragraph C.15., and revising paragraph D.4. of Felsenthal National Wildlife Refuge;

b. Adding paragraphs B.11. and B.12., revising paragraph C.1., C.4., and D.1. of Holla Bend National Wildlife Refuge;

c. Revising paragraphs A.10., A.13., and adding paragraph A.20., revising paragraphs B.1., C.1., and adding paragraph C.11. of Overflow National Wildlife Refuge; and

d. Revising paragraphs A.8. and A.11., adding paragraph A.19., revising paragraphs B.3. and C.2., adding paragraph C.16., and revising paragraph D.3. of Pond Creek National Wildlife Refuge to read as follows:

§ 32.23 Arkansas.

* * * * *

Felsenthal National Wildlife Refuge

A. Migratory Game Bird Hunting. * * *

* * * * *

10. We prohibit possession or use of alcoholic beverage(s) while hunting (see § 32.2(j)). We prohibit consumption or possession of opened container(s) of alcoholic beverage(s) in parking lots, on roadways, and in plain view in campgrounds.

* * * * *

13. We only allow ATVs for wildlife-dependent activities such as hunting and fishing. We restrict ATVs to designated times and designated trails (see § 27.31 of this chapter) marked with signs and paint. We identify these trails and the dates they are open for use in the refuge hunt brochure. We limit ATVs to those having an engine displacement size not exceeding 700cc. We limit ATV tires to those having a centerline lug depth not exceeding 1 inch (2.5 cm). You may use horses on roads and ATV trails (when open to motor vehicle and ATV traffic respectively) as a mode of transportation for on-refuge, wildlife-dependent activities.

* * * * *

21. We prohibit the use or possession of any electronic call or other electronic device used for producing or projecting vocal sounds of any wildlife species.

B. Upland Game Hunting. * * *

1. Conditions A4 through A18, A20, and A21 apply.

* * * * *

C. Big Game Hunting. * * *

1. Conditions A6, A8 through A11, A13 through A18, A20, and A21 apply.

* * * * *

15. We prohibit the use of deer decoy(s).

D. Sport Fishing. * * *

* * * * *

4. We prohibit consumption or possession of opened container(s) of alcoholic beverage(s) in parking lots, on roadways, and in plain view in campgrounds (see § 32.2(j)).

Holla Bend National Wildlife Refuge

* * * * *

B. Upland Game Hunting. * * *

* * * * *

11. Hunters must enter and exit the refuge from designated roads and parking areas.

12. We prohibit hunting within 150 feet (45 m) of roads and trails open to public use.

C. Big Game Hunting. * * *

1. Conditions B1 and B4 through B12 apply.

* * * * *

4. The firearms spring youth hunt for turkey is the same as the State. We restrict hunting to youths under age 16. One adult age 18 or older must accompany one youth hunter. We must receive applications for hunts by the last day of January.

* * * * *

D. Sport Fishing. * * *

1. Conditions B6, B7, B8, and B10 apply.

* * * * *

Overflow National Wildlife Refuge

A. Migratory Game Bird Hunting. * * *

* * * * *

10. We prohibit possession or use of alcoholic beverage(s) while hunting (see § 32.2(j)). We prohibit consumption or possession of opened container(s) of alcoholic beverage(s) in parking areas and on roadways.

* * * * *

13. We only allow ATVs for wildlife-dependent activities such as hunting and fishing. We restrict ATVs to designated times and designated trails (see § 27.31 of this chapter) marked with signs and paint. We identify those trails and the dates they are open for use in the refuge hunt brochure. We limit ATVs to those having an engine displacement size not exceeding 700cc. We limit ATV tires to those having a centerline lug depth not exceeding 1 inch (2.5 cm). You may use horses on roads and ATV trails (when open to motor vehicle and ATV traffic respectively) as a mode of transportation for on-refuge, wildlife-dependent activities. You may use ATVs on unmarked roads and levees in the North Sanctuary beginning 2 days prior to the opening of deer archery season through October 31.

* * * * *

20. We prohibit the use or possession of any electronic call or other electronic device used for producing or projecting vocal sounds of any wildlife species.

B. Upland Game Hunting. * * *

1. Conditions A4 through A17, A19, and A20 apply.

* * * * *

C. Big Game Hunting. * * *

1. Conditions A5 through A11, A13 through A17, A19, and A20 apply.

* * * * *

11. We prohibit the use of deer decoy(s).

* * * * *

Pond Creek National Wildlife Refuge

A. Migratory Game Bird Hunting. * * *

* * * * *

8. We prohibit possession or use of alcoholic beverage(s) while hunting (see § 32.2(j)). We prohibit consumption or possession of opened container(s) of alcoholic beverage(s) in parking lots, on roadways, and in plain view in campgrounds.

* * * * *

11. We only allow ATVs for wildlife-dependent activities such as hunting and fishing. We restrict ATVs to designated times and designated trails (see § 27.31 of this chapter) marked with signs and paint. We identify those trails and the dates they are open for use in the refuge hunt brochure. We limit ATVs to those having an engine displacement size not exceeding 700cc. We limit ATV tires to those having a centerline lug depth not exceeding 1 inch (2.5 cm). You may use horses on roads and ATV trails (when open to motor vehicle and ATV traffic respectively) as a mode of transportation for on-refuge, wildlife-dependent activities.

* * * * *

19. We prohibit the use or possession of any electronic call or other electronic device used for producing or projecting vocal sounds of any wildlife species.

B. Upland Game Hunting. * * *

* * * * *

3. Conditions A4 through A16, A18, and A19 apply.

* * * * *

C. Big Game Hunting. * * *

* * * * *

2. Conditions A4, A5 (for archery deer and muzzleloader deer hunts and spring turkey hunts), A6 through A9, A11 through A16, A18, and A19 apply.

* * * * *

16. We prohibit the use of deer decoy(s)

D. Sport Fishing. * * *

* * * * *

3. We prohibit consumption or possession of opened container(s) of alcoholic beverage(s) in parking lots, on roadways, and in plain view in campgrounds (see § 32.2(j)).

* * * * *

6. Amend § 32.24 California by:

a. Revising paragraphs A.2. through A.9. and adding paragraph A.10. of Don Edwards San Francisco Bay National Wildlife Refuge;

b. Revising Sacramento River National Wildlife Refuge; and

c. Alphabetically adding Stone Lakes National Wildlife Refuge to read as follows:

§ 32.24 California.

* * * * *

Don Edwards San Francisco Bay National Wildlife Refuge

A. Migratory Game Bird Hunting. * * *

* * * * *

2. We allow hunting in the 17 salt evaporation ponds listed below. These ponds are surrounded by levees and were formerly part of the San Francisco Bay. We have not opened any other ponds.

i. Ponds R1 and R2 in the Ravenswood Unit. These ponds are located on the west side of the Dumbarton Bridge between Ravenswood Slough and Highway 84. You may access these ponds only by foot or bicycle from either of two trailheads off Highway 84. We prohibit hunting within 300 feet (90 m) of Highway 84. These ponds will be open 7 days a week.

ii. Ponds M1, M2, M3, M4, M5, M6, and A19 in the Mowry Slough Unit. These ponds are located on the east side of the Bay between Mowry Slough and Coyote Creek. You may only access these ponds by boat. You may land your boat at specific points on the Bay side of the levee as designated by refuge signs. You may pull your boat across the levee from the Bay. We prohibit hunting within 300 feet (90 m) of the Union Pacific Railroad track. These ponds will be open 7 days a week.

iii. Ponds AB1, A2E, AB2, A3N, and A3W in the Alviso Unit. These ponds are located on the west side of the Bay between Stevens Creek and Guadalupe Slough. You must obtain a refuge Special Use Permit to hunt these ponds. Access to Ponds AB1 and A2E will be from the Crittenden Lane Trailhead in Mountain View. Access to Ponds A3W will be from the Carl Road Trailhead in Sunnyvale. Access to Ponds A3N and AB2 is by boat from the other ponds. We allow hunting only from existing hunting blinds. We allow hunting only on Wednesdays, Saturdays, and Sundays on these ponds.

iv. Ponds A5, A7, and A8N in the Alviso Unit. These ponds are located on the south end of the Bay between Guadalupe Slough and Alviso Slough. You must obtain a refuge Special Use Permit to hunt these ponds. Access is via walking and bicycling from the Gold Street gate in Alviso. We allow hunting from existing hunting blinds and by walking pond levees. We allow hunting only on Wednesdays, Saturdays, and Sundays on these ponds.

3. During the 2 weekends before the opening of the hunt season, you may bring a boat into Ponds AB1, A2E, AB2, A3N, A3W, A5, A7, and A8N and moor it at a designated site only if authorized by a valid refuge Special Use Permit. These boats will be used to access the hunting blinds and will stay in the pond during the hunt season. You must remove your boat within 2 weeks following the close of the hunt season. We allow nonmotorized boats and motorized boats powered by electric or 4-stroke gasoline motors only.

4. You may maintain an existing blind in the ponds open to hunting if you have a valid refuge Special Use Permit, but the blind will be open for general use on a first-come, first-served basis. We prohibit pit blinds or digging into the levees (see § 27.92 of this chapter).

5. You must remove all decoys and other personal property (except personal boats authorized by a refuge Special Use Permit) from the refuge by legal sunset. You must remove all trash, including shotshell hulls, when leaving hunting areas (see §§ 27.93 and 27.94 of this chapter).

6. Hunters may enter closed areas of the refuge to retrieve downed birds, provided they leave all weapons in a legal hunting area. We encourage the use of retriever dogs. You must keep your dog(s) under immediate control of the handler at all times (see § 26.21(b) of this chapter). Dogs must remain inside a vehicle or be on a leash until they are on the ponds or on the levees (Ponds R1, 2, A5, 7, and 8N only) as a part of the hunt.

7. You may possess only approved nontoxic shot while in the field (see § 32.2(k)).

8. You must keep firearms unloaded (see § 27.42(b) of this chapter) until you are within the designated hunt area.

9. We prohibit target practice on the refuge or any nonhunting discharge of firearms (see § 27.42 of this chapter).

10. At the Ravenswood Unit only, we only allow portable blinds or construction of temporary blinds of natural materials that readily decompose. We prohibit collection of these natural materials from the refuge (see § 27.51 of this chapter). You must remove portable blinds (see §§ 27.93 and 27.94 of this chapter) by legal sunset. Temporary blinds become available for general use on a first-come, first-served basis on subsequent days. We prohibit permanent blinds, pit blinds, or digging into the levees (see § 27.92 of this chapter). We prohibit entry into closed areas of the refuge prior to the hunt season in order to scout for hunting sites or to build blinds.

* * * * *

Sacramento River National Wildlife Refuge

A. Migratory Game Bird Hunting. We allow hunting of goose, duck, coot, moorhen, dove, and snipe on designated areas of the refuge in accordance with State regulations subject to the following conditions:

1. We only allow shotgun hunting.

2. You must unload firearms (see § 27.42(b) of this chapter) before transporting them between parking areas and hunting areas. “Unloaded” means that no ammunition is in the chamber or magazine of the firearm.

3. You may possess only approved nontoxic shot while in the field (see § 32.2(k)).

4. We prohibit hunting within 50 feet (15 m) of any landward boundary adjacent to private property.

5. We prohibit hunting within 150 yards (45 m) of any occupied dwelling, house, residence, or other building or any barn or other outbuilding used in connection therewith.

6. Access to the hunt area is by foot traffic or boat only. We prohibit bicycles or other conveyances. Mobility-impaired hunters should consult with the refuge manager for allowed conveyances.

7. We prohibit fires on the refuge, except we allow portable gas stoves on gravel bars (see § 27.95(a) of this chapter).

8. We allow camping on gravel bars up to 7 days during any 30-day period. We prohibit camping on all other refuge lands.

9. We open the refuge for day-use access from 1 hour before legal sunrise until 1 hour after legal sunset. We allow access during other hours on gravel bars only (see condition A8).

10. We require dogs to be kept on a leash, except for hunting dogs engaged in authorized hunting activities, and under the immediate control of a licensed hunter (see § 26.21(b) of this chapter).

11. We prohibit permanent blinds. You must remove all personal property, including decoys and boats, by one hour after legal sunset (see §§ 27.93 and 27.94 of this chapter).

12. We prohibit cutting or removal of vegetation for blind construction or for making trails (see § 27.51 of this chapter).

B. Upland Game Hunting. We allow hunting of pheasant, turkey, and quail on designated areas of the refuge in accordance with State regulations subject to the following conditions:

1. We only allow shotgun and archery hunting.

2. Conditions A3 through A10 and A12 apply.

C. Big Game Hunting. We allow hunting of black-tailed deer on designated areas of the refuge in accordance with State regulations subject to the following conditions:

1. Conditions A4, A5, A7, A8, A9, A12, and B1 apply.

2. We prohibit construction or use of permanent blinds, platforms ladders or screw-in foot pegs.

3. You must remove all personal property, including stands, from the refuge by one hour after legal sunset (see §§ 27.93 and 27.94 of this chapter).

D. Sport Fishing. We allow sport fishing on designated areas of the refuge in accordance with State regulations subject to the following conditions:

1. Conditions A7, A8, A9, and A12 apply.

2. On Packer Lake, due to primitive access, we only allow boats up to 14 feet (4.2 m) and canoes.

* * * * *

Stone Lakes National Wildlife Refuge

A. Migratory Game Bird Hunting. We allow hunting of goose, duck, coot, and moorhen on designated areas of the refuge in accordance with State regulations subject to the following conditions:

1. We allow hunting on Sun River Unit only on Wednesdays and Saturdays from ½ hour before legal sunrise until 12 p.m. (noon).

2. We will select hunters through a random drawing process conducted at the refuge. Hunters should bring a copy of their refuge notification on the day of their hunt. Hunters should contact the refuge manager for additional information.

3. We require adults, age 18 or older, to accompany hunters under age 16.

4. We prohibit bicycles or other conveyances. Mobility-impaired hunters should contact the refuge manager regarding allowed conveyances.

5. You must unload firearms (see § 27.42(b) of this chapter) before transporting them between parking areas and spaced-blind areas. “Unloaded” means that no ammunition is in the chamber or magazine of the firearm.

6. We restrict hunters to their assigned spaced-blind except when they are placing or retrieving decoys, traveling to and from the parking area, retrieving downed birds, or when shooting to retrieve cripples.

7. You may only possess approved nontoxic shot while in the field (see § 32.2(k)) in quantities of 25 or less.

8. We prohibit fires on the refuge (see § 27.95(a) of this chapter).

9. We allow vehicles to stop only at designated parking areas. We prohibit dropping of passengers or equipment or stopping between designated parking areas.

10. We allow only nonmotorized boats to access water blinds.

11. You must remove all decoys, personal equipment, shotshell hulls, and refuse from the refuge by 12:30 p.m. (see §§ 27.93 and 27.94 of this chapter).

12. Junior hunters must possess a valid Junior Hunting License.

13. We allow the use of hunting dogs for retrieving birds, provided the dogs remain under the immediate control of the hunter at all times (see § 26.21(b) of this chapter).

B. Upland Game Hunting. [Reserved]

C. Big Game Hunting. [Reserved]

D. Sport Fishing. [Reserved]

7. Amend § 32.25 Colorado by revising paragraph D. of Rocky Mountain Arsenal to read as follows:

§ 32.25 Colorado.

* * * * *

Rocky Mountain Arsenal

* * * * *

D. Sport Fishing. We allow fishing at designated times and on designated areas of the refuge in accordance with State regulations subject to the following conditions:

1. We require a valid State fishing license and valid refuge fishing permit for all anglers age 16 and older. You must obtain and display a daily refuge fishing badge while fishing.

2. We only allow the use of rod and reel with one hook or lure per line.

3. We only allow catch and release fishing.

4. We only allow barbless hooks.

5. We only allow artificial flies or lures.

6. We prohibit the use of live bait.

8. Amend § 32.26 Connecticut by adding an introductory paragraph and adding Stewart B. McKinney National Wildlife Refuge to read as follows:

§ 32.26 Connecticut.

The following refuge units have been opened for hunting and/or fishing and are listed in alphabetical order with applicable refuge-specific regulations.

Stewart B. McKinney National Wildlife Refuge

A. Migratory Game Bird Hunting. We allow hunting of duck, coot, and goose on designated areas of the Great Meadows Unit in Stratford, Connecticut in accordance with State regulations subject to the following conditions:

1. We require hunters to obtain an annual Special Use Permit in advance for permission to hunt in the designated hunting area. Consult the refuge manager for details on how and when to apply for a Special Use Permit.

2. Any person entering, using, or occupying the refuge for hunting must abide by all the terms and conditions of the Special Use Permit.

3. You must have all applicable hunting licenses, permits, stamps, and a photographic identification in your possession while hunting on the refuge.

4. We will limit hunt days to Tuesdays, Wednesdays, and Saturdays during the waterfowl hunting season as established by the State.

5. We only allow shotguns.

6. You must keep firearms unloaded until you are within the designated hunting area (see § 27.42(b) of this chapter).

7. Access to the hunt area is by foot or boat in designated areas only. Mobility-impaired hunters should consult with the refuge manager for allowed conveyances.

8. You may possess no more than 25 approved nontoxic shot per day while in the field (see § 32.2(k)).

9. This is a waterfowl hunt only. We allow no more than two dogs per waterfowl hunting party. We prohibit dog training on the refuge.

10. During State-established youth days, licensed junior hunters may hunt in the designated hunting area when accompanied by a licensed adult hunter age 18 or older. Adults must possess a valid hunting license; however, we prohibit them carrying a firearm.

11. We prohibit the use of air-thrust and inboard water-thrust boats such as, but not limited to, hovercrafts, airboats, jet skis, watercycles, and waterbikes on all waters within the refuge boundaries.

12. We prohibit hunters launching any boats on the refuge that they cannot portage by hand. A dock and a boat ramp are not available on the refuge.

13. We prohibit pit or permanent blinds.

14. You must remove all temporary blinds, boats, decoys, and all other personal property from the refuge each day (see §§ 27.93 and 27.94 of this chapter).

B. Upland Game Hunting. [Reserved]

C. Big Game Hunting. [Reserved]

D. Sport Fishing. [Reserved]

9. Amend § 32.28 Florida by:

a. Revising paragraph D. of Cedar Keys National Wildlife Refuge;

b. Revising paragraph D. of J. N. “Ding” Darling National Wildlife Refuge;

c. Revising paragraphs C. and D. of Lake Woodruff National Wildlife Refuge;

d. Revising Lower Suwannee National Wildlife Refuge;

e. Revising paragraphs A.2. through A.5., the introductory text of paragraph D., D.1., D.3., D.4., D.6., D.11., and adding paragraph D.12. of Merritt Island National Wildlife Refuge;

f. Revising paragraph C.1., C.5., C.9. through C.12, and adding paragraph C.13. of St. Marks National Wildlife Refuge; and

g. Revising paragraph C.2. of St. Vincent National Wildlife Refuge to read as follows:

§ 32.28 Florida.

* * * * *

Cedar Keys National Wildlife Refuge

* * * * *

D. Sport Fishing. We allow salt water sport fishing year-round in accordance with State regulations subject to the following condition: We will close a 300 foot (90 m) buffer zone beginning at mean high tide line and extending into the waters around Seahorse Key to all public entry from March 1 through June 30.

* * * * *

J. N. “Ding” Darling National Wildlife Refuge

* * * * *

D. Sport Fishing. We allow fishing and crabbing on designated areas of the refuge in accordance with State regulations subject to the following conditions:

1. We prohibit fishing and crabbing in all waters of the Bailey Tract except for Smith Pond and Airplane Canal.

2. We allow fishing and crabbing in all other refuge waters except in areas designated as “closed to public entry”.

3. We prohibit the taking of horseshoe crabs, stone crabs, or spider crabs.

4. We prohibit the taking of blue crabs for commercial purposes.

5. We allow the recreational take of blue crabs within 150 feet (45 m) of the Wildlife Drive only with the use of dip nets.

6. Beyond 150 feet (45 m) of the Wildlife Drive we allow recreational take of blue crabs with baited lines and traps only if such devices are continuously attended/monitored and removed at the end of each day. “Attended/monitored” means that all devices used in the capture of blue crabs must be within the immediate view of the sport crabber.

7. The daily limit of blue crabs is 20 per person, of which no more than 10 shall be females.

8. We prohibit the use of cast nets within 150 feet (45 m) of a water-control structure on the Wildlife Drive.

9. We prohibit the use of personal watercraft, air-thrust boats, and hovercraft.

10. We prohibit kite-surfing or kite-boarding, wind-surfing or sail-boarding, or any similar type of activities.

11. We prohibit vessels exceeding the slow speed/minimum wake in refuge waters.

12. We only allow vessels propelled by polling, paddling, or floating in the posted “no-motor zone” of the Ding Darling Wilderness Area. All motors, including electric motors, must be in a nonuse position (out of the water) when in the “no-motor zone”.

13. We prohibit camping on all refuge lands and overnight mooring of vessels on all refuge waters.

14. You may only launch vessels at designated sites on the refuge.

Lake Woodruff National Wildlife Refuge

* * * * *

C. Big Game Hunting. We allow hunting of white-tailed deer and feral hog on designated areas of the refuge in accordance with State regulations subject to the following condition: We require refuge permits.

D. Sport Fishing. We allow sport fishing on designated areas of the refuge in accordance with State regulations subject to the following conditions:

1. We only allow fishing from legal sunrise to legal sunset.

2. We prohibit the use of airboats on the refuge.

3. We prohibit commercial fishing or the taking of frogs or turtles (see § 27.21 of this chapter).

4. We prohibit the use of snatch hooks in the refuge impoundments.

5. When boating, you must slow down and observe all manatee speed zones and caution areas.

Lower Suwannee National Wildlife Refuge

A. Migratory Game Bird Hunting. We allow hunting of duck and coot on designated areas of the refuge in accordance with State regulations subject to the following conditions:

1. We require hunters to possess and carry signed refuge hunt permits for all hunts.

2. We designated open and closed refuge hunting areas on the map in the refuge hunt permit that the hunter must possess and carry.

3. You must park vehicles in a manner that does not block roads or gates (see § 27.31(h) of this chapter).

4. We prohibit the use of ATVs (see § 27.31(f) of this chapter).

5. We prohibit horses.

6. We prohibit possession of a loaded firearm or bow and arrow (see § 27.42(b) of this chapter) while on a refuge road right-of-way designated for motorized vehicle travel or in any vehicle or boat. We define “loaded” as shells in the chamber or magazine or percussion cap on a muzzleloader, or arrow notched in a bow.

7. We prohibit hunting from refuge roads open to public vehicle travel.

8. We prohibit construction of permanent blinds or stands.

9. In addition to State hunter education requirements, an adult (parent or guardian) age 21 or older must supervise and must remain within sight of and in normal voice contact of the youth hunter age 15 and under. Parents or adult guardians are responsible for ensuring that hunters under age 16 do not engage in conduct that would constitute a violation of the refuge regulations. An adult may supervise no more than two youths.

10. We prohibit all commercial activities, including guiding or participating in a guided hunt.

11. We prohibit target practice or any nonhunting discharge of firearms (see § 27.42 of this chapter).

12. We prohibit marking any tree, or other refuge feature, with flagging, litter, paint, or blaze.

13. We allow marking trails with reflective markers, but you must remove the markers (see §§ 27.93 and 27.94 of this chapter) at the end of the refuge deer hunting season.

14. Hunters utilizing the refuge are subject to inspection of licenses, permits, hunting equipment, bag limits, vehicles, and their contents during compliance checks by refuge or State law enforcement officer.

15. Hunters must be at their vehicles by 1 hour after legal shooting time.

B. Upland Game Hunting. We allow hunting of gray squirrel, armadillo, opossum, rabbit, raccoon, coyote, and beaver on designated areas of the refuge in accordance with State regulations subject to the following conditions:

1. Conditions A1 through A15 apply.

2. The refuge upland game hunting season opens on the Monday after the refuge limited hog hunt closes and ends on February 28.

3. You may only possess .22 caliber rimfire rifle (but not .22 magnum) firearms (see § 27.42 of this chapter) or shotguns with shot no larger than #4 common or bows with arrows that have judo or blunt tips. We prohibit possession of arrows capable of taking big game during the upland game hunting season.

4. We allow night hunting in accordance with State regulations for raccoon and opossum on Wednesday through Saturday nights from legal sunset until legal sunrise during the month of February.

C. Big Game Hunting. We allow hunting of big game on designated areas of the refuge in accordance with State regulations subject to the following conditions:

1. Conditions A1 through A15 apply.

2. We prohibit the use of hunting and tracking dogs for all deer and hog hunts.

3. We require quota hunt permits (issued through a random draw) for the limited deer gun hunt, limited hog hunt, and limited youth gun deer hunt. They cost $12.50.

4. Quota hunt permits are nontransferable.

5. Hunters may only use archery equipment in accordance with State archery regulations during the refuge archery season.

6. Hunters may only use muzzleloading firearms (see § 27.42 of this chapter) in accordance with State muzzleloader regulations during the refuge muzzleloader season.

7. We prohibit hunting from a tree in which a metal object has been driven (see § 32.2(i)).

8. You may leave temporary tree stands on the refuge starting on the last weekend of August, but you must remove them by the last day of the general gun hunting season (see § 27.93 of this chapter).

9. All hunters (including all persons accompanying hunters) must wear a minimum of 500 square inches (3,250 cm ²) of fluorescent orange visible above the waistline while hunting during all refuge deer gun hunts.

10. We prohibit the use of organized drives for taking or attempting to take game.

11. The refuge general gun season begins on the opening Saturday of the Florida State Central Management Zone, General Gun season and ends on the following Friday. It reopens on the Monday after the refuge limited deer season and ends on the following Sunday. The refuge general gun season lasts 14 days.

12. The refuge limited either-sex deer hunt is on the second Saturday and Sunday of the State Central Management Zone General Gun season. This coincides with the opening of the State's either-sex hunt deer hunting season.

13. The youth limited Gun Deer Hunt is the Saturday and Sunday following the close of the refuge general gun season.

14. The refuge limited hog hunt begins on the first Monday after the Florida State Central Management Zone General Gun (antlered deer and wild hog) season closes, and ends on the following Sunday.

15. During the limited youth hunt, an adult age 21 or older must accompany the youth, age 15 and under, but only the youth hunter may hunt and handle the firearm.

16. We confine the limited youth hunt to the Levy County portion of the refuge, and hunters must access the refuge from Levy County Road 347.

17. We allow hunting of deer (except spotted fawns), feral hog (no size or bag limit), gray squirrel, rabbit, armadillo, opossum, raccoon, beaver, and coyote during the archery season.

18. Hunters may take deer, with one or more antlers at least 5 inches (12.5 cm) in length visible above the hairline, and feral hog (no bag or size limit) during the muzzleloader and general-gun season.

19. Hunters may take hog (no size or bag limit), and a maximum of two deer per day, during the limited deer gun hunt and limited youth gun deer hunt, except only one deer may be a buck for each of the 2-day limited hunts.

20. Hunters may take hog (no size or bag limit) during the limited hog hunt.

21. We prohibit all other public entry or use of the hunting area during the limited hog, limited gun, and limited youth deer hunts. During the limited gun hunt and limited hog hunt, the Dixie Mainline road will remain open to all public vehicles, but we prohibit firearms except for permit holders.

22. Hunters must check all game harvested during all deer and hog hunts.

23. You may only take turkey during the State spring turkey hunting season.

24. You may only take bearded turkeys during the spring turkey hunt.

25. Shooting hours for spring turkey begin ½ hour before legal sunrise and end at 1 p.m.

26. We only allow shotguns with shot no larger than size 2 common shot or bows and arrows for spring turkey hunting.

D. Sport Fishing. We allow sport fishing on designated areas of the refuge in accordance with State regulations subject to the following conditions:

1. Anglers may take game and nongame fish only with pole and line or rod and reel.

2. We prohibit taking of frogs and turtles (see § 27.21 of this chapter).

3. We prohibit leaving boats on the refuge overnight (see § 27.93 of this chapter).

4. We prohibit consumption of alcohol or possession of open alcohol containers in the public use areas of Shired Island boat launch/fishing and parking lot area and the Shell Mound fishing/recreational area (see § 32.2(j)).

Merritt Island National Wildlife Refuge

A. Migratory Game Bird Hunting. * * *

* * * * *

2. You must possess and carry a refuge waterfowl hunting quota permit while hunting areas 1 or 4, from the beginning of the regular waterfowl season through December 31.

3. You may hunt Wednesdays, Saturdays, Sundays, and all Federal holidays that fall within the State's waterfowl season.

4. You may hunt in four designated areas of the refuge as delineated in the refuge hunting regulations map. We prohibit hunters entering the normal or expanded restricted areas of the Kennedy Space Center.

5. You may only hunt on refuge-established hunt days from legal shooting time until 1 p.m.

* * * * *

D. Sport Fishing. We allow you to fish, crab, clam, oyster, and shrimp in designated areas of the refuge as delineated in the refuge fishing regulations map in accordance with State regulations subject to the following conditions:

1. You must possess and carry a current, signed refuge fishing permit at all times while fishing on the refuge.

* * * * *

3. We allow launching of boats at night only from Bair's Cove, Beacon 42, and Bio Lab boat ramps.

4. We prohibit crabbing or fishing, and access for the purpose of crabbing or fishing, from Black Point Wildlife Drive or any side road connected to Black Point Wildlife Drive except L Pond Road.

* * * * *

6. Anglers and crabbers must attend their lines at all times.

* * * * *

11. We prohibit fishing within the normal or expanded restricted areas of the Kennedy Space Center.

12. We prohibit the use of internal combustion engines within the two zones in Mosquito Lagoon. The zones include the posted waters located north of WSEG Boat Ramp and west of the Intra Coastal Waterway and the posted waters on Tiger Shoals extending from the northeast refuge boundary southward to the waters just south of Preachers Island.

* * * * *

St. Marks National Wildlife Refuge

* * * * *

C. Big Game Hunting. * * *

1. We require refuge permits issued by lottery. Lottery applications are available at the refuge office each year beginning in July. There is a fee for permits. Permits are nontransferable. There is an additional fee for duplicate permits. Each hunter must possess and carry a signed permit when participating in a hunt. Prior to hunting each day, you must check-in at a hunt check station as specified in the refuge hunt brochure. You must check out upon completion of hunting each day.

* * * * *

5. There is a two-deer limit per hunt as specified in C8 and C9 below, except in the youth hunt, where the limit is one deer per hunt as specified in C11 below. The limit for bearded turkey is one per hunt. There is no limit on feral hog.

* * * * *

9. There is a winter archery/muzzleloader hunt. Hunters may harvest doe deer, antlerless deer, bearded turkey, or feral hog. We define “antlerless deer” as deer with antlers less than 1 inch (2.5 cm) above the hairline and “antlered deer” as deer with antlers at least 1 inch (2.5 cm) above the hairline. If the first deer you harvest is an antlerless male, you may harvest another doe or antlerless deer as your second deer. If the first deer you harvest is a doe, you may bring it to the check station, and we will give you a permit to harvest an antlered deer. With the antlered deer permit, you may harvest any deer as your second deer. Archery equipment and muzzleloaders must meet the requirements set by the State. We prohibit other weapons in the hunt area (see § 27.43 of this chapter). Contact the refuge office for specific dates.

10. There are two modern gun hunts. Modern guns must meet State requirements. We will hold one hunt on the Panacea Unit and one on the Wakulla Unit. You may harvest deer as described in C9 above. You may also harvest one bearded turkey or feral hog (no limit). Contact the refuge office for specific dates.

11. There is one youth hunt, for youths ages 10 to 15, on the St. Marks Unit in an area to be specified in the refuge hunt brochure. Hunters may harvest one deer of either sex or feral hog (no limit). An adult, age 21 or older, must accompany each youth hunter, and each adult may accompany only one youth. The adult must possess a refuge permit. Only the youth hunter may handle or discharge firearms. Contact the refuge office for specific dates.

12. There is one mobility-impaired hunt on the Panacea Unit in the area west of County Road 372. Hunters may harvest doe deer, antlerless deer, bearded turkey, or feral hog. See definition for “antlerless deer” in C9 above. We will give each hunter that harvests a doe deer a permit to harvest an antlered deer, as described in C9 above. Hunters may have an able-bodied hunter accompany them. You may transfer permits issued to able-bodied assistants. We limit those hunt teams to two deer per hunt. Contact the refuge office for specific dates.

13. There is one spring gobbler hunt. You may harvest one bearded turkey per hunt. You may only use shotguns to harvest turkey. Contact the refuge officer for specific dates. You must unload and dismantle or case weapons (see § 27.42(b) of this chapter) after 1 p.m.

* * * * *

St. Vincent National Wildlife Refuge

* * * * *

C. Big Game Hunting. * * *

* * * * *

2. We restrict hunting to three hunt periods: Sambar deer, raccoon, and feral hog—November 17-19; and white-tailed deer, raccoon, and feral hog—December 15-17 and January 5-7. Hunters may check-in and set up camp sites and stands on November 16, December 14, and January 4. Hunters must leave the island and remove all equipment by 11 a.m. on November 20, December 18, and January 8.

* * * * *

10. Amend § 32.29 Georgia by:

a. Revising paragraph D. of Banks Lake National Wildlife Refuge;

b. Adding paragraphs C.18. and C.19. of Blackbeard Island National Wildlife Refuge;

c. Adding paragraph C.18. and C.19. of Harris Neck National Wildlife Refuge;

d. Revising paragraphs B.9., D.1., and D.4. of Piedmont National Wildlife Refuge;

e. Revising paragraph A.1., adding paragraphs A.4., A.5., and B.8., and revising paragraphs C.5. and C.8. of Savannah National Wildlife Refuge; and

f. Adding paragraphs C.19. and C.20. of Wassaw National Wildlife Refuge to read as follows:

§ 32.29 Georgia.

* * * * *

Banks Lake National Wildlife Refuge

* * * * *

D. Sport Fishing. We allow fishing on designated areas of the refuge in accordance with State regulations subject to the following conditions:

1. We only allow the use of pole and line or rod and reel, which the angler must attend at all times.

2. We allow sport fishing after legal sunset; but we prohibit all other activity after legal sunset.

3. We prohibit marking of paths or navigational routes.

4. We prohibit swimming, wading, jet skiing, and water skiing.

Blackbeard Island National Wildlife Refuge

* * * * *

C. Big Game Hunting. * * *

* * * * *

18. Youth hunters age 15 and under must possess and carry a valid hunter education card in order to hunt.

19. Youth hunters age 15 and under must remain within sight and normal voice contact of an adult age 21 or older, possessing a license. One adult may supervise no more than one youth hunter.

* * * * *

Harris Neck National Wildlife Refuge

* * * * *

C. Big Game Hunting. * * *

* * * * *

18. Youth hunters age 15 and under must possess and carry a valid hunter education card in order to hunt.

19. Youth hunters age 15 and under must remain within sight and normal voice contact of an adult age 21 or older, possessing a license. One adult may supervise no more than one youth hunter.

* * * * *

Piedmont National Wildlife Refuge

* * * * *

B. Upland Game Hunting. * * *

* * * * *

9. We only allow .22 caliber or smaller rimfire firearms for raccoon and opossum hunting.

* * * * *

D. Sport Fishing. * * *

1. We allow fishing from April 1 to September 30.

* * * * *

4. We allow nonmotorized boats on all ponds designated as open to fishing except the Children's pond. We allow boats with electric motors only in Pond 2A and Allison Lake.

* * * * *

Savannah National Wildlife Refuge

A. Migratory Game Bird Hunting. * * *

1. You must possess and carry a signed refuge permit at all times while hunting on the refuge. We only require a fee for the quota youth waterfowl hunt on the Solomon Tract and the wheelchair-dependent hunters' quota deer hunt.

* * * * *

4. Youth hunters age 15 and under must possess and carry a valid hunter education card in order to hunt.

5. Youth hunters age 15 and under must remain within sight and normal voice contact of an adult age 21 or older, possessing a license. One adult may supervise no more than two youth hunters.

B. Upland Game Hunting. * * *

* * * * *

8. Conditions A4 and A5 apply.

C. Big Game Hunting. * * *

* * * * *

5. We only allow shotguns with slugs, muzzleloaders, and bows for deer and hog hunting throughout the designated hunt area during the November gun hunt and the March hog hunt. However, we allow high-powered rifles north of Interstate Highway 95 only. We prohibit handguns.

* * * * *

8. Conditions B7, A4, and A5 apply.

* * * * *

Wassaw National Wildlife Refuge

* * * * *

C. Big Game Hunting. * * *

* * * * *

19. Youth hunters age 15 and under must possess and carry a valid hunter education card in order to hunt.

20. Youth hunters age 15 and under must remain within sight and normal voice contact of an adult age 21 or older, possessing a license. One adult may supervise no more than one youth hunter.

* * * * *

11. Amend § 32.32 Illinois by:

a. Removing paragraphs A.2. and A.3., redesignating paragraph A.4. as A.2., revising paragraph A.2., and revising paragraph D.2. of Chautauqua National Wildlife Refuge;

b. Revising paragraph A.5., adding paragraph A.7.xii., and revising paragraphs B.1., B.2., C.1., and D.1. of Cypress Creek National Wildlife Refuge;

c. Revising the introductory text of paragraph A., adding paragraph A.3., revising the introductory text of paragraph B., adding paragraphs B.1., B.2., and revising paragraphs C. and D. of Emiquon National Wildlife Refuge;

d. Revising the introductory text of paragraph D. and revising paragraphs D.1. and D.2. of Meredosia National Wildlife Refuge;

e. Revising the introductory text of paragraphs B., C., and D. of Middle Mississippi River National Wildlife Refuge;

f. Revising paragraph B.3., revising the introductory text of paragraph C., and revising paragraph D.3. of Port Louisa National Wildlife Refuge;

g. Revising paragraph D.3. of Two Rivers National Wildlife Refuge; and

h. Revising paragraph A.6. of Upper Mississippi River National Wildlife and Fish Refuge to read as follows:

§ 32.32 Illinois.

* * * * *

Chautauqua National Wildlife Refuge

A. Hunting of Migratory Game Birds. * * *

* * * * *

2. Hunters must remove boats, decoys, and portable blinds at the end of each day's hunt (see §§ 27.93 and 27.94 of this chapter).

* * * * *

D. Sport Fishing. * * *

* * * * *

2. We allow bank fishing from legal sunrise October 16 to legal sunset January 14 between the boat ramp and the fishing trail in the North Pool and from Goofy Ridge Public Access to west gate of the north pool water control structure.

* * * * *

Cypress Creek National Wildlife Refuge

A. Migratory Game Bird Hunting. * * *

* * * * *

5. We allow dove hunting beginning on September 1 and continuing on the following Mondays, Wednesdays, and Saturdays throughout the State season.

* * * * *

7. * * *

* * * * *

xii. All hunting parties must hunt over a minimum of 12 decoys at each blind site.

* * * * *

B. Upland Game Hunting. * * *

1. Conditions A1, A2, A3, and A4 apply.

2. We prohibit hunting after legal sunset, except we allow raccoon and opossum hunting after legal sunset.

C. Big Game Hunting. * * *

1. Conditions A1 and A2 apply.

D. Sport Fishing. * * *

1. Conditions A2 and A3 apply.

* * * * *

Emiquon National Wildlife Refuge

A. Migratory Game Bird Hunting. We allow hunting of migratory game birds on designated areas of the refuge in accordance with State regulations subject to the following conditions:

* * * * *

3. We allow the use of motorized boats at no-wake speeds on all refuge waters.

B. Upland Game Hunting. We allow hunting of upland game on designated areas of the refuge in accordance with State regulations subject to the following conditions:

1. You may possess only approved nontoxic shot while hunting all allowed species except wild turkey and coyote (see § 32.2(k)). You may possess lead shot for hunting of wild turkey and coyote.

2. We allow access for hunting from 1 hour before legal sunrise until legal sunset.

C. Big Game Hunting. We allow hunting of big game on designated areas of the refuge in accordance with State regulations subject to the following condition: Hunters must remove hunting stands at the end of each day's hunt (see §§ 27.93 and 27.94 of this chapter).

D. Sport Fishing. We allow sport fishing on designated areas of the refuge in accordance with State regulations subject to the following conditions:

1. We prohibit leaving private boats on refuge waters overnight (see § 27.93 of this chapter).

2. Condition A3 applies.

* * * * *

Meredosia National Wildlife Refuge

* * * * *

D. Sport Fishing. We allow sport fishing on designated areas of the refuge in accordance with State regulations subject to the following conditions:

1. We allow sport fishing on all areas open to public access from legal sunrise to legal sunset from January 15 to October 15.

2. We allow foot access on refuge land along the east side of Meredosia Lake in Morgan County from legal sunrise to legal sunset from October 16 to January 14. The boat ramp remains open throughout the year for access to Meredosia Lake.

* * * * *

Middle Mississippi River National Wildlife Refuge

* * * * *

B. Upland Game Hunting. We allow hunting of small game, furbearers, turkey, and nonmigratory game birds on the Beaver, Harlow, Meissner, and Wilkinson Island Division in accordance with State regulations subject to the following conditions:

* * * * *

C. Big Game Hunting. We allow hunting of white-tailed deer on the Beaver, Harlow, Meissner, and Wilkinson Island Divisions in accordance with State regulations subject to the following conditions:

* * * * *

D. Sport Fishing. We allow fishing on the Beaver, Harlow, and Wilkinson Island Divisions in accordance with State regulations subject to the following conditions:

* * * * *

Port Louisa National Wildlife Refuge

* * * * *

B. Upland Game Hunting. * * *

* * * * *

3. We allow hunting in designated areas on the Horseshoe Bend Division from September 1 until September 14 and from December 1 until February 28. We allow spring turkey hunting.

* * * * *

C. Big Game Hunting. We allow hunting of white-tailed deer only on Big Timber Division and in designated areas on Horseshoe Bend Division in accordance with State regulations subject to the following conditions:

* * * * *

D. Sport Fishing. * * *

* * * * *

3. We close the following Divisions to all public access: Louisa Division—September 14 until January 1; Horseshoe Bend Division—September 14 until December 1; Keithsburg Division—September 15 until January 1.

* * * * *

Two Rivers National Wildlife Refuge

* * * * *

D. Sport Fishing. * * *

* * * * *

3. From October 15 through December 31 we close the Batchtown, Gilbert Lake, and Portage Island Divisions, and the portion of the Calhoun Division north and west of the Illinois River Road, to all public access.

* * * * *

Upper Mississippi River National Wildlife and Fish Refuge

A. Migratory Game Bird Hunting. * * *

* * * * *

6. For Pools 12, 13 (excluding the Lost Mound Unit), and 14, we allow the following: hunting from boat blinds or scull boats; construction of permanent blinds from dimensional lumber (however, we prohibit use of nonbiodegradable materials such as metal, plastic, or fiberglass); and use of local, native-only species such as willow, cattail, bulrush, lotus, arrowhead vegetation, and dead wood on the ground for blind building and camouflage. We prohibit bringing nonnative species (alive or dead) onto the refuge and cutting or removing any other trees or vegetation (see § 27.51 of this chapter). Hunters must place an identification card with name, address, and telephone number inside the permanent blind. Blinds not occupied by 1 hour before legal sunrise are available on a first-come, first-served basis.

* * * * *

12. Amend § 32.33 Indiana by:

a. Revising paragraphs B., C., and D. of Muscatatuck National Wildlife Refuge; and

b. Revising paragraph B.1., adding paragraph C.3., and revising the introductory text of paragraph D. and paragraph D.1. of Patoka River National Wildlife Refuge and Management Area to read as follows:

§ 32.33 Indiana.

* * * * *

Muscatatuck National Wildlife Refuge

* * * * *

B. Upland Game Hunting. We allow hunting of wild turkey, quail, squirrel, and rabbit on designated areas of the refuge in accordance with State regulations subject to the following conditions:

1. For wild turkey hunting, we require a refuge permit.

2. We prohibit discharge of firearms within 100 yards (90 m) of an occupied dwelling.

3. Shotgun hunters may possess only approved nontoxic shot on the refuge (see § 32.2(k)).

4. We allow the use of hunting dogs for hunting rabbit and quail only.

C. Big Game Hunting. We allow hunting of white-tailed deer on designated areas of the refuge during the State archery and muzzleloader seasons in accordance with State regulations subject to the following conditions:

1. You must possess and carry a refuge permit during the State muzzleloader season.

2. We only allow bow and arrow and muzzleloaders, except that hunters with a State handicapped hunting permit may use crossbows.

3. We prohibit the construction and use of permanent blinds, platforms, or ladders (see § 27.92 of this chapter).

4. Condition B2 applies.

5. We allow access to the refuge during posted hours during refuge deer hunts.

6. Hunters may only take one deer per day from the refuge.

7. We allow only permitted muzzleloader hunters during the State muzzleloader season.

8. We allow archery hunting during the refuge-designated seasons.

D. Sport Fishing. We allow fishing on designated areas of the refuge in accordance with State regulations subject to the following conditions:

1. We prohibit the use of boats and belly boats on all refuge waters except for Stanfield Lake and Richart Lake.

2. We only allow fishing with rod and reel or pole and line.

3. We allow fishing from legal sunrise to legal sunset.

4. We prohibit harvesting of frogs and turtles (see § 27.21 of this chapter).

Patoka River National Wildlife Refuge and Management Area

* * * * *

B. Upland Game Hunting. * * *

1. You may only possess approved nontoxic shot while hunting on the refuge (see § 32.3(k)).

* * * * *

C. Big Game Hunting. * * *

* * * * *

3. We prohibit marking trails with tape, ribbons, paper, paint, tacks, tree blazes, or other devices.

D. Sport Fishing. We allow sport fishing in accordance with State regulations on the main channel of the Patoka River, but all other refuge waters are subject to the following conditions:

1. We allow fishing from legal sunrise to legal sunset.

* * * * *

13. Amend § 32.34 Iowa by removing paragraph B.1., redesignating paragraphs B.2. through B.4. as paragraphs B.1. through B.3., and adding a new paragraph B.4. of Neal Smith National Wildlife Refuge to read as follows:

§ 32.34 Iowa.

* * * * *

Neal Smith National Wildlife Refuge

* * * * *

B. Upland Game Hunting. * * *

* * * * *

4. We prohibit shooting on or over any refuge road within 50 feet (15 m) from the centerline.

* * * * *

14. Amend § 32.36 Kentucky by:

a. Revising Clarks River National Wildlife Refuge; and

b. Revising paragraph C.1., and removing paragraph C.5. of Reelfoot National Wildlife Refuge to read as follows:

§ 32.36 Kentucky.

* * * * *

Clarks River National Wildlife Refuge

A. Migratory Game Bird Hunting. We allow hunting of mourning dove, woodcock, common snipe, Canada and snow goose, coot, and waterfowl listed in 50 CFR 10.13 under DUCKS on designated areas of the refuge in accordance with State regulations subject to the following conditions:

1. The refuge is a day-use area only, with the exception of legal hunting/fishing activities.

2. We prohibit the use of motorized off-road vehicles (e.g., ATVs) on the refuge (see § 27.31(f) of this chapter).

3. We prohibit target practice with any weapon or nonhunting discharge of firearms (see § 27.42 of this chapter).

4. We prohibit the use of horses and mules on refuge property during the State muzzleloader and modern gun deer hunts. We allow horseback riding on refuge roads and portions of the abandoned railroad tracks owned by the refuge for access purposes while engaged in wildlife activities. We prohibit horses and mules off these secondary access routes for any reason.

5. You must possess and carry a valid refuge permit while hunting and/or fishing on the refuge.

6. To retrieve or track game from a posted closed area of the refuge, the hunter must first request permission from the refuge manager at 270-527-5770 or the law enforcement officer at 270-703-2836.

7. We prohibit the use of flagging tape, reflective tacks, or nonbiodegradable devices used to identify paths to and mark tree stands, blinds, and other areas.

8. We close those portions of abandoned railroad tracks within the refuge boundary to vehicle access (see § 27.31 of this chapter).

9. We prohibit discharge of firearms or carrying loaded firearms on or within 100 feet (90 m) of any home, the abandoned railroad tracks, graveled roads, and hiking trails.

10. We prohibit possession and/or use of herbicides (see § 27.51 of this chapter).

11. We prohibit possession or use of alcoholic beverages while hunting (see § 32.2(j)).

12. We prohibit the use of electronic calls with the exception for taking crow during crow season.

13. An adult, age 21 or older, must supervise all youth hunters, age 15 and under. Youth hunters must remain in sight and normal voice contact with the adult. On small game hunts, the adult may supervise no more than two youths; on big game hunts, the adult may supervise no more than one youth.

14. All persons born after January 1, 1975 must possess a valid hunter education card while hunting.

15. Waterfowl hunters must pick up decoys and equipment (see §§ 27.93 and 27.94 of this chapter), unload firearms (see § 27.42(b) of this chapter), and be out of the field by 2 p.m. daily during the State waterfowl season.

16. You may only use portable or temporary blinds that must be removed (see §§ 27.93 and 27.94 of this chapter) from the refuge daily.

17. We close, as posted, the Sharpe-Elva Water Management Unit from November 1 through March 15 to all entry with the exception of drawn permit holders and their guests.

18. We only allow waterfowl hunting on the Sharpe-Elva Water Management Unit on specified Saturdays and Sundays during the State waterfowl season. We only allow hunting by individuals in possession of a refuge draw permit and their guests. State regulations and the following conditions apply:

i. Application procedures and eligibility requirements are available from the refuge office.

ii. We allow permit holders and up to three guests to hunt their assigned provided blind on the designated date. We prohibit guests in the blind without the attendance of the permit holder.

iii. We prohibit selling, trading, or bartering of permits. This permit is nontransferable.

iv. You may place decoys out Saturday morning at the beginning of the hunt, and you must remove them by Sunday at the close of the hunt (see §§ 27.93 and 27.94 of this chapter).

v. We prohibit watercraft in the Sharpe-Elva Water Management Unit, except for drawn permit holders to access their assigned blinds and retrieve downed birds as needed.

B. Upland Game Hunting. We allow hunting of squirrel, rabbit, quail, raccoon, opossum, crow, and coyote on designated areas of the refuge in accordance with State regulations subject to the following conditions:

1. Conditions A1 through A14 apply.

2. We close squirrel, rabbit, and quail seasons during muzzleloader and modern gun deer hunts.

3. You may not kill or cripple a wild animal without making a reasonable effort to retrieve the animal and harvest a reasonable portion of that animal and include it in your daily bag limit.

4. You may use only rimfire rifles, pistols, shotguns, and legal archery equipment for taking upland game.

5. We prohibit possession and use of lead ammunition, except that you may use rimfire rifle and pistol lead ammunition no larger than .22 caliber for upland game hunting.

6. You may hunt coyote during any daytime refuge hunt with weapons and ammunition allowed for that hunt.

C. Big Game Hunting. We allow hunting of white-tailed deer and turkey on designated areas of the refuge in accordance with State regulations subject to the following conditions:

1. Conditions A1 through A15 and B3 apply.

2. We only allow the use of portable and climbing stands. You may place stands in the field no earlier than 2 weeks prior to the opening of deer season, and you must remove them from the field within 1 week after the season closes (see §§ 27.93 and 27.94 of this chapter). The hunter's name and address must appear on all stands left in the field.

3. You must use safety belts at all times when occupying the tree stands.

4. We prohibit organized deer drives of two or more hunters. We define “drive” as: the act of chasing, pursuing, disturbing, or otherwise directing deer so as to make animals more susceptible to harvest.

D. Sport Fishing. We allow fishing and frogging on designated areas of the refuge in accordance with State regulations subject to the following conditions:

1. Conditions A1 through A15 apply.

* * * * *

Reelfoot National Wildlife Refuge

* * * * *

C. Big Game Hunting. * * *

1. Conditions B1 through B6 apply.

* * * * *

15. Amend § 32.37 Louisiana by:

a. Revising the introductory text of paragraph A., revising paragraph A.8., adding paragraphs A.12., and A.13., revising the introductory text of paragraph B., revising paragraph B.4., and adding paragraph C.10. of Big Branch Marsh National Wildlife Refuge;

b. Revising paragraph A.6. of Black Bayou Lake National Wildlife Refuge;

c. Adding paragraphs A.9. and A.10., revising paragraph B.7., adding paragraph B.8. and B.9., revising paragraphs C.1., C.3., and C.9., and revising paragraphs D.2. and D.4., and adding paragraph D.6. of Boque Chitto National Wildlife Refuge;

d. Revising paragraphs A.5. and A.6. of Cameron Prairie National Wildlife Refuge;

e. Revising paragraphs A.1. and A.8., adding paragraphs A.21. through A.25., revising paragraphs B.1. and C.1., redesignating paragraphs C.3. through C.8. as paragraphs C.4. through C.9., adding a new paragraph C.3., revising paragraph C.4., and adding paragraphs C.9., D.10. and D.11. of Cat Island National Wildlife Refuge;

f. Revising paragraphs A.2. and A.4., adding paragraphs A.15. and A.16., revising paragraphs B.1. and B.8., adding paragraphs B.9. and B.10., revising paragraphs C.1., C.2., C.3., C.8., adding paragraph C.11., revising paragraph D.1., and adding paragraph D.8. of Catahoula National Wildlife Refuge;

g. Revising paragraph A.6. of D'Arbonne National Wildlife Refuge;

h. Revising paragraph A.12., adding paragraph A.13., and revising paragraph C.1. of Delta National Wildlife Refuge;

i. Revising paragraph A.1., adding paragraphs A.23. through A.29., revising paragraphs B.1., C.1., C.2., C.3., and C.4., adding paragraph C.9., and revising paragraphs D.1. and D.8., and adding paragraphs D.13. through D.15. of Grand Cote National Wildlife Refuge;

j. Revising the heading and introductory text of paragraph A., revising paragraphs A.1., A.15., A.16., adding paragraphs A.21., A.22., and A.23. revising paragraphs B.1., B.2., C.1., C.3., C.4., C.6., C.11., C.12., adding paragraphs C.15. through C.17., revising paragraph D.1., and adding paragraphs D.9. and D.10. of Lake Ophelia National Wildlife Refuge; and

k. Revising paragraph A.8. of Upper Ouachita National Wildlife Refuge to read as follows:

§ 32.37 Louisiana.

* * * * *

Big Branch Marsh National Wildlife Refuge

A. Migratory Game Bird Hunting. We allow hunting of duck, coot, goose, snipe, rail, and gallinule on designated areas of the refuge during the State waterfowl season in accordance with State regulations subject to the following conditions:

* * * * *

8. The refuge is open from ½ hour before legal sunrise to ½ hour after legal sunset.

* * * * *

12. Hunters may not enter the refuge before 4 a.m.

13. We prohibit any person or group to act as a hunting guide, outfitter, or in any other capacity that any other individual(s) pays or promises to pay directly or indirectly for services rendered to any other person or persons hunting on the refuge, regardless of whether such payment is for guiding, outfitting, lodging, or club membership.

B. Upland Game Hunting. We allow hunting of squirrel, rabbit, woodcock, and quail on designated areas of the refuge in accordance with State regulations subject to the following conditions:

* * * * *

4. Conditions A5 through A13 apply.

* * * * *

C. Big Game Hunting. * * *

* * * * *

10. Conditions A5 through A13 apply.

* * * * *

Black Bayou Lake National Wildlife Refuge

A. Migratory Game Bird Hunting. * * *

* * * * *

6. We prohibit hunting within 150 feet (45 m) of the maintained right-of-way of roads, from or across ATV trails (see § 27.31 of this chapter). We prohibit hunting within 50 feet (15 m), or trespassing on above-ground oil or gas production facilities.

* * * * *

Boque Chitto National Wildlife Refuge

A. Migratory Game Bird Hunting. * * *

* * * * *

9. We allow primitive camping within 100 feet (30 m) of designated streams. These include either bank of the Boque Chitto River, Wilson Slough, and West Pearl River south of Wilson Slough, refuge lands along the East Pearl River, and Holmes Bayou.

10. We prohibit any person or group to act as a hunting guide, outfitter, or in any other capacity that any other individual(s) pays or promises to pay directly or indirectly for services rendered to any other person or persons hunting on the refuge, regardless of whether such payment is for guiding, outfitting, lodging, or club membership.

B. Upland Game Hunting. * * *

* * * * *

7. Conditions A3 (upland game hunts), and A5 through A10 apply.

8. During the refuge deer gun season, all hunters except waterfowl hunters must wear a minimum of 400 square inches (2,600 cm2) of unbroken hunter orange as the outermost layer of clothing on the chest and back, and in addition we require a hat or cap of unbroken hunter orange.

9. We allow upland game hunting during the open State season.

C. Big Game Hunting. * * *

1. Conditions A3 (one adult may only supervise one youth hunter during refuge Gun Deer Hunts), A5 through A7, A10, B5, and B8 apply.

* * * * *

3. We allow archery deer hunting during the open State archery season.

* * * * *

9. You may take hogs as incidental game while participating in the refuge archery, primitive weapon and general gun deer hunts only. Additionally, you may take hogs typically during varying dates in January and February, and you must only take them with the aid of trained hog-hunting dogs from legal sunrise until legal sunset. During the special hog season in January and February, hunters may use pistol or rifle ammunition not larger than .22 caliber or a shotgun with nontoxic (steel, bismuth) shot to kill hogs after they have been caught by dogs.

* * * * *

D. Sport Fishing. * * *

* * * * *

2. Conditions A9 and B5 apply.

* * * * *

4. We allow boats in the fishing ponds at the Pearl River Turnaround that do not have gasoline-powered engines attached. These boats must be hand launched into the ponds.

* * * * *

6. We allow trotlines but the last five feet of trotline must be 100% cotton.

* * * * *

Cameron Prairie National Wildlife Refuge

A. Migratory Game Bird Hunting. * * *

* * * * *

5. We allow dove hunting on designated areas during the first split of the State dove season only.

6. We allow snipe hunting on designated areas for the remaining portion of the State snipe season following closure of the State Ducks and Coots season in the West Zone.

* * * * *

Cat Island National Wildlife Refuge

A. Migratory Game Bird Hunting. * * *

1. We require hunters and anglers age 16 and older to purchase and carry a signed refuge special recreational activity permit.

* * * * *

8. You must report all harvest game at the refuge check station upon leaving the refuge.

* * * * *

21. We prohibit accessing refuge property by boat from the Mississippi River.

22. Persons using the refuge are subject to inspection of permits, licenses, hunting equipment, bag limits, and boats and vehicles by law enforcement officers.

23. We allow nonmotorized or electric-powered boats only.

24. We prohibit trapping.

25. We prohibit the possession of saws, saw blades, or machetes.

B. Upland Game Hunting. * * *

1. Conditions A1 through A17, A19, A21, and A22 apply.

* * * * *

C. Big Game Hunting. * * *

1. Conditions A1 through A17, A19, and A21 through A22 apply.

* * * * *

3. There will be two or three lottery gun hunts (muzzleloader/rifle) in November and December (see refuge brochure for details). We will set hunt dates in July, and we will accept applications from August 1 through August 31. Applicants may apply for more than one hunt. There is a $5 application fee per person for each hunt application and a $15 per person permit for each successful applicant. We will notify successful applicants by September 5.

4. We allow only portable deer stands. Hunters may erect stands 2 days before the beginning of the refuge archery season and must remove them the last day of the State archery season (see § 27.93 of this chapter).

5. We prohibit the use of dogs to trail wounded deer or hogs.

* * * * *

9. We prohibit driving or screwing nails, spikes, or other metal objects into trees or hunting from any tree into which such an object has been driven (see § 32.2(i)).

D. Sport Fishing. * * *

* * * * *

10. We prohibit boat launching by trailer from all refuge roads and parking lots.

11. We prohibit the harvest of frogs or turtles (see § 27.21 of this chapter).

Catahoula National Wildlife Refuge

A. Migratory Game Bird Hunting. * * *

* * * * *

2. We allow goose, duck, and coot hunting on the Bushley Bayou Unit on Tuesdays, Thursdays, Saturdays, and Sundays only from ½ hour before legal sunrise until 12 p.m. (noon) during the State season.

* * * * *

4. We allow ATVs on ATV trails (see § 27.31 of this chapter) designated on the refuge hunt/fish permit from September 1 through the end of rabbit season. We open Bushley Creek, Black Lake, Boggy Bayou, Round Lake, Dempsey Lake Roads, and that portion of Minnow Ponds Road at Highway 8 to Green's Creek Road and then south to Green's Creek Bridget to ATVs year-round. We prohibit the use of an ATV on graveled roads designated for motor vehicle traffic unless otherwise posted. We only allow ATVs for wildlife-dependent activities. We define an ATV as an off-road vehicle (not legal for highway use) with factory specifications not to exceed the following: weight 750 lbs. (337.5 kg), length 85 inches (212.5 cm), and width 48 inches (120 cm). We restrict ATV tires to those no larger than 25 × 12 with a maximum 1 inch (2.5 cm) lug height and a maximum allowable tire pressure of 7 psi as indicated on the tire by the manufacturer.

* * * * *

15. We only allow dogs to locate, point, and retrieve when hunting for migratory game birds. We only allow dogs after the last deer-muzzleloader hunt, except when we allow them for waterfowl hunting throughout the entire refuge waterfowl season.

16. We prohibit camping or parking overnight on the refuge.

B. Upland Game Hunting. * * *

1. Conditions A1, A4 (at the Bushley Bayou Unit), A7 through A14, and A16 apply.

* * * * *

8. At the Headquarters Unit, we close upland game hunting during high water conditions with an elevation of 42 feet (12.6 m) or above as measured at the Corps of Engineers center of the lake gauge on Catahoula Lake. At the Bushley Bayou Unit, we close upland game hunting during high water conditions with an elevation of 44 feet (13.2 m) or above as measured at the Corps of Engineers center of the lake gauge on Catahoula Lake.

9. On the Bushley Bayou Unit we allow the use of dogs to hunt squirrel, rabbit, and raccoon only after the last deer-muzzleloader hunt.

10. Dog owners must place their names and phone numbers on the collars of all of their dogs.

C. Big Game Hunting. * * *

1. Conditions A1, A4 (at the Bushley Bayou Unit), A7 through A9, A12 through A14, A16, and B4 through B8 (big game hunting) apply.

2. At the Bushley Bayou Unit, we allow deer-archery hunting during the State archery season, except when closed during deer-gun and deer-muzzleloader hunts. We allow either-sex, deer-muzzleloader hunting during the first segment of the State season for Area 1, weekdays only (Monday through Friday) and the third weekend after Thanksgiving Day. We allow either-sex, deer-gun hunting for the Friday, Saturday, and Sunday immediately following Thanksgiving Day and for the second weekend following Thanksgiving Day.

3. At the Headquarters Unit, we allow deer-archery hunting during the State archery season, except when closed during the deer-gun hunt south of the French Fork of the Little River. We allow either-sex, deer-gun hunting on the fourth weekend after Thanksgiving Day on the area south of the French Fork of the Little River.

* * * * *

8. We prohibit the use of organized drives for taking or attempting to take game or using pursuit dogs.

* * * * *

11. We prohibit the use of dogs to trail wounded deer.

D. Sport Fishing. * * *

1. Conditions A4 (at the Bushley Bayou Unit), A7, A9, A13 (as a fishing guide), A14, A16, B5, and B7 apply.

* * * * *

8. We prohibit bank fishing on Bushley Creek and fishing in Black Lake, Dempsey Lake, Long Lake, Rhinehart Lake, and round Lake, during deer-gun and muzzleloader hunts. We prohibit fishing in Black Lake, Dempsey Lake, Long Lake, Rhinehart Lake, and Round Lake during waterfowl hunts.

D'Arbonne National Wildlife Refuge

A. Migratory Game Bird Hunting. * * *

* * * * *

6. We prohibit hunting within 150 feet (45 m) of the maintained right-of-way roads, from or across ATV trails (see § 27.31 of this chapter). We prohibit hunting within 50 feet (15 m) or trespassing on above-ground oil or gas production facilities.

* * * * *

Delta National Wildlife Refuge

A. Migratory Game Bird Hunting. * * *

* * * * *

12. We prohibit any person or group to act as a hunting guide, outfitter, or in any other capacity that any other individual(s) pays or promises to pay directly or indirectly for services rendered to any other person or persons hunting on the refuge, regardless of weather such payment is for guiding, outfitting, lodging, or club membership.

13. We open the refuge from ½ hour before legal sunrise to ½ hour after legal sunset, with the exception that hunters may enter the refuge earlier, but not before 4 a.m. Condition A10 applies.

* * * * *

C. Big Game Hunting. * * *

1. For archery hunting of deer and hogs, conditions A4 through A13 apply. For A11 each adult may supervise no more than one youth hunter during big game hunting.

* * * * *

Grand Cote National Wildlife Refuge

A. Migratory Game Bird Hunting. * * *

1. We require hunters and anglers age 16 and older to purchase and carry a signed refuge special recreational activity permit.

* * * * *

23. There will be space-blind waterfowl hunts on designated sections of the refuge during the regular State waterfowl season (see refuge brochure for details). Hunt dates will be Wednesdays and Saturdays until 12 p.m. (noon). There will be a random drawing on each hunt day to select participants. The drawing for each hunt day will be approximately 2 hours before legal sunrise. We will limit blinds to three persons. We will set hunt dates in September, subject to water availability, after the State sets the season.

24. There will youth-only lottery waterfowl hunts on designated sections of the refuge during the regular State waterfowl season (see refuge brochure for details). We will determine hunt dates after the State sets the waterfowl season and limit the hunts to no more than five per season. We will accept applications from November 1 through November 21. We will notify successful applicants by mail.

25. There may be special youth, women, and disabled hunter dove hunts (subject to cropland availability) during the regular State dove season (see refuge brochure for details). We will determine hunt dates after the State sets the season. We will determine the number of hunt days and participants by location of available cropland. We will accept applications from July 1 through July 31, and we may only select individuals for one hunt date. We will notify successful applicants by mail.

26. Individuals utilizing the refuge are subject to inspections of permits, licenses, hunting equipment, bag limits, and boats and vehicles by law enforcement officers.

27. We allow nonmotorized or electric-powered boats only.

28. We prohibit the possession of saws, saw blades, or machetes.

29. We prohibit trapping.

B. Upland Game Hunting. * * *

1. Conditions A1 through A16, A20, and A26 apply.

* * * * *

C. Big Game Hunting. * * *

1. Conditions A1 through A16, A20, and A26 apply.

2. We allow archery-only deer hunting on certain sections of the refuge from October 1 through November 30 (see refuge brochure for details).

3. We allow only portable deer stands (see §§ 27.93 and 27.94 of this chapter). Deer stands must have the owner's name, address, and phone number clearly printed on the stand.

4. We prohibit hunters to drive deer or to use pursuit dogs. We prohibit the use of dogs to trail wounded deer or hogs.

* * * * *

9. We prohibit driving or screwing nails, spikes, or other metal objects into trees or hunting from any tree into which such an object has been driven (see § 32.2(i)).

D. Sport Fishing. * * *

1. Conditions A11, A26, C7, and C8 apply

* * * * *

8. You may harvest 100 lbs. (45 kg) of crawfish per person per day.

* * * * *

13. We prohibit the harvest of frogs or turtles (see § 27.21 of this chapter).

14. We only allow bank fishing in Coulee des Grues along Little California Road.

15. We prohibit launching boats, put or placed, in Coulee des Grues from refuge property.

* * * * *

Lake Ophelia National Wildlife Refuge

A. Migratory Game Bird Hunting. We allow hunting of duck, goose, coot, woodcock, snipe, and mourning dove on designated areas of the refuge, as shown in the refuge hunting brochure map, in accordance with State regulations subject to the following conditions:

1. We require hunters and anglers age 16 and older to purchase and carry a signed refuge special recreational activity permit.

* * * * *

15. We allow motors up to 25 hp in Possum Bayou (north of Boat Ramp), Palmetto Bayou, Westcut Lake, Pt. Basse, and Nicholas Lake.

16. We allow electric-powered or nonmotorized boats in Dooms Lake, Lake Long, and Possum Bayou (south of Boat Ramp).

* * * * *

21. We will allow incidental take of mourning dove while migratory bird hunting on days open to waterfowl hunting.

22. Persons using the refuge are subject to inspections of permits, licenses, hunting equipment, bag limits, boats, and vehicles by law enforcement officers.

23. We prohibit trapping.

B. Upland Game Hunting. * * *

1. Conditions A1 through A16, A19, and A22 apply.

2. We allow squirrel and rabbit hunting in Hunt Unit 2B from the opening of the State season through December 15.

* * * * *

C. Big Game Hunting. * * *

1. Conditions A1 through A3, A5 through A16, A19, and A22 apply.

* * * * *

3. We allow archery hunting from November 15 through January 1 and January 23 to the end of the State archery season except during the youth and muzzleloader deer hunts when we prohibit archery hunting.

4. We allow archery deer hunting in Hunt Units 1B and 2B from November 15 through December 15.

* * * * *

6. We allow only portable deer stands. Hunters may erect deer stands 2 days before the beginning of the refuge archery season and must remove them the last day of the State archery season.

* * * * *

11. We allow electric-powered or nonmotorized boats in Lake Ophelia from November 1 through December 15.

12. You may kill one deer of either sex per day during the first refuge archery season, and you may kill antlered bucks only during the second refuge archery season.

* * * * *

15. There will be three lottery muzzleloader hunts (see refuge brochure for details). We will set hunt dates in July, and we will accept applications from August 1 through August 31. Applicants may NOT apply for more than one hunt. There is a $5 nonrefundable application fee per person for each hunt application and a $15 per person permit for each successful applicant. We will notify successful applicants by September 15.

16. There will be two lottery deer hunts for youth ages 12 to 15 (see refuge brochure for details). We will set hunt dates in July, and we will accept applications from November 1 through November 21. We will provide blinds. We will require successful applicants to pass a shooting proficiency test in order to qualify for the hunt. We will notify successful applicants by mail.

17. We prohibit driving or screwing nails, spikes, or other metal objects into trees or hunting from any tree in which such an object has been driven (see § 32.2(i)).

D. Sport Fishing. * * *

1. Conditions A1, A3, A5 through A9, A17, A19 (remove boats [see § 27.93 of this chapter]) and A22 apply.

* * * * *

9. We prohibit the harvest of frogs or turtles (see § 27.21 of this chapter).

10. We prohibit crawfishing.

* * * * *

Upper Ouachita National Wildlife Refuge

A. Migratory Game Bird Hunting. * * *

* * * * *

8. We prohibit hunting within 150 feet (45 m) of the maintained right-of-way of roads and from or across ATV trails (see § 27.31 of this chapter). We prohibit hunting within 50 feet (15 m) or trespassing on above-ground oil or gas production facilities.

* * * * *

16. Amend § 32.38 Maine by:

a. Revising paragraphs A., B., and C. of Moosehorn National Wildlife Refuge;

b. Revising the introductory text of paragraph A., revising paragraphs A.5. and A.6., and adding paragraphs A.7. and A.8., revising paragraph B., revising paragraphs C.1., C.3, C.5., C.6., C.7., C.8., and adding paragraph C.9., and revising paragraph D. of Rachel Carson National Wildlife Refuge; and

c. Revising Sunkhaze Meadows National Wildlife Refuge to read as follows:

§ 32.38 Maine.

* * * * *

Moosehorn National Wildlife Refuge

A. Migratory Game Bird Hunting. We allow hunting of duck, goose, American woodcock, and Wilson's snipe on designated areas of the Baring and Edmunds Division of the refuge in accordance with State regulations subject to the following conditions:

1. We require every hunter to possess and carry a personally signed refuge hunting permit. Permits and regulations are available at checkpoints throughout the refuge.

2. You must complete a Hunter Information Card at a self-clearing check station after each hunt before leaving the refuge.

3. We allow hunters to enter the refuge 2 hours before legal shooting hours, and they must exit the refuge by 1 hour past legal shooting hours.

4. You may hunt American woodcock and Wilson's snipe on the Edmunds Division and that part of the Baring Division that lies west of State Route 191.

5. You may hunt waterfowl (duck and goose) in that part of the Edmunds Division that lies north of Hobart Stream and west of U.S. Route 1, and in those areas east of U.S. Route 1, and refuge lands that lie south of South Trail, and in that portion of the Baring Division that lies west of State Route 191.

6. We prohibit hunting of migratory birds in the Nat Smith Field and Marsh or Bills Hill Ponds on the Edmunds Division.

7. We prohibit construction or use of any permanent blind.

8. You may only use portable or temporary blinds.

9. You must remove portable or temporary blinds and decoys from the refuge following each day's hunt (see §§ 27.93 and 27.94 of this chapter).

10. We prohibit motorized or mechanized vehicles and equipment in designated Wilderness Areas. This includes all vehicles and items such as winches, pulleys, and wheeled game carriers. Hunters must remove animals harvested within the Wilderness Areas by hand without the aid of mechanical equipment of any type.

B. Upland Game Hunting. We allow hunting of ruffed grouse, snowshoe hare, red fox, red squirrel, gray squirrel, raccoon, skunk, and woodchuck on designated areas of the Baring and Edmunds Divisions of the refuge in accordance with State regulations subject to the following conditions:

1. Conditions A1, A2, and A10 apply.

2. We allow hunters to enter the refuge ½ hour before legal shooting hours, and they must exit the refuge by ½ hour past legal shooting hours except for hunters pursuing raccoons at night.

3. During the firearms big game seasons, you must wear in a conspicuous manner on head, chest, and back a minimum of 400 square inches (2,600 cm²) of solid-colored, hunter-orange clothing or material.

4. We allow the hunting of ruffed grouse, snowshoe hare, red fox, red squirrel, gray squirrel, raccoon, skunk, and woodchuck on the Edmunds Division and that part of the Baring Division that lies west of State Route 191.

5. We prohibit hunting of upland game on refuge lands from April 1 through September 30.

6. You must register with the refuge office prior to hunting raccoon or red fox with trailing dogs.

C. Big Game Hunting. We allow hunting of black bear, bobcat, eastern coyote, moose, and white-tailed deer on designated areas of the refuge in accordance with State regulations subject to the following conditions:

1. Conditions A1, A2, A10, B3, and B5 apply.

2. We allow hunters to enter the refuge ½ hour before legal shooting hours, and they must exit the refuge by ½ hour past legal shooting hours, except for hunters pursuing eastern coyotes at night.

3. We allow bear hunting from October 1 to the end of the State Prescribed Season.

4. We allow eastern coyote hunting from October 1 to March 31 annually.

5. If you harvest a bear, deer, or moose on the refuge, you must notify the refuge office in person or by phone within 24 hours and make the animal available for inspection by refuge personnel.

6. We prohibit construction or use of permanent tree stands, blinds, or ladders.

7. You must use only portable tree stands, blinds, and ladders.

8. You must clearly label any tree stand, blind, or ladder left on the refuge overnight with your name, address, phone number, and hunting license number.

9. You must remove all tree stands, blinds, and ladders from the refuge on the last day of the muzzleloader deer season (see §§ 27.93 and 27.94 of this chapter).

10. You may hunt black bear, eastern coyote, and white-tailed deer during the State archery and firearms deer seasons on that part of the Baring Division that lies east of State Route 191.

11. You may hunt black bear, bobcat, eastern coyote, moose, and white-tailed deer on the Edmunds Division and that part of the Baring Division that lies west of State Route 191.

12. You may only use a long, recurve, or compound bow to hunt during the archery deer season, and a muzzleloader to hunt during the deer muzzleloader season on that part of the refuge that lies east of Route 191.

13. You must register with the refuge office prior to hunting black bear, bobcat, or eastern coyote with trailing dogs.

14. We prohibit hunting in the following areas:

i. The South Magurrewock Area: The boundary of this area begins at the intersection of the Charlotte Road and U.S. Route 1; it follows the Charlotte Road in a southerly direction to a point just south of the fishing pier and observation blind, where it turns in an easterly direction, crossing the East Branch of the Magurrewock Stream, and proceeds in a northerly direction along the upland edge of the Upper and Middle Magurrewock Marshes to U.S. Route 1 where it follows Route 1 in a southerly direction to the point of origin.

ii. The North Magurrewock Area: The boundary of this area begins where the northern exterior boundary of the refuge and Route 1 intersect; it follows the boundary line in a westerly direction to the railroad grade where it follows the main railroad grade and refuge boundary in a southwest direction to the upland edge of the Lower Barn Meadow Marsh; it then follows the upland edge of the marsh in an easterly direction to U.S. Route 1, where it follows Route 1 to the point of origin.

iii. The posted safety zone around the refuge headquarters complex: The boundary of this area starts where the southerly edge of the Horse Pasture Field intersects with the Charlotte Road. The boundary follows the southern edge of the Horse Pasture Field, across the abandoned Maine Central Railroad grade, where it intersects with the North Fireline Road. It follows the North Fireline Road to a point near the northwest corner of the Lane Construction Tract. The line then proceeds along a cleared and marked trail in a northwesterly direction to the Barn Meadow Road. It proceeds south along the Barn Meadow Road to the intersection with the South Fireline Road, where it follows the South Fireline Road across the Headquarters Road to the intersection with the Mile Bridge Road. It then follows the Mile Bridge Road in a southerly direction to the intersection with the Lunn Road, then along the Lunn Road leaving the road in an easterly direction at the site of the old crossing, across the abandoned Maine Central Railroad grade to the Charlotte Road (directly across from the Moosehorn Ridge Road gate). The line follows the Charlotte Road in a northerly direction to the point of origin.

iv. The Southern Gravel Pit: The boundary of this area starts at a point where Cranberry Brook crosses the Charlotte Road and proceeds south along the Charlotte Road to the Barin/Charlotte Town Line, east along the Town Line to a point where it intersects the railroad grade where it turns in a northerly direction, and follows the railroad grade to Cranberry Brook, following Cranbettery Brook in a westerly direction to the point of origin.

* * * * *

Rachel Carson National Wildlife Refuge

A. Migratory Game Bird Hunting. We allow hunting of duck, goose, coot, woodcock, and snipe in accordance with State regulations on designated areas of the Brave Boat Harbor, Lower Wells, Upper Wells, Mousam River, Goose Rocks, and Spurwink River Divisions of the refuge subject to the following conditions:

* * * * *

5. You may use seasonal blinds with a Special Use Permit. A permitted seasonal blind is available to permitted hunters on a first-come, first-served basis. The permit holder for the blind is responsible for the removal of the blind at the end of the season and compliance with all conditions of the Special Use Permit. You must remove temporary blinds, decoys, and boats from the refuge each day (see §§ 27.93 and 27.94 of this chapter).

6. We open the refuge to hunting during the hours stipulated by State regulations but no longer than ½ hour before legal sunrise to ½ hour after legal sunset. We close the refuge to night hunting. You must unload all firearms (see § 27.42(b) of this chapter) outside of legal hunting hours.

7. We prohibit all-terrain vehicles (ATVs or OHRVs) (see § 27.31(f) of this chapter).

8. We close the Moody, Little River, Biddeford Pool, and Goosefare Brook divisions of the refuge to all migratory bird hunting.

B. Upland Game Hunting. We allow hunting of pheasant and grouse on designated areas of the Brave Boat Harbor, Lower Wells, Upper Wells, Mousam River, Goose Rocks, Goosefare Brook, and Spurwink River division of the refuge in accordance with State regulations subject to the following conditions:

1. Conditions A1, A6, and A7 apply.

2. You may take pheasant and grouse by falconry during State seasons.

3. You may only possess approved nontoxic shot (see § 32.2(k)) while on the refuge.

4. We close the Moody, Little River, and Biddeford Pool division of the refuge to all upland game hunting.

C. Big Game Hunting. * * *

1. Conditions A1, A6, and A7 apply.

* * * * *

3. You must use only portable tree stands and ladders. We prohibit use of nails, screws, or bolts to attach tree stands and ladders to trees (see § 32.2(i)). You must remove tree stands and ladders from the refuge following each day (see §§ 27.93 and 27.94 of this chapter).

* * * * *

5. We close the Moody and Biddeford Pool divisions of the refuge to white-tailed deer hunting.

6. We only allow archery on those areas of the Little River division open to hunting.

7. You may hunt fox and coyote with archery or shotgun during daylight hours of the State firearm deer season only.

8. Bow hunters with refuge permits may apply for the special “Wells Hunt”. We must receive letters of interest by November 1 for consideration in a random drawing. Selected hunters must comply with regulations as set by the State.

9. You must report any deer harvested to the refuge office within 48 hours.

D. Sport Fishing. We allow sport fishing along the shoreline on the following designated areas of the refuge in accordance with State regulations subject to the following conditions:

1. At the Brave Boat Harbor division on the north side (York) of the stream crossing under Route 103, beginning at Route 103 then downstream to the first railroad trestle.

2. At the Moody division on the north side of the Ogunquit River and downstream of Route 1, beginning at the refuge boundary then downstream a distance of 500 feet (150 m).

3. At the Moody division on the east side of Stevens Brook and downstream of Bourne Avenue, beginning at Bourne Avenue then downstream to where the refuge ends near Ocean Avenue.

4. At the Lower Wells division on the west side of the Webhannet River downstream of Mile Road, from Mile Road north to the first creek.

5. At the Upper Wells division on the south side of the Merriland River downstream of Skinner Mill Road, beginning at the refuge boundary and then east along the oxbow to the woods.

6. At the Mousam River division on the north side of the Mousam River downstream of Route 9, beginning at the refuge boundary and then east to a point opposite Great Hill Road. Access is from the Bridle Path along the first tidal creek.

7. At the Goosefare Brook division on the south side of Goosefare Brook where it flows into the Atlantic Ocean.

8. At the Spurwink River division on the west side (Scarborough) of the Spurwink River upstream of Route 77, beginning at Route 77 and then upstream approximately 1,000 feet (300 m) to a point near the fork in the river.

9. You may launch boats from car top from legal sunrise to legal sunset at Brave Boat Harbor division on Chauncey Creek at the intersection of Cutts Island Road and Sea Point Road.

10. We allow car-top launching from legal sunrise to legal sunset at Spurwink River division on the upstream side of Route 77 at the old road crossing.

11. We allow fishing from legal sunrise to legal sunset.

12. We prohibit lead jigs and sinkers.

13. Anglers must attend their lines at all times.

14. We prohibit collection of bait on the refuge.

Sunkhaze Meadows National Wildlife Refuge

A. Migratory Game Bird Hunting. We allow hunting of migratory game birds on designated areas of the refuge in accordance with State regulations.

B. Upland Game Hunting. We allow hunting of upland game on designated areas of the refuge in accordance with State regulations subject to the following condition: You may possess only approved nontoxic shot while in the field (see § 32.2(k)).

C. Big Game Hunting. We allow hunting of deer, moose, and bear on designated areas of the refuge in accordance with State regulations subject to the following condition: You must wear, in a conspicuous manner on head, chest, and back a minimum of 400 square inches (2,600 cm²) of solid-colored hunter-orange clothing or material during firearms big game season.

D. Sport Fishing. We allow sport fishing on the waters of and from the banks of Baker Brook, Birch Stream, Buzzy Brook, Dudley Brook, Johnson Brook, Little Birch Stream, Little Buzzy Brook, Sandy Stream, and Sunkhaze Stream.

17. Amend § 32.39 Maryland by revising Patuxent Research Refuge to read as follows:

§ 32.39 Maryland.

* * * * *

Patuxent Research Refuge

A. Migratory Game Bird Hunting. We allow hunting of goose, duck, and dove on the North Tract in accordance with State regulations subject to the following conditions:

1. We require a fee-hunting permit.

2. We require hunters age 17 and under to have a parent or guardian countersign to receive a hunting permit. An adult, age 21 or older, possessing a hunting permit, must accompany hunters age 16 and younger in the field.

3. You must check-in and out at the Hunter Control Station (HCS) and exchange your hunting permit for a daily hunting pass and a vehicle pass every time you enter or exit the refuge, including breaks, lunch, and dinner.

4. We restrict hunters to the selected area and activity until you check out at the HCS.

5. You must use established and maintained roads and not block traffic (see § 27.31(h) of this chapter).

6. We prohibit hunting on or across any road, within 50 yards (45 m) of a road, within 150 yards (135 m) of any occupied structure, or within 25 yards (22.5 m) from any designated “No Hunting” area. Only those with a State “Hunt from a Vehicle Permit” may hunt from the roadside at designated areas.

7. You must wear at least a fluorescent-orange hat or cap when walking from your vehicle to your hunting site. “Jump Shooters” must wear at least a fluorescent-orange hat or cap while hunting. If you stop and stand, you may replace the orange hat or cap with a camouflage one.

8. You may only carry one shotgun, 20 gauge or larger, in the field. We prohibit additional firearms.

9. We only allow the taking of Canada goose during the special September and late season for a resident Canada goose.

10. We prohibit hunting of goose, duck, or dove during the deer firearm seasons and the early deer muzzleloader seasons that occur in October.

11. We prohibit dove hunting during any deer muzzleloader or firearms seasons.

12. We require waterfowl hunters to use retrievers on any impounded waters. Retrievers must be of the traditional breeds, such as Chesapeake Bay, Golden, Labrador, etc.

13. We require dogs to be under the immediate control of their owner at all times. Law enforcement officers may seize dogs running loose or unattended (see § 26.21(b) of this chapter).

B. Upland Game Hunting. We allow hunting of turkey, bobwhite quail, grey squirrel, eastern cottontail rabbit, and woodchuck on the North Tract and turkey on the Central Tract in accordance with State regulations subject to the following conditions:

1. Conditions A1 and A6 apply.

2. You must wear a minimum of 400 square inches (2,600 cm²) of fluorescent orange on your head, chest, and back while hunting upland game except for turkey hunting. We encourage turkey hunters to wear fluorescent orange.

3. We prohibit hunting of upland game during the firearms and muzzleloader seasons.

4. We select turkey hunters by a computerized lottery for youth, disabled, mobility impaired, and general public hunts. We require documentation for disabled and mobility-impaired hunters.

5. We require each turkey hunter to attend a turkey clinic sponsored by the National Wild Turkey Federation.

6. We require turkey hunters to pattern their weapons prior to hunting.

C. Big Game Hunting. We allow hunting of white-tailed deer in accordance with State regulations subject to the following conditions:

1. We require you to pass a proficiency test with each weapon that you desire to use prior to issuing you a hunting permit.

2. Conditions A1 through A6 apply.

3. You must wear a minimum of 400 square inches (2,600 cm²) of fluorescent orange on your head, chest, and back while hunting. Bow hunters must follow this requirement when moving to and from the deer stand and while tracking. We do not require bow hunters to wear the fluorescent orange when positioning to hunt except during the deer muzzleloader season.

4. We will extract a jaw from each deer harvested before leaving the refuge.

5. We publish the Refuge Hunting Regulations, which include the daily and yearly bag limits and hunting dates for the North, Central, and South Tracts, in July. We give hunters a copy of the regulations with the fee permit, and they must know the specific hunt seasons and regulations.

6. You must use portable tree stands equipped with a safety belt. You must wear the safety belt while in the tree stand. The stand must be at least 10 feet (3 m) off the ground. You must remove tree stands daily from the refuge (see § 27.93 of this chapter). Hunters must use deer stands to hunt the South and Central Tracts. (We will make limited accommodations for disabled hunters for Central Tract lottery hunts.)

7. We prohibit the firing of weapons after legal shooting hours, including the unloading of muzzleloaders.

8. We prohibit use of dogs to hunt or track wounded deer.

9. If you wish to track wounded deer beyond 1½ hours after legal sunset, you must report in person to the HCS. If you are hunting on the refuge's South or Central Tracts, you must call the HCS. The HCS manager will call a refuge law enforcement officer to gain consent to track. We prohibit tracking later than 2½ hours after legal sunset. We may revoke your hunting privileges if you wound a deer and do not make a reasonable effort to retrieve it. This may include next-day tracking.

10. North Tract: We allow shotgun, muzzleloader, and bow hunting in accordance with the following conditions:

i. Conditions C1 through C9 apply.

11. Central Tract: We allow shotgun and bow hunting in accordance with the following conditions:

i. Conditions C1 through C9 apply.

ii. We only allow bow hunters to hunt on the Schafer Farm.

iii. We select Central Tract shotgun and bow hunters by a computerized lottery. You will be assigned a specific hunting location.

iv. You must carry a flashlight, whistle, and a compass while hunting.

12. South Tract: We allow shotgun, muzzleloader, and bow hunting in accordance with the following regulations:

i. Conditions C1 through C9 and C11iv apply.

ii. You must access South Tract hunting areas A, B, and C off Springfield Road through the Old Beltsville Airport, and South Tract hunting area D off Maryland Route 197 through Gate #4 and park in designated parking areas.

iii. We prohibit shooting into any open meadow or field area.

iv. We prohibit parking along the National Wildlife Visitor Center road or in the visitor center parking lot.

D. Sport Fishing. We allow sport fishing in accordance with State regulations subject to the following conditions:

1. We require a free refuge fishing permit, which you must carry with you at all times while fishing. Organized groups may request a group permit. The group leader must carry a copy of the permit and stay with the group at all times while fishing.

2. You may take one additional licensed adult or two youths age 15 or under to fish under your permit and in your presence.

3. You may only use earthworms for live bait.

4. We prohibit harvesting bait on the refuge.

5. You must attend all fishing lines.

6. We prohibit fishing from all bridges except the south side of Bailey Bridge.

7. You may take the following species: Chain pickerel, catfish, golden shiner, eel, and sunfish (includes bluegill, black crappie, warmouth, and pumpkinseed).

8. You must catch and release all bass.

9. North Tract: We allow sport fishing in accordance with the following conditions:

i. We allow sport fishing at Lake Allen, Rieve's Pond, New Marsh, Cattail Pond, Bailey Bridge Pond, Bailey Bridge (south side), and Little Patuxent River (downstream only from Bailey's Bridge).

ii. Conditions D1 through D8 apply.

iii. We require a free North Tract refuge access permit that you must possess and carry at all times. If you are age 17 or under, you must have a parent or guardian countersign to receive an access permit. A parent or legal guardian must accompany those anglers age 17 and under.

iv. You may fish year-round at Lake Allen, New Marsh, Cattail Pond, Bailey Bridge Pond, Bailey Bridge (south side), and the Little Patuxent River (downstream only from Bailey Bridge) except during the white-tailed deer muzzleloader and shotgun seasons and the waterfowl hunting season. We also reserve the right to close Lake Allen at any time.

v. You may fish at Rieve's Pond from February 1 to August 31 and on Sundays from September 1 to January 31.

vi. We allow wading, for fishing purposes only, downstream from Bailey Bridge on the Little Patuxent River. We prohibit wading in other bodies of water.

vii. We prohibit the use of any type of watercraft.

10. South Tract: We allow sport fishing in accordance with the following conditions:

i. Conditions D1 through D8 apply.

ii. You must park your vehicle in the parking lot located behind Refuge Gate #8 off Maryland Route 197.

iii. You must display your fishing permit on your vehicle dashboard.

iv. We allow sport fishing at the pier and designated shorelines at Cash Lake. See Refuge Fishing Regulations for areas opened to fishing. We post other areas with “No fishing beyond this point”.

v. You may fish from mid-June until mid-October.

vi. You may fish between the hours of 6 a.m. until legal sunset. We open refuge trails from legal sunrise until 5:30 p.m. daily.

vii. We prohibit boat trailers.

viii. You may use watercraft for fishing in accordance with the State boating laws subject to the following conditions: You may use car-top boats 14 feet (4.2 m) or less, canoes, kayaks, and inflatable boats. You may only use electric motors, 4 hp or less. We prohibit sailboats.

18. Amend § 32.40 Massachusetts by:

a. Adding Assabet River National Wildlife Refuge;

b. Adding Great Meadows National Wildlife Refuge; and

c. Revising Oxbow National Wildlife Refuge to read as follows:

§ 32.40 Massachusetts.

* * * * *

Assabet River National Wildlife Refuge

A. Migratory Game Bird Hunting. We allow hunting of woodcock on designated portions of the refuge in accordance with State regulations subject to the following conditions:

1. We allow woodcock hunting within the portions of the refuge located north of Hudson Road, except those areas north of Hudson Road that are designated as “archery only” hunting on the current refuge hunting map. These archery only hunting areas north of Hudson Road are those portions of the refuge that are external to Patrol Road from its southerly intersection with White Pond Road, northwesterly and then easterly, to its intersection with Old Marlborough Road.

2. We require refuge permits.

3. You must possess and carry all applicable hunting licenses, permits, stamps, and a photographic identification while hunting on the refuge.

4. We prohibit use of motorized vehicles on the refuge. The refuge will provide designated parking areas for hunters. Consult the refuge manager for further details.

5. During any season when it is legal to hunt deer with a shotgun or muzzleloader, we require all hunters to wear a minimum of 500 square inches (3,250 cm²) of solid-orange clothing or material in a conspicuous manner on their chest, back, and head. During all other times, if you are engaged in woodcock hunting on the refuge, you must wear a minimum of a solid-orange hat.

6. We prohibit the use of electronic calls during any hunting season.

7. We prohibit trimming or cutting of branches larger than the diameter of a quarter (see § 27.61 of this chapter).

8. We prohibit the marking any tree or other refuge feature with flagging, paint, reflective material, or any other substance (see § 27.61 of this chapter).

9. You may scout hunting areas on the refuge once you have obtained a refuge permit. Scouting may begin no earlier than 1 month from the opening day of the hunting season. We prohibit the use of dogs during scouting.

10. We allow hunters to enter the refuge 1½ hours before legal hunting hours, and they must leave the refuge no later than 1½ hours after legal sunset.

11. For seasons wherein State regulations allow use of dogs, we allow no more than two dogs per hunting party. We prohibit the training of dogs on the refuge.

B. Upland Game Hunting. We allow upland game hunting on designated areas of the refuge in accordance with State regulations subject to the following conditions:

1. We allow shotgun hunting for ruffed grouse, cottontail rabbit, and gray squirrel within those portions of the refuge located north of Hudson Road, except those areas north of Hudson Road designated as “archery only” hunting on the current refuge hunting map. These archery only hunting areas north of Hudson Road are those portions of the refuge that are external to Patrol Road from its southerly intersection with White Pond Road, northwesterly and then easterly, to its intersection with Old Marlborough Road.

2. Conditions A2, A3, A4, A6, A7, A8, A9, A10, and A11 apply.

3. You may possess only approved nontoxic shot while in the field (see § 32.2(k)).

4. We prohibit construction or use of any permanent structure while hunting on the refuge. You must remove all temporary blinds each day (see §§ 27.93 and 27.94 of this chapter).

5. During seasons when it is legal to hunt deer with a shotgun or muzzleloader, we require all hunters, including archers and small game hunters, to wear a minimum of 500 square inches (3,250 cm²) of solid-orange clothing or material in a conspicuous manner on their chest, back, and head. During all other times, if you are engaged in ruffed grouse, squirrel, or cottontail rabbit hunting on the refuge, you must wear a minimum of a solid-orange hat.

C. Big Game Hunting. We allow hunting of white-tailed deer and turkey on designated areas of the refuge in accordance with State regulations subject to the following conditions:

1. We allow shotgun and muzzleloader hunting of white-tailed deer, as well as shotgun hunting of turkey, within the portions of the refuge located north of Hudson Road, except those areas north of Hudson Road that are designated as “archery only” hunting on the current refuge hunting map. These archery only hunting areas north of Hudson Road are those portions of the refuge that are external to Patrol Road from its southerly intersection with White Pond Road, northwesterly and then easterly, to its intersection with Old Marlborough Road.

2. We allow archery deer and archery turkey hunting within all portions of the refuge during the hunting seasons for these species.

3. We require refuge permits. We limit the numbers of deer and turkey hunters allowed to hunt on the refuge. If the number of applications to hunt these species received is greater than the number of permits available, we will issue permits by random selection.

4. Conditions A3, A4, A6, A7, A8, A9, and A10 apply.

5. During seasons when it is legal to hunt deer with a shotgun or muzzleloader, we require all hunters, including archers, to wear a minimum of 500 square inches (3,250 cm²) of solid-orange clothing or material in a conspicuous manner on their chest, back, and head.

6. You may use decoys to hunt turkey.

7. We prohibit driving deer by any means on the refuge.

8. We prohibit construction or use of permanent structures while hunting. We prohibit driving a nail, spike, screw, or other metal object into any tree or hunting from any tree into which a nail, spike, screw, or other object has been driven (see § 32.2(i)).

9. You may use temporary tree stands while engaged in hunting deer during the applicable archery, shotgun, or muzzleloader deer seasons. You must remove all stands or any blinds by legal sunset each day (see §§ 27.93 and 27.94 of this chapter). We require all tree stands to have the name and address of the owner clearly printed on the stand.

10. We prohibit possession of buckshot while hunting during any season on the refuge.

D. Sport Fishing. We allow sport fishing in Puffer Pond in accordance with State regulations subject to the following conditions:

1. We allow fishing from nonmotorized canoes and car-top boats, as well as from designated locations on the banks of Puffer Pond. We prohibit the use of trailers to launch or retrieve canoes or boats on the refuge.

2. We allow catch and release fishing only.

3. We prohibit the use of live bait.

4. We prohibit lead sinkers.

5. We prohibit taking of frogs or turtles on the refuge (see § 27.21 of this chapter).

6. You may fish on Puffer Pond from ½ hour before legal sunrise to ½ hour after legal sunset.

7. We prohibit night fishing or ice fishing on the refuge.

8. We prohibit open fires anywhere on the refuge.

9. The refuge will provide designated parking areas for anglers. Consult the refuge manager for further details.

Great Meadows National Wildlife Refuge

A. Migratory Game Bird Hunting. We allow hunting of ducks and geese on designated areas of the refuge in accordance with State regulations subject to the following conditions:

1. We require refuge permits. We limit the numbers of waterfowl hunters allowed to hunt on the refuge. If the number of applications received to hunt waterfowl is greater than the number of permits available, we will issue permits by random selection.

2. We will provide waterfowl hunters maps showing the portions of the refuge designated as open.

3. You must possess and carry all applicable hunting licenses, permits, stamps, and a photographic identification while hunting on the refuge.

4. We prohibit construction or use of any permanent structure while hunting on the refuge. You must remove all temporary blinds by legal sunset each day (see §§ 27.93 and 27.94 of this chapter).

5. We prohibit use of motorized vehicles on the refuge.

6. Except while hunting waterfowl from a blind or from a boat, you must wear a minimum of 500 square inches (3,250 cm²) of solid-orange clothing or material in a conspicuous manner on your chest, back, and head during any season when it is legal to hunt deer with a shotgun or muzzleloader.

7. We prohibit the use of electronic calls during any hunting season.

8. We prohibit trimming or cutting of branches larger than the diameter of a quarter (see § 27.61 of this chapter).

9. We prohibit the marking any tree or other refuge feature with flagging, paint, reflective material or any other substance (see § 27.61 of this chapter).

10. You may scout hunting areas on the refuge once you have obtained a refuge permit. Scouting may begin no earlier than 1 month from the opening day of the hunting season. We prohibit the use of dogs during scouting.

11. We allow hunters to enter the refuge 1½ hours before legal hunting hours, and they must leave the refuge no later than 1½ hours after legal sunset.

12. We allow no more than two dogs per hunting party. We prohibit the training of dogs on the refuge.

B. Upland Game Hunting. [Reserved.]

C. Big Game Hunting. We allow archery hunting of whitetail deer on designated areas of the refuge in accordance with State regulations subject to the following conditions:

1. We allow archery hunting of whitetail deer within the portions of the Concord Unit of the refuge that are located north of Massachusetts Route 225. We also allow archery hunting of whitetail deer within the portions of the Sudbury Unit of the refuge that are located north of Stonebridge Road in Wayland, Massachusetts and south of Lincoln Road/Sherman's Bridge Road on the Sudbury and Wayland Town Line.

2. We prohibit the use of firearms for hunting deer on the refuge. However, you may archery hunt in the portions of the refuge that are open for deer hunting during the archery, shotgun, and muzzleloader seasons established by the State.

3. We require refuge permits. We limit the numbers of deer hunters allowed to hunt on the refuge. If the number of applications received to hunt deer on the refuge is greater than the number of permits available, we will issue permits by random selection.

4. Conditions A3, A5, A7, A8, A9, A10, and A11 apply.

5. During seasons when it is legal to hunt deer with a shotgun or muzzleloader, we require all hunters, including archers, to wear a minimum of 500 square inches (3,250 cm²) of solid-orange clothing or material in a conspicuous manner on their chest, back, and head.

6. We prohibit the use of decoys to hunt deer on the refuge.

7. We prohibit driving deer by any means on the refuge.

8. We prohibit construction or use of permanent structures while hunting. We prohibit driving nails, spikes, screws, or other metal object into any tree or hunting from any tree in which a nail, spike, screw, or other object has been driven (see § 32.2(i)).

9. You may use temporary tree stands while engaged in hunting deer. You must remove all stands or any blinds by legal sunset (see §§ 27.93 and 27.94 of this chapter). We require all tree stands to have the name and address of the owner clearly printed on the stand.

D. Sport Fishing. We allow sport fishing in designated areas of the refuge in accordance with State regulations subject to the following condition: We allow fishing along the main channels of the Concord and Sudbury Rivers and from designated banks of Heard Pond. We limit access to Heard Pond to foot traffic only.

Oxbow National Wildlife Refuge

A. Hunting of Migratory Game Birds. We allow hunting of waterfowl, woodcock, and common snipe on designated areas of the refuge in accordance with State regulations subject to the following conditions:

1. We allow waterfowl and common snipe hunting within the portions of the refuge located south of Massachusetts Route 2 and west of the B&M railroad tracks.

2. We allow woodcock hunting within the portions of the refuge south of Massachusetts Route 2 and west of the B&M railroad tracks; north of Massachusetts Route 2 and south of Hospital Road; as well as within the portions of the refuge along the westerly side of the Nashua River located north of the commuter rail tracks in Shirley, Massachusetts.

3. We require refuge permits. We limit the numbers of waterfowl hunters allowed to hunt on the refuge. If the number of applications received to hunt waterfowl is greater than the number of permits available, we will issue permits by random selection.

4. You must possess and carry all applicable hunting licenses, permits, stamps, and a photographic identification while hunting on the refuge.

5. We prohibit construction or use of any permanent structure while hunting on the refuge. You must remove all temporary blinds each day (see §§ 27.93 and 27.94 of this chapter).

6. We prohibit use of motorized vehicles on the refuge.

7. With the exception of waterfowl hunters hunting within a blind or from a boat, during any season when it is legal to hunt deer with a shotgun or muzzleloader, we require all hunters to wear a minimum of 500 square inches (3,250 cm²) of solid-orange clothing or material in a conspicuous manner on their chest, back, and head. During all other times, if you are engaged in woodcock hunting on the refuge, you must wear a minimum of a solid-orange hat.

8. We prohibit the use of electronic calls during any hunting season.

9. We prohibit trimming or cutting of branches larger than the diameter of a quarter (see § 27.51 of this chapter).

10. We prohibit the marking any tree or other refuge feature with flagging, paint, reflective material, or any other substance (see § 27.51 of this chapter).

11. You may scout hunting areas on the refuge once you have obtained a refuge permit. Scouting may begin no earlier than 1 month from the opening day of the hunting season. We prohibit the use of dogs during scouting.

12. We allow hunters to enter the refuge 1½ hours before legal hunting hours, and they must leave the refuge no later than 1½ hours after legal sunset.

13. For seasons wherein State regulations allow use of dogs, we allow no more than two dogs per hunting party. We prohibit the training of dogs on the refuge.

B. Upland Game Hunting. We allow upland game hunting on designated areas of the refuge in accordance with State regulations subject to the following conditions:

1. We allow shotgun hunting of ruffed grouse, cottontail rabbit, and gray squirrels within the areas of the refuge located south of Massachusetts Route 2 and west of the B&M railroad tracks; north of Massachusetts Route 2 and south of Hospital Road; and, within the portions of the refuge along the westerly side of the Nashua River located north of the commuter rail tracks in Shirley, Massachusetts, subject to the following conditions:

2. We require refuge permits.

3. You may possess only approved nontoxic shot while in the field (see § 32.2(k)).

4. Conditions A4, A5, A6, A8, A9, A10, A11, A12, and A13 apply.

5. With the exception of waterfowl hunters hunting within a blind or from a boat, during seasons when it is legal to hunt deer with a shotgun or muzzleloader, we require all hunters, including archers and small game hunters, to wear a minimum of 500 square inches (3,250 cm²) of solid-orange clothing or material in a conspicuous manner on their chest, back, and head. During all other times, if you are engaged in ruffed grouse, squirrel, or cottontail rabbit hunting on the refuge, you must wear a minimum of a solid-orange hat.

C. Big Game Hunting. We allow hunting of white-tailed deer and turkey on designated areas of the refuge in accordance with State regulations subject to the following conditions:

1. We allow shotgun, archery, and muzzleloader hunting of white-tailed deer, as well as shotgun and archery hunting of turkey, within the portions of the refuge located south of Massachusetts Route 2 and west of the B&M railroad tracks.

2. We allow archery deer and archery turkey hunting within the portions of the refuge located south of Massachusetts Route 2 and east of the B&M railroad tracks, as well as within the portions of the refuge along the easterly side of the Nashua River located north of the commuter rail tracks in Ayer, Massachusetts.

3. We allow archery deer hunting as well as shotgun and archery turkey hunting within the portions of the refuge located north of Massachusetts Route 2 and south of Hospital Road; and, within the portions of the refuge along the westerly side of the Nashua River located north of the commuter rail tracks in Shirley, MA.

4. We require refuge permits. We limit the numbers of deer and turkey hunters allowed to hunt on the refuge. If the number of applications received to hunt these species is greater than the number of permits available, we will issue permits by random selection.

5. Conditions A4, A6, A8, A9, A10, A11, and A12 apply.

6. With the exception of waterfowl hunters hunting within a blind or from a boat, during seasons when it is legal to hunt deer with a shotgun or muzzleloader, we require all hunters, including archers, to wear a minimum of 500 square inches (3,250 cm²) of solid-orange clothing or material in a conspicuous manner on their chest, back, and head.

7. Hunters may only use decoys to hunt turkey.

8. We prohibit driving deer by any means on the refuge.

9. We prohibit construction or use of permanent structures while hunting. You may not drive nails, spikes, screws or other metal object into any tree or hunt from any tree in which a nail, spike, screw or other object has been driven (see § 32.2(i)).

10. You may use temporary tree stands while engaged in hunting deer during the applicable archery, shotgun, or muzzleloader deer seasons. You must remove all stands or any blinds by legal sunset (see §§ 27.93 and 27.94 of this chapter). We require all tree stands to have the name and address of the owner clearly printed on the stand.

11. We prohibit possession of buckshot while hunting during any season on the refuge.

D. Sport Fishing. We allow sport fishing along the banks of the Nashua River in accordance with State regulations.

* * * * *

19. Amend § 32.42 Minnesota by:

a. Revising paragraph C. of Agassiz National Wildlife Refuge;

b. Revising the introductory text of paragraph B., adding paragraphs B.4. and B.5. and revising paragraph C. of Big Stone National Wildlife Refuge;

c. Adding Big Stone Wetland Management District;

d. Revising Detroit Lakes Wetland Management District;

e. Revising paragraph A.3., adding paragraphs A.4. through A.6., revising paragraph B., adding paragraph C.3., and revising paragraph D.1. of Fergus Falls Wetland Management District;

f. Adding Glacial Ridge National Wildlife Refuge;

g. Adding paragraph A.5., revising paragraph B., and adding paragraphs C.3. and D.3. of Litchfield Wetland Management District;

h. Revising paragraph A., and adding paragraphs B.4. and C.7. of Minnesota Valley National Wildlife Refuge;

i. Adding Minnesota Valley Wetland Management District;

j. Revising paragraph A.3., adding paragraph A.4., revising paragraph B., adding paragraph C.3., and revising paragraph D.1. of Morris Wetland Management District;

k. Adding paragraphs A.4. and A.5., revising paragraph B.2., and adding paragraphs B.4., C.4. and D. of Northern Tallgrass Prairie National Wildlife Refuge;

l. Adding paragraphs A.2. through A.4., B.3., C.5., and D.4. of Rice Lake National Wildlife Refuge;

m. Adding paragraph C.5. and revising paragraph D. of Rydell National Wildlife Refuge;

n. Revising the introductory text of paragraphs A., B., and C., revising paragraph A.4., and adding paragraphs A.6., A.7., B.3., C.5., and C.6. of Sherburne National Wildlife Refuge;

o. Revising the introductory text of paragraphs A., B., and C., revising paragraph A.2., and adding paragraphs A.3., A.4., B.5., C.4., D.5., and D.6. of Tamarac National Wildlife Refuge; and

p. Revising paragraphs A., C., and D. of Windom Wetland Management District to read as follows:

§ 32.42 Minnesota.

* * * * *

Agassiz National Wildlife Refuge

* * * * *

C. Big Game Hunting. We allow hunting of white-tailed deer and moose on designated areas of the refuge in accordance with State regulations subject to the following conditions:

1. Hunters may use portable stands. Hunters may not construct or use permanent blinds, permanent platforms, or permanent ladders.

2. You must remove all stands and personal property from the refuge by legal sunset each day (see §§ 27.93 and 27.94 of this chapter).

3. We prohibit hunters occupying ground and tree stands that are illegally set up or constructed.

4. We prohibit the use of snowmobiles and ATVs.

5. We allow the use of wheeled, nonmotorized conveyance devices (i.e., bikes, retrieval carts) except in the Wilderness Area.

6. We allow the use of nonmotorized boats and canoes.

7. We prohibit entry into the “Closed Areas”.

8. We prohibit camping.

* * * * *

Big Stone National Wildlife Refuge

* * * * *

B. Upland Game Hunting. We allow hunting of partridge, pheasant, wild turkey, gray and fox squirrel, cottontail and jack rabbit, red and gray fox, raccoon, and striped skunk on designated areas of the refuge in accordance with State regulations subject to the following conditions:

* * * * *

4. We allow the use of hunting dogs, provided the dog is under the immediate control of the hunter at all times during the State-approved hunting season (see § 26.21(b) of this chapter).

5. We prohibit camping.

C. Big Game Hunting. We allow hunting of white-tailed deer on designated areas of the refuge in accordance with State regulations subject to the following conditions:

1. Hunters may use portable stands. Hunters may not construct or use permanent blinds, permanent platforms, or permanent ladders.

2. You must remove all stands and personal property from the refuge by legal sunset each day (see §§ 27.93 and 27.94 of this chapter).

3. We prohibit hunters occupying ground and tree stands that are illegally set up or constructed.

4. We prohibit camping.

* * * * *

Big Stone Wetland Management District

A. Migratory Game Bird Hunting. We allow hunting of migratory game birds throughout the district in accordance with State regulations subject to the following conditions:

1. We prohibit the use of motorized boats.

2. We prohibit the construction or use of permanent blinds, stands, or scaffolds.

3. You must remove all personal property, which includes boats, decoys, and blinds brought onto the WPA each day (see §§ 27.93 and 27.94 of this chapter).

4. We allow the use of hunting dogs, provided the dog is under the immediate control of the hunter at all times during the State-approved hunting season (see § 26.21(b) of this chapter).

5. We prohibit camping.

B. Upland Game Hunting. We allow upland game hunting throughout the district in accordance with State regulations subject to the following conditions: Conditions A4 and A5 apply.

C. Big Game Hunting. We allow big game hunting throughout the district in accordance with State regulations subject to the following conditions:

1. Hunters may use portable stands. Hunters may not construct or use permanent blinds, permanent platforms, or permanent ladders.

2. You must remove all stands and personal property from the WPAs each day (see §§ 27.93 and 27.94 of this chapter).

3. We prohibit hunters occupying ground and tree stands that are illegally set up or constructed.

4. Condition A5 applies.

D. Sport Fishing. We allow fishing throughout the district in accordance with State regulations subject to the following conditions:

1. We prohibit the use of motorized boats.

2. You must remove all ice fishing shelters and all other personal property from the WPAs each day (see § 27.93 of this chapter).

3. Condition A5 applies.

Detroit Lakes Wetland Management District

A. Migratory Game Bird Hunting. We allow hunting of migratory game birds throughout the district in accordance with State regulations, except that we prohibit hunting on the Headquarters Waterfowl Production Area (WPA) in Becker County, the Hitterdal WPA in Clay County, and the McIntosh WPA in Polk County. The following conditions apply:

1. We prohibit the use of motorized boats.

2. We prohibit the construction or use of permanent blinds, stands, or scaffolds (see §§ 27.93 and 27.94 of this chapter).

3. You must remove all personal property, which includes boats, decoys, and blinds brought onto the WPAs each day (see §§ 27.93 and 27.94 of this chapter).

4. We allow the use of hunting dogs, provided the dog is under the immediate control of the hunter at all times during the State-approved hunting season.

5. We prohibit camping.

B. Upland Game Hunting. We allow upland game hunting in accordance with State regulations throughout the district (except that we allow no hunting on the Headquarters Waterfowl Production Area [WPA] in Becker County, the Hitterdal WPA in Clay County, and the McIntosh WPA in Polk County) subject to the following conditions: Conditions A4 and A5 apply.

C. Big Game Hunting. We allow big game hunting in accordance with State regulations throughout the district, except that we prohibit hunting on the Headquarters Waterfowl Production Area (WPA) in Becker County, the Hitterdal WPA in Clay County, and the McIntosh WPA in Polk County. The following conditions apply:

1. Hunters may use portable stands. Hunters may not construct or use permanent blinds, permanent platforms, or permanent ladders.

2. You must remove all stands and personal property from the WPAs each day (see §§ 27.93 and 27.94 of this chapter).

3. We prohibit hunters occupying ground and tree stands that are illegally set up or constructed.

4. Condition A5 applies.

D. Sport Fishing. We allow fishing in accordance with State regulations throughout the district subject to the following conditions:

1. You must remove all ice fishing shelters and all other personal property from the WPAs each day (see § 27.93 of this chapter).

2. Condition A5 applies.

Fergus Falls Wetland Management District

A. Migratory Game Bird Hunting. * * *

* * * * *

3. During the State-approved hunting season, we allow the use of hunting dogs, provided the dog is under the immediate control of the hunter at all times (see § 26.21(b) of this chapter).

4. We prohibit the construction or use of permanent blinds, stands, or scaffolds (see §§ 27.93 and 27.94 of this chapter).

5. We prohibit hunters occupying ground and tree stands that are illegally set up or constructed.

6. We prohibit camping.

B. Upland Game Hunting. We allow upland game hunting throughout the district (except that we prohibit hunting on the Townsend, Headquarters, Mavis, and Gilmore WPAs in Otter Tail County, and Larson WPA in Douglas County) in accordance with State regulations subject to the following conditions: Conditions A3 and A6 apply.

C. Big Game Hunting. * * *

* * * * *

3. Condition A6 applies.

D. Sport Fishing. * * *

1. Conditions A1 and A6 apply.

Glacial Ridge National Wildlife Refuge

A. Migratory Game Bird Hunting. We allow hunting of goose, duck, coot, woodcock, snipe, rail, and mourning dove on designated areas of the refuge in accordance with State regulations subject to the following conditions:

1. We prohibit all types of watercraft.

2. We restrict vehicles to designated parking lots (see § 27.31 of this chapter).

B. Upland Game Hunting. We allow hunting of prairie chicken and sharp-tailed grouse on designated areas of the refuge in accordance with State regulations subject to the following conditions:

1. Only those hunters selected by the Minnesota Department of Natural Resources to hunt prairie chicken may hunt sharp-tailed grouse.

2. Condition A2 applies.

C. Big Game Hunting. We allow hunting of white-tailed deer on designated areas of the refuge in accordance with State regulations subject to the following conditions:

1. You must remove all stands from the refuge at the end of each day's hunt.

2. Condition A2 applies.

D. Sport Fishing. [Reserved]

Litchfield Wetland Management District

A. Migratory Game Bird Hunting. * * *

* * * * *

5. We prohibit camping.

B. Upland Game Hunting. We allow upland game hunting throughout the district (except we prohibit hunting on the Phare Lake Waterfowl Production Area in Renville County) in accordance with State regulations subject to the following conditions: Conditions A4 and A5 apply.

C. Big Game Hunting. * * *

* * * * *

3. Condition A5 applies.

D. Sport Fishing. * * *

* * * * *

3. Condition A5 applies.

Minnesota Valley National Wildlife Refuge

A. Migratory Game Bird Hunting. We allow hunting of goose, duck, and coot on designated areas of the refuge in accordance with State regulations subject to the following conditions:

1. We require permit for special hunts.

2. We prohibit the use of motorized boats.

3. We prohibit the construction or use of permanent blinds, stands, or scaffolds.

4. You must remove all personal property, which includes boats, decoys, and blinds brought onto the refuge each day (see §§ 27.93 and 27.94 of this chapter).

5. We allow the use of hunting dogs, provided the dog is under the immediate control of the hunter at all times during the State-approved hunting season.

6. We prohibit entry to hunting areas earlier than 2 hours before legal shooting hours.

7. We prohibit camping.

B. Upland Game Hunting. * * *

* * * * *

4. Conditions A5 and A7 apply.

C. Big Game Hunting. * * *

* * * * *

7. Conditions A6 and A7 apply.

* * * * *

Minnesota Valley Wetland Management District

A. Migratory Game Bird Hunting. We allow hunting of migratory game birds throughout the district in accordance with State regulations subject to the following conditions:

1. We prohibit the use of motorized boats.

2. We prohibit the construct or use of permanent blinds, stands, or scaffolds.

3. You must remove all personal property, which includes boats, decoys, and blinds brought onto the WPAs each day (see §§ 27.93 and 27.94 of this chapter).

4. We allow the use of hunting dogs, provided the dog is under the immediate control of the hunter at all times during the State-approved hunting season (see § 26.21(b) of this chapter).

5. We prohibit camping.

B. Upland Game Hunting. We allow upland game hunting throughout the district in accordance with State regulations subject to the following conditions: Conditions A4 and A5 apply.

C. Big Game Hunting. We allow big game hunting throughout the district in accordance with State regulations subject to the following conditions:

1. Hunters may use portable stands. Hunters may not construct or use permanent blinds, permanent platforms, or permanent ladders.

2. Hunters may not possess single shot projectiles (shotgun slugs or bullets) on the Soberg Waterfowl Production Area.

3. You must remove all stands and personal property from the WPAs at the end of each day (see §§ 27.93 and 27.94 of this chapter).

4. We prohibit hunters occupying ground and tree stands that are illegally set up or constructed.

5. Condition A5 applies.

D. Sport Fishing. We allow sport fishing throughout the district in accordance with State regulations subject to the following conditions:

1. Conditions A1 and A5 apply.

2. You must remove all ice fishing shelters and all other personal property from the WPAs each day (see §§ 27.93 and 27.94 of this chapter).

Morris Wetland Management District

A. Migratory Game Bird Hunting. * * *

* * * * *

3. We allow the use of hunting dogs, provided the dog is under the immediate control of the hunter at all times during the State-approved hunting season (see § 26.21(b) of this chapter).

4. We prohibit camping.

B. Upland Game Hunting. We allow hunting of upland game, except that we prohibit hunting on the designated portions of the Edward-Long Lake Waterfowl Production Area in Stevens County, in accordance with State regulations subject to the following conditions: Conditions A3 and A4 apply.

C. Big Game Hunting. * * *

* * * * *

3. Condition A4 applies.

D. Sport Fishing. * * *

1. Conditions A1 and A4 apply.

* * * * *

Northern Tallgrass Prairie National Wildlife Refuge

A. Migratory Game Bird Hunting. * * *

* * * * *

4. We allow the use of hunting dogs, provided the dog is under the immediate control of the hunter at all times during the State-approved hunting season (see § 26.21(b) of this chapter).

5. We prohibit camping.

B. Upland Game Hunting. * * *

* * * * *

2. We prohibit the use of dogs for hunting furbearers. We allow the use of hunting dogs, provided the dog is under the immediate control of the hunter at all times during the State-approved hunting season (see § 26.21(b) of this chapter).

* * * * *

4. Condition A5 applies.

C. Big Game Hunting. * * *

* * * * *

4. Condition A5 applies.

D. Sport Fishing. [Reserved]

Rice Lake National Wildlife Refuge

A. Migratory Game Bird Hunting. * * *

* * * * *

2. We require that the visible portion of at least one article of clothing worn above the waist be blaze orange.

3. We allow the use of hunting dogs, provided the dog is under the immediate control of the hunter at all times during the State-approved hunting season (see § 26.21(b) of this chapter).

4. We prohibit camping.

B. Upland Game Hunting. * * *

* * * * *

3. Conditions A3 and A4 apply.

C. Big Game Hunting. * * *

* * * * *

5. Condition A4 applies.

D. Sport Fishing. * * *

* * * * *

4. Condition A4 applies.

Rydell National Wildlife Refuge

* * * * *

C. Big Game Hunting. * * *

* * * * *

5. We prohibit camping.

D. Sport Fishing. We allow sport fishing on Tamarac Lake in accordance with State regulations subject to the following conditions:

1. We only allow fishing from designated fishing piers.

2. We allow fishing from May 1 to November 1.

3. We allow parking at designated parking lots only (see § 27.31 of this chapter).

4. Condition C5 applies.

Sherburne National Wildlife Refuge

A. Migratory Game Bird Hunting. We allow hunting of goose, duck, coot, rail, woodcock, and snipe on designated areas of the refuge in accordance with State regulations subject to the following conditions:

* * * * *

4. We prohibit entry to hunting areas earlier than 2 hours before legal shooting hours.

* * * * *

6. We allow the use of hunting dogs, provided the dog is under the immediate control of the hunter at all times, during the State-approved hunting season (see § 26.21(b) of this chapter).

7. We prohibit camping.

B. Upland Game Hunting. We allow hunting of ruffed grouse, ring-necked pheasant, gray and fox squirrel, snowshoe hare, cottontail rabbit, and jackrabbit on designated areas of the refuge in accordance with State regulations subject to the following conditions:

* * * * *

3. Conditions A6 and A7 apply.

C. Big Game Hunting. We allow hunting of white-tailed deer on designated areas of the refuge in accordance with State regulation subject to the following conditions:

* * * * *

5. We prohibit deer pushes or deer drives in the areas closed to deer hunting.

6. Conditions A4 and A7 apply.

* * * * *

Tamarac National Wildlife Refuge

A. Migratory Game Bird Hunting. We allow the hunting of goose, duck, coot, woodcock, and snipe on designated areas of the refuge in accordance with State regulations subject to the following conditions:

* * * * *

2. You must remove all personal property, which includes boats, decoys, and blinds brought onto the refuge each day (see §§ 27.93 and 27.94 of this chapter).

3. We allow the use of hunting dogs, provided the dog is under the immediate control of the hunter at all times, during the State-approved hunting season (see § 26.21(b) of this chapter).

4. We prohibit camping.

B. Upland Game Hunting. We allow hunting of ruffed grouse, red, gray, and fox squirrel, cottontail rabbit, jackrabbit, snowshoe hare, red fox, raccoon, and striped skunk on designated areas of the refuge in accordance with State regulations subject to the following conditions:

* * * * *

5. Conditions A3 and A4 apply.

C. Big Game Hunting. We allow hunting of white-tailed deer on designated areas of the refuge in accordance with State regulations subject to the following conditions:

* * * * *

4. Condition A4 applies.

D. Sport Fishing. * * *

* * * * *

5. You must remove all ice fishing shelters and all other personal property from the refuge each day (see §§ 27.93 and 27.94 of this chapter).

6. Condition A4 applies.

* * * * *

Windom Wetland Management District

A. Migratory Game Bird Hunting. We allow hunting of migratory game birds throughout the district in accordance with State regulations subject to the following conditions:

1. We prohibit hunting on the Worthington Waterfowl Production Area (WPA) in Nobles County, or designated portions of the Wolf Lake WPA in Cottonwood County.

2. We prohibit the use of motorized boats.

3. You must remove all personal property, which includes boats, decoys, and blinds brought onto the WPAs at the end of each day (see §§ 27.93 and 27.94 of this chapter).

4. We allow the use of hunting dogs, provided the dog is under the immediate control of the hunter at all times during the State-approved hunting season (see § 26.21(b) of this chapter).

5. We prohibit camping.

* * * * *

C. Big Game Hunting. We allow hunting of big game throughout the district in accordance with State regulations subject to the following conditions:

1. We prohibit hunting on the Worthington WPA in Nobles County, Headquarters WPA in Jackson County, and designated portions of the Wolf Lake WPA in Cottonwood County.

2. We allow the use of portable stands. Hunters may not construct or use permanent blinds, permanent platforms, or permanent ladders.

3. You must remove all stands and personal property from the WPAs at the end of each day (see §§ 27.93 and 27.94 of this chapter).

4. We prohibit hunters occupying ground and tree stands that are illegally set up or constructed.

D. Sport Fishing. We allow fishing throughout the district in accordance with State regulations subject to the following conditions:

1. Conditions A2 and A5 apply.

2. You must remove all ice fishing shelters and other personal property from the WPAs each day (see § 27.93 of this chapter).

20. Amend § 32.43 Mississippi by revising paragraph D. of Noxubee National Wildlife Refuge to read as follows:

§ 32.43 Mississippi.

* * * * *

Noxubee National Wildlife Refuge

* * * * *

D. Sport Fishing. We allow sport fishing on designated areas of the refuge in accordance with State regulations subject to the following conditions:

1. The sport fishing, boating, and bow fishing seasons extend from March 1 through October 31, except for the Noxubee River and borrow pit areas along Highway 25 that are open year-round.

2. We prohibit anglers leaving boats overnight on the refuge (see § 27.93 of this chapter).

3. Anglers must keep boat travel at idle speed, and they must not create a wake when moving.

4. We prohibit limb lines, snag lines, and hand grappling in Ross Branch, Bluff, and Loakfoma Lakes.

5. Anglers must tag pole and set hooks with their name and address when using them in rivers, creeks, and other water bodies. Anglers must remove these devices when not in use.

6. Trotlining:

i. Anglers must label each end of the trotline floats with the owner's name and address.

ii. We limit trotlines to one line per person, and we allow no more than two trotlines per boat.

iii. Anglers must tend all trotlines every 24 hours and remove them when not in use.

7. Jug fishing:

i. Anglers must label each jug with their name and address.

ii. Anglers must attend all jugs every 24 hours and remove them when not in use.

8. We require a Special Use Permit for night time bow fishing.

* * * * *

21. Amend § 32.44 Missouri by:

a. Revising the introductory text of paragraph C., revising paragraph C.5. and adding paragraph C.6. of Big Muddy National Fish and Wildlife Refuge;

b. Adding paragraph A.3., revising paragraph B.1., adding paragraphs B.8. and B.9., revising paragraph C.4., adding paragraphs C.5. through C.8., and revising paragraph D.8. of Mingo National Wildlife Refuge; and

c. Revising paragraph A. of Squaw Creek National Wildlife Refuge to read as follows:

§ 32.44 Missouri.

* * * * *

Big Muddy National Fish and Wildlife Refuge

* * * * *

C. Big Game Hunting. We allow hunting of deer and turkey on designated areas of the refuge in accordance with State regulations subject to the following conditions:

* * * * *

5. You must unload or dismantle and case all firearms while transporting them in a motor vehicle (see § 27.42(b) of this chapter).

6. We restrict deer hunters on the Boone's Crossing Unit to archery methods only except for hunters on Johnson Island where State-allowed methods of take are in effect.

* * * * *

Mingo National Wildlife Refuge

A. Migratory Game Bird Hunting. * * *

* * * * *

3. We prohibit the use of paint, flagging, reflectors, tacks, or other manmade materials to mark trails or hunting locations (see § 27.61 of this chapter).

B. Upland Game Hunting. * * *

1. The Public Hunting Area and the road leading to the area from the Hunter Sign-In Station are open 1½ hours before legal sunrise until 1½ hours after legal sunset.

* * * * *

8. We require that all hunters wear a hat and a shirt, vest, or coat of hunter orange that is plainly visible from all sides during the overlapping portion of the squirrel and archery deer seasons.

9. Condition A3 applies.

C. Big Game Hunting. * * *

* * * * *

4. Condition B8 applies.

5. We prohibit the use of salt or mineral blocks.

6. We only allow portable tree stands from 2 weeks before to 2 weeks after the State archery deer season. You must clearly mark all stands with the owner's name, address, and phone number.

7. We only allow one tree stand per deer hunter.

8. Condition A3 applies.

D. Sport Fishing. * * *

* * * * *

8. We allow the take of common snapping turtle and soft-shelled turtle only using pole and line. We require all anglers immediately release all alligator snapping turtles (see § 27.21 of this chapter).

Squaw Creek National Wildlife Refuge

A. Migratory Game Bird Hunting. We allow hunting of light geese on designated areas of the refuge in accordance with State regulations during the spring conservation order season subject to the following conditions:

1. Hunters must remain within direct sight of the guide in the hunt boundary at all times.

2. We allow the guide and hunters into the hunt boundary up to 2 hours prior to legal shooting time.

3. Hunting will stop at 12 p.m. (noon), and hunters must be out of the fields by 2 p.m.

4. We allow hunting dogs, portable blinds, and decoys at the discretion of the guide.

5. We prohibit pit blinds.

6. Hunting dogs must be under the immediate control of their handlers at all times (see § 26.21 of this chapter).

7. We prohibit retrieving crippled geese outside of the hunt boundary, including adjacent private land. This includes retrieval by hunting dogs.

8. We prohibit vehicles beyond the established parking area located adjacent to State Highway 118 (see § 27.31 of this chapter).

9. We prohibit ATV use on the refuge.

10. Both the guide and hunters are responsible for ensuring that all trash, including spent shotgun shells are removed from the hunt area each day (see §§ 27.93 and 27.94 of this chapter).

11. Violations of these rules may result in the revocation of the guide's Special Use Permit as deemed appropriate by the refuge manager.

* * * * *

22. Amend § 32.45 Montana by:

a. Revising paragraphs A. and B. of Black Coulee National Wildlife Refuge;

b. Revising paragraphs A. and B. of Bowdoin National Wildlife Refuge;

c. Revising paragraph C. of Charles M. Russell National Wildlife Refuge; and

d. Revising paragraph A. of Hewitt Lake National Wildlife Refuge to read as follows:

§ 32.45 Montana.

* * * * *

Black Coulee National Wildlife Refuge

A. Migratory Game Bird Hunting. We allow hunting of duck, goose, coot, swan, sandhill crane, and mourning dove on designated areas of the refuge in accordance with State regulations subject to the following conditions:

1. We only allow nonmotorized boats on refuge waters.

2. You must remove all boats, decoys, portable blinds, other personal property, and any materials brought onto the refuge for blind construction by legal sunset (see §§ 27.93 and 27.94 of this chapter).

B. Upland Game Hunting. We allow hunting of pheasant, sharp-tailed grouse, sage grouse, gray partridge, fox, and coyote on designated areas of the refuge in accordance with State regulations subject to the following conditions:

1. You may only possess approved nontoxic shot (see § 32.2(k)).

2. Fox and coyote hunters may only use centerfire rifles, rimfire rifles, or shotguns with approved nontoxic shot.

3. We require game bird hunters to wear at least one article of blaze-orange clothing visible above the waist.

* * * * *

Bowdoin National Wildlife Refuge

A. Migratory Game Bird Hunting. We allow hunting of duck, goose, coot, swan, sandhill crane, and mourning dove on designated areas of the refuge in accordance with State regulations subject to the following conditions:

1. You must check-in and check out of the refuge daily. Before hunting, each hunter must record the date, their name, and the time checking into the refuge on a register inside the Hunter Registration Kiosk at refuge headquarters. After hunting, each hunter must record hunting data (hours hunted waterfowl and/or upland game and the number of birds harvested) before departing the refuge.

2. We prohibit air-thrust boats or boats with motors greater than 25 hp.

3. You must remove all boats, decoys, portable blinds, other personal property, and any materials brought onto the refuge for blind construction by legal sunset (see §§ 27.93 and 27.94 of this chapter).

B. Upland Game Hunting. We allow hunting of pheasant, sharp-tailed grouse, sage grouse, gray partridge, fox, and coyote on designated areas of the refuge in accordance with State regulations subject to the following conditions:

1. Condition A1 applies.

2. You must possess and carry a refuge Special Use Permit to hunt fox and coyotes.

3. You may only possess approved nontoxic shot (see § 32.2(k)).

4. Fox and coyote hunters may only use centerfire rifles, rimfire rifles, or shotguns with approved nontoxic shot.

5. We require game bird hunters to wear at least one article of blaze-orange clothing visible above the waist.

* * * * *

Charles M. Russell National Wildlife Refuge

* * * * *

C. Big Game Hunting. We allow hunting of big game on designated areas of the refuge in accordance with State regulations subject to the following conditions:

1. We allow the use of portable blinds and stands. You may install stands and blinds no sooner than August 1, and you must remove them by December 15 of each year. We limit each hunter to three stands or blinds. The hunter must have their name, address, phone number, and automated licensing system number (ALS) visibly marked on the stand.

2. We allow hunting of elk on designated areas of the refuge. You must possess and carry a refuge permit to hunt elk on the refuge.

* * * * *

Hewitt Lake National Wildlife Refuge

A. Migratory Game Bird Hunting. We allow hunting of duck, goose, coot, swan, sandhill crane, and mourning dove on designated areas of the refuge in accordance with State regulations subject to the following conditions:

1. We prohibit air-thrust boats and boats with motors greater than 25 hp.

2. You must remove all boats, decoys, portable blinds, other personal property, and any materials brought onto the refuge for blind construction by legal sunset (see §§ 27.93 and 27.94 of this chapter).

* * * * *

23. Amend § 32.46 Nebraska by revising the introductory text of paragraph B. of Crescent Lake National Wildlife Refuge to read as follows:

§ 32.46 Nebraska.

* * * * *

Crescent Lake National Wildlife Refuge

* * * * *

B. Upland Game Hunting. We allow hunting of cottontail rabbit, jack rabbit, furbearer, coyote, ring-necked pheasant, and prairie grouse on designated areas of the refuge in accordance with State regulations subject to the following conditions:

* * * * *

24. Amend § 32.48 New Hampshire by adding Silvio O. Conte National Fish and Wildlife Refuge to read as follows:

§ 32.48 New Hampshire.

* * * * *

Silvio O. Conte National Fish and Wildlife Refuge

A. Migratory Game Bird Hunting. We allow hunting of duck, goose, common snipe, sora, Virginia rail, common moorhen, and American woodcock on the Pondicherry Division of the refuge in accordance with State regulations subject to the following conditions:

1. You may only use portable blinds. You must remove all blinds, decoys, shell casings, and other personal equipment and refuse from the refuge by legal sunset (see §§ 27.93 and 27.94 of this chapter).

2. You must wear in a conspicuous manner on the outermost layer of the head, chest, and back, a minimum of 400 square inches (2,600 cm²) of hunter-orange clothing or material, except when hunting waterfowl.

3. We allow the use of retrieving dogs but dogs must be under voice command at all times (see § 26.21 of this chapter).

4. We allow hunting during the hours stipulated under the State's hunting regulations but no longer than from ½ hour before legal sunrise to ½ hour after legal sunset. We prohibit night hunting. You must unload all firearms (see § 27.42 of this chapter) outside of legal hunting hours.

5. We prohibit all-terrain vehicles (ATV's or OHV's).

B. Upland Game Hunting. We allow hunting of coyote, fox, raccoon, woodchuck, red squirrel, eastern gray squirrel, porcupine, skunk, American crow, snowshoe hare, ring-necked pheasant, and ruffed grouse on the Pondicherry Division of the refuge in accordance with State regulations subject to the following conditions:

1. You must wear in a conspicuous manner on the outermost layer of the head, chest, and back, a minimum of 400 square inches (2,600 cm²) of hunter-orange clothing or material.

2. Conditions A3, A4, and A5 apply.

3. We allow hunting of snowshoe hare and coyote with dogs from October 1 to March 15. You may hunt with trailing dogs on the refuge subject to the following conditions:

i. We will only allow dog training outside the established hunting seasons under a Special Use Permit issued by the refuge manager.

ii. We allow a maximum of four dogs per hunter.

iii. You must pick up all dogs the same day you release them (see § 26.21(b) of this chapter).

C. Big Game Hunting. We allow hunting of white-tailed deer, moose, black bear, and wild turkey on the Pondicherry Division of the refuge in accordance with State regulations subject to the following conditions:

1. We allow bear hunting with dogs during the established State hound season. Hunting with trailing dogs on the refuge will be subject to the following conditions:

i. We allow a maximum of four dogs per hunter.

ii. You must pick up all dogs the same day you release them (see § 26.21(b) of this chapter).

2. We prohibit the use of bait (see § 32.2(h)).

3. We allow temporary tree stands and blinds, but you must remove them (see §§ 27.93 and 27.94 of this chapter) by the end of the season. Your name and address must be clearly visible on the tree stand. We prohibit nails, screws, or screw-in climbing pegs to build or access a stand or blind (See § 32.2(i)).

4. You must wear in a conspicuous manner on the outermost layer of the head, chest, and back a minimum of 400 square inches (2,600 cm²) of hunter-orange clothing or material, except when hunting turkey or while engaged in archery hunting.

5. Conditions A5 and A6 apply.

6. We allow prehunt scouting of the refuge; however, we prohibit firearms during prehunt scouting.

7. We will only allow dog training outside the established hunting seasons under a Special Use Permit issued by the Refuge Manager.

D. Sport Fishing. [Reserved]

25. Amend § 32.50 New Mexico by revising paragraphs A.2. and B.3. of Bosque del Apache National Wildlife Refuge to read as follows:

§ 32.50 New Mexico.

* * * * *

Bosque del Apache National Wildlife Refuge

A. Migratory Game Bird Hunting. * * *

* * * * *

2. We allow hunting of light goose on Monday, Wednesday, and Friday during a week in January to be determined by refuge staff. We will announce hunt dates by September 1 of the previous year. Hunters must report to the refuge headquarters by 4:45 a.m. each hunt day. Legal hunting hours will run from ½ hour before legal sunrise and will not extend past 11:00 a.m. local time.

* * * * *

B. Upland Game Hunting. * * *

* * * * *

3. We allow cottontail rabbit hunting between December 1 and the last day of February.

* * * * *

26. Amend § 32.51 New York by:

a. Revising paragraphs A.3.iii. and C.2.ii., and adding paragraph D.7. of Iroquois National Wildlife Refuge; and

b. Revising paragraph C. of Wertheim National Wildlife Refuge to read as follows:

§ 32.51 New York.

* * * * *

Iroquois National Wildlife Refuge

A. Migratory Game Bird Hunting. * * *

* * * * *

3. * * *

* * * * *

iii. Each youth must hunt with a preapproved, nonhunting adult (see refuge manager for details), who must be properly licensed to participate in the program.

* * * * *

C. Big Game Hunting. * * *

* * * * *

2. * * *

ii. Only youth hunters ages 12 to 17, accompanied by a properly licensed, preapproved nonhunting adult (see refuge manager for details), may hunt at the refuge on the first Sunday of the season. All youth hunters must register at the refuge headquarters and attend a mandatory orientation.

* * * * *

D. Sport Fishing. * * *

* * * * *

7. We allow fishing and frogging from Schoolhouse Marsh dike and Center Marsh dike from July 15 to September 30.

* * * * *

Wertheim National Wildlife Refuge

* * * * *

C. Big Game Hunting. We allow hunting of whitetail deer on designated areas of the refuge in accordance with State regulations subject to the following conditions:

1. We allow archery and shotgun hunting of white-tailed deer within portions of the refuge on specific days between October 1 and January 31.

2. We require refuge permits. We limit the number of deer hunters allowed to hunt on the refuge. We will issue permits by random selection.

3. You must take the specified number of antlerless deer as noted in the refuge hunting regulations before taking an antlered deer.

4. You must possess and carry all applicable and valid hunting licenses, permits, stamps, and a photographic identification while hunting on the refuge.

5. You must possess proof of completion of the refuge-specific orientation program upon check-in at the designated refuge hunting location.

6. You must limit driving to designated access roads and park only in designated areas (see § 27.31 of this chapter). We prohibit use of motorized vehicles on the refuge to retrieve white-tailed deer.

7. You must display refuge parking permits face-up on the vehicle dashboard while hunting.

8. We allow hunters to enter the refuge 1 hour before legal hunting hours. Hunters must leave the refuge no later than 1 hour after legal sunset.

9. We prohibit the use of dogs to hunt or pursue game. We prohibit driving deer by any means on the refuge. We prohibit the use of decoys to hunt deer on the refuge.

10. We prohibit carrying a loaded weapon and/or discharge of a firearm within the designated 500-foot (150 m) “No Hunt Buffer”, vehicles, or parking areas (see § 27.42(b) of this chapter).

11. We prohibit shooting directly into or towards the 500-foot (150 m) “No Hunt Buffer”.

12. We prohibit the killing or crippling of any deer without the hunter making reasonable effort to retrieve the deer and retain it in his/her actual custody.

13. Hunters assigned to Unit 5 must hunt from portable tree stands and must direct aim away from a public road and/or dwelling.

14. You must have only shotgun shells loaded with slugs during the firearms season.

15. You must wear a minimum of 400 square inches (2,600 cm²) of solid-orange clothing, visible on head, chest, and back during the firearms season. Camouflage orange does not qualify.

16. We prohibit construction or use of permanent structures while hunting. We prohibit driving a nail, spike, screw or other metal object into any tree or hunting from any tree on the refuge in which a nail, spike, screw or other object has been driven (see § 32.2(i)).

17. You may use temporary or portable tree stands while hunting deer. You must remove all stands or any blinds by legal sunset (see §§ 27.93 and 27.94 of this chapter). We require all tree stands to have the name and address of the owner clearly printed on the stand.

18. You must report all accidents and injuries to refuge personnel as soon as possible and by no later than your departure from the refuge.

19. Failure to comply with Federal, State, and/or refuge regulations will lead to dismissal from the refuge and elimination of participation in future hunts.

20. You must abide all rules and regulations listed on the hunting permit.

21. We prohibit the use of any bait, salt, or enticement (see § 32.2(h)).

22. A nonhunting adult (see the refuge manager for details) with a valid State hunting license must accompany junior hunters.

23. We prohibit the marking of any tree, trail, or other refuge feature with flagging, paint, reflective material or any other substance.

24. You may scout hunting areas on the refuge only during designated times and days. We prohibit the use of dogs during scouting.

25. We prohibit the use of electronic calls during any hunting season.

26. We prohibit the trimming or cutting of branches larger than the diameter of a quarter (see § 27.61 of this chapter).

* * * * *

27. Amend § 32.52 North Carolina by:

a. Revising paragraph A.5., adding paragraphs A.6., and A.7., and revising paragraphs B. and C. of Alligator River National Wildlife Refuge; and

b. Revising paragraph C.4. of Pocosin Lakes National Wildlife Refuge to read as follows:

§ 32.52 North Carolina.

* * * * *

Alligator River National Wildlife Refuge

A. Migratory Game Bird Hunting. * * *

* * * * *

5. You may only possess approved nontoxic shot in the field (see § 32.2(k)).

6. We allow retrieving dogs in designated areas. We prohibit the use of dogs in the Gum Swamp Unit.

7. We open the refuge to daylight use only, except that we allow hunters to enter and remain in open hunting areas from 1 hour before legal shooting time until one hour after legal shooting time.

B. Upland Game Hunting. * * *

1. Conditions A1, A4, A5, and A7 apply.

2. We only allow dog training during the corresponding hunt season.

3. We require a Special Use Permit to hunt raccoon or opossum from ½ hour after legal sunset until ½ hour before legal sunrise.

4. We allow the use of dogs in designated areas as shown in the refuge Hunting Regulations and Permit Map brochure.

C. Big Game Hunting. * * *

1. Conditions A1, A4 (an adult may only supervise one youth hunter), A7 and B2 apply.

2. We close the Hyde county portion of the refuge to all hunting during State bear seasons.

3. We only allow pursuit/trailing dogs in designated areas as shown in the Refuge Hunting Regulations and Permit Map brochure.

4. Unarmed hunters may walk to retrieve stray dogs from closed areas and “no dog hunting” areas.

* * * * *

Pocosin Lakes National Wildlife Refuge

* * * * *

C. Big Game Hunting. * * *

* * * * *

4. You may only possess approved nontoxic shot (see § 32.2(k)) while hunting turkeys west of Evans Road and on the Pungo unit. You may use slugs, buckshot, and muzzleloader ammunition containing lead for deer hunting in these areas. We prohibit boar hunting on the Pungo Unit (they are only known to occur in the Frying Pan area of the refuge).

* * * * *

28. Amend § 32.53 North Dakota by:

a. Revising paragraphs B., C., and D. of Arrowwood National Wildlife Refuge;

b. Alphabetically adding Arrowwood Wetland Management District;

c. Alphabetically adding Audubon Wetland Management District;

d. Revising paragraph C. of Chase Lake National Wildlife Refuge;

e. Alphabetically adding Chase Lake Wetland Management District;

f. Alphabetically adding Crosby Wetland Management District;

g. Revising Devils Lake Wetland Management District;

h. Alphabetically adding J. Clark Salyer Wetland Management District;

i. Alphabetically adding Kulm Wetland Management District;

j. Revising paragraphs A., B., and C. of Lake Alice National Wildlife Refuge;

k. Alphabetically adding Long Lake Wetland Management District;

l. Alphabetically adding Lostwood Wetland Management District;

m. Removing the listing for Rock Lake National Wildlife Refuge;

n. Alphabetically adding Tewaukon Wetland Management District;

o. Revising paragraph B.2. and D.13.ii. of Upper Souris National Wildlife Refuge; and

p. Alphabetically adding Valley City Wetland Management District to read as follows:

§ 32.53 North Dakota.

* * * * *

Arrowwood National Wildlife Refuge

* * * * *

B. Upland Game Hunting. We allow hunting of pheasant, sharp-tailed grouse, partridge, cottontail rabbit, and fox on designated areas of the refuge in accordance with State regulations subject to the following conditions:

1. We allow hunting on the day following the close of the State firearm deer season through the end of the regular upland bird season.

2. We allow hunting of cottontail rabbit and fox on the day following the close of the State firearm deer season through March 31.

3. We allow access by foot travel only.

4. We prohibit open fires (see § 27.95(a) of this chapter) and camping on the refuge.

C. Big Game Hunting. We allow deer hunting on designated areas of the refuge in accordance with State regulations subject to the following conditions:

1. We prohibit entering the refuge before legal shooting hours on the opening day of firearms deer season. Thereafter, you may enter, but not shoot, prior to legal hours. We require all hunters to be off the refuge 1½ hours after legal sunset.

2. We allow deer hunting on the refuge during the State Youth Deer Season except in designated closed areas around refuge headquarters, the wildlife observation area, and the auto tour route. Consult the refuge hunting map for open and closed hunting areas during the State Youth Deer Season.

3. Firearm deer hunters may not enter the refuge after harvesting a deer unless unarmed (see § 27.42(b) of this chapter) and wearing blaze orange.

4. We allow access by foot travel only. You may use a vehicle on designated refuge roads and trails to retrieve deer during the following times only: 9:30 to 10 a.m.; 1:30 to 2 p.m.; and ½ hour after legal sunset for 1 hour.

5. We allow only temporary tree stands and blinds. You must remove all tree stands and blinds at the end of each day (see §§ 27.93 and 27.94 of this chapter).

6. Condition B4 applies.

D. Sport Fishing. We allow fishing in accordance with State regulations subject to the following conditions:

1. We only allow boats, up to a maximum of 25 hp, on Arrowwood Lake and Jim Lake from May 1 to September 30 of each fishing year.

2. We allow bank fishing along major road rights-of-way during the entire State fishing season.

3. We allow bank fishing on interior portions of the refuge from May 1 through September 30 of each fishing year. We only allow walk-in access, except for designated areas.

4. We allow fishing in the bypass channel during the regular State fishing season. We allow walk-in access along maintenance trails from June 1 through September 30 of each fishing year.

5. We allow bow fishing for rough fish along road rights-of-way in accordance with State regulations from May 1 through September 30 of each fishing year. We prohibit the use of crossbows.

6. We allow ice fishing on Arrowwood Lake, Jim Lake, and the south ⅓ of Mud Lake. We allow fish houses and vehicles (automobiles and trucks only) on the ice as conditions permit. You must remove fish houses by March 15. You may use portable fish houses after March 15, but you must remove them from the refuge each day (see § 27.93 of this chapter).

7. We prohibit snowmobiles and ATVs on the refuge (see § 27.31(f) of this chapter).

8. We prohibit water activities not related to fishing (sailing, skiing, tubing, etc.)

9. We prohibit open fires (see § 27.95(a) of this chapter) and camping on the refuge.

Arrowwood Wetland Management District

A. Migratory Game Bird Hunting. We allow migratory game bird hunting on Waterfowl Production Areas throughout the District in accordance with State regulations subject to the following condition: You must remove boats, decoys, portable blinds, other personal property, and any materials brought onto the area for blind construction each day (see §§ 27.93 and 27.94 of this chapter). We prohibit bringing any type of live or dead vegetation onto the refuge for any purpose at any time.

B. Upland Game Hunting. We allow upland game hunting on Waterfowl Production Areas throughout the District in accordance with State regulations subject to the following condition: We prohibit the use of horses for any purpose.

C. Big Game Hunting. We allow big game hunting on Waterfowl Production Areas throughout the District in accordance with State regulations subject to the following condition: We prohibit the use of horses for any purpose.

D. Sport Fishing. We allow sport fishing on Waterfowl Production Areas throughout the District in accordance with State regulations subject to the following condition: You must remove boats, motor vehicles, fishing equipment, and other personal property (excluding ice houses) by legal sunset (see §§ 27.93 and 27.94 of this chapter).

* * * * *

Audubon Wetland Management District

A. Migratory Game Bird Hunting. We allow migratory game bird hunting on Waterfowl Production Areas and Wildlife Development Areas throughout the District in accordance with State regulations subject to the following condition: You must remove boats, decoys, portable blinds, other personal property, and any materials brought onto the area for blind construction by the end of each day (see §§ 27.93 and 27.94 of this chapter). We prohibit bringing any type of live or dead vegetation onto the refuge for any purpose at any time.

B. Upland Game Hunting. We allow upland game hunting on Waterfowl Production Areas and Wildlife Development Areas throughout the District in accordance with State regulations subject to the following condition: We prohibit the use of horses for any purpose.

C. Big Game Hunting. We allow big game hunting on Waterfowl Production Areas and Wildlife Development Areas throughout the District in accordance with State regulations subject to the following condition: We prohibit the use of horses for any purpose.

D. Sport Fishing. We allow sport fishing on Waterfowl Production Areas and Wildlife Development Areas throughout the District in accordance with State regulations subject to the following condition: You must remove boats, motor vehicles, fishing equipment, and other personal property (excluding ice houses) by the end of each day (see §§ 27.93 and 27.94 of this chapter).

Chase Lake National Wildlife Refuge

* * * * *

C. Big Game Hunting. We allow deer hunting on the refuge in accordance with State regulations subject to the following conditions:

1. We prohibit deer hunting until the start of the State deer gun season.

2. We prohibit the use of horses for any purpose.

3. Hunters may only enter the refuge on foot.

* * * * *

Chase Lake Wetland Management District

A. Migratory Game Bird Hunting. We allow migratory game bird hunting on Waterfowl Production Areas and Wildlife Development Areas throughout the District in accordance with State regulations subject to the following condition: You must remove boats, decoys, portable blinds, other personal property, and any materials brought onto the area for blind construction by the end of each day (see §§ 27.93 and 27.94 of this chapter). We prohibit bringing any type of live or dead vegetation onto the refuge for any purpose at any time.

B. Upland Game Hunting. We allow upland game hunting on Waterfowl Production Areas and Wildlife Development Areas throughout the District in accordance with State regulations subject to the following condition: We prohibit the use of horses for any purpose.

C. Big Game Hunting. We allow big game hunting on Waterfowl Production Areas and Wildlife Development Areas throughout the District in accordance with State regulations subject to the following condition: We prohibit the use of horses for any purpose.

D. Sport Fishing. We allow sport fishing on Waterfowl Production Areas and Wildlife Development Areas throughout the District in accordance with State regulations subject to the following condition: You must remove boats, motor vehicles, fishing equipment, and other personal property (excluding ice houses) by the end of each day (see §§ 27.93 and 27.94 of this chapter).

Crosby Wetland Management District

A. Migratory Game Bird Hunting. We allow migratory game bird hunting on Waterfowl Production Areas throughout the District in accordance with State regulations subject to the following condition: You must remove boats, decoys, portable blinds, other personal property, and any materials brought onto the area for blind construction by the end of each day (see §§ 27.93 and 27.94 of this chapter). We prohibit bringing any type of live or dead vegetation onto the refuge for any purpose at any time.

B. Upland Game Hunting. We allow upland game hunting on Waterfowl Production Areas throughout the District in accordance with State regulations subject to the following condition: We prohibit the use of horses for any purpose.

C. Big Game Hunting. We allow big game hunting on Waterfowl Production Areas throughout the District in accordance with State regulations subject to the following condition: We prohibit the use of horses for any purpose.

D. Sport Fishing. We allow sport fishing on Waterfowl Production Areas throughout the District in accordance with State regulations subject to the following condition: You must remove boats, motor vehicles, fishing equipment, and other personal property (excluding ice houses) by the end of each day (see §§ 27.93 and 27.94 of this chapter).

* * * * *

Devils Lake Wetland Management District

A. Migratory Game Bird Hunting. We allow migratory game bird hunting on Waterfowl Production Areas and Wildlife Development Areas throughout the District in accordance with State regulations subject to the following conditions:

1. We prohibit hunting on Lambs Lake Waterfowl Production Area in Nelson County; Pleasant Lake Waterfowl Production Area in Benson County; and Hart, Nelson, Little Goose, and Vold Waterfowl Production Areas in Grand Forks County.

2. We prohibit hunting on portions of Kellys Slough Waterfowl Production Area in Grand Forks County, as posted.

3. You must remove boats, motor vehicles, fishing equipment, and other personal property (excluding ice houses) by the end of each day (see §§ 27.93 and 27.94 of this chapter).

B. Upland Game Hunting. We allow upland game hunting on Waterfowl Production Areas and Wildlife Development Areas throughout the District in accordance with State regulations subject to the following conditions:

1. Conditions A1 and A2 apply.

2. We prohibit the use of horses for any purpose.

C. Big Game Hunting. We allow big game hunting on Waterfowl Production Areas and Wildlife Development Areas throughout the District in accordance with State regulations subject to the following conditions: Conditions A1, A2, and B2 apply.

D. Sport Fishing. We allow sport fishing on Waterfowl Production Areas and Wildlife Development Areas throughout the District in accordance with State regulations subject to the following conditions:

1. We prohibit fishing on Hart, Nelson, Vold, and Kellys Slough Waterfowl Production Areas in Grand Forks County.

2. You must remove boats, motor vehicles, fishing equipment, and other personal property (excluding ice houses) by the end of each day (see §§ 27.93 and 27.94 of this chapter).

* * * * *

J. Clark Salyer Wetland Management District

A. Migratory Game Bird Hunting. We allow migratory game bird hunting on Waterfowl Production Areas throughout the District in accordance with State regulations subject to the following condition: You must remove boats, decoys, portable blinds, other personal property, and any materials brought onto the area for blind construction by the end of each day (see §§ 27.93 and 27.94 of this chapter). We prohibit bringing any type of live or dead vegetation onto the refuge for any purpose at any time.

B. Upland Game Hunting. We allow upland game hunting on Waterfowl Production Areas throughout the District in accordance with State regulations subject to the following condition: We prohibit the use of horses for any purpose.

C. Big Game Hunting. We allow big game hunting on Waterfowl Production Areas throughout the District in accordance with State regulations subject to the following condition: We prohibit the use of horses for any purpose.

D. Sport Fishing. We allow sport fishing on Waterfowl Production Areas throughout the District in accordance with State regulations subject to the following condition: You must remove boats, motor vehicles, fishing equipment, and other personal property (excluding ice houses) by the end of each day (see §§ 27.93 and 27.94 of this chapter).

Kulm Wetland Management District

A. Migratory Game Bird Hunting. We allow migratory game bird hunting on Waterfowl Production Areas and Wildlife Development Areas throughout the District in accordance with State regulations subject to the following condition: You must remove boats, decoys, portable blinds, other personal property, and any materials brought onto the area for blind construction by the end of each day (see §§ 27.93 and 27.94 of this chapter). We prohibit bringing any type of live or dead vegetation onto the refuge for any purpose at any time.

B. Upland Game Hunting. We allow upland game hunting on Waterfowl Production Areas and Wildlife Development Areas throughout the District in accordance with State regulations subject to the following condition: We prohibit the use of horses for any purpose.

C. Big Game Hunting. We allow big game hunting on Waterfowl Production Areas and Wildlife Development Areas throughout the District in accordance with State regulations subject to the following condition: We prohibit the use of horses for any purpose.

D. Sport Fishing. We allow sport fishing on Waterfowl Production Areas and Wildlife Development Areas throughout the District in accordance with State regulations subject to the following condition: You must remove boats, motor vehicles, fishing equipment, and other personal property (excluding ice houses) by the end of each day (see §§ 27.93 and 27.94 of this chapter).

Lake Alice National Wildlife Refuge

A. Migratory Game Bird Hunting. We allow migratory game bird hunting on designated areas of the refuge in accordance with State regulations subject to the following conditions;

1. Refer to the refuge hunting map for designated hunting areas and information on hunting in specific zones.

2. We prohibit the use of motorized (gas and electric) boats.

3. We prohibit shooting from, on, or across any refuge road.

4. You must remove all boats, decoys, portable blinds, other personal property, and any materials brought onto the refuge for blind construction by the end of each day (see §§ 27.93 and 27.94 of this chapter).

5. We prohibit pit blinds.

6. We prohibit retrieval of waterfowl in the Archery Only or Deer and Late Season Pheasant areas; refer to refuge hunting map for information on hunting in specific zones.

B. Upland Game Hunting. We allow hunting of ring-necked pheasants, sharp-tailed grouse, gray partridge, cottontail rabbit, jackrabbit, snowshoe hare, and fox on designated areas of the refuge in accordance with State regulations subject to the following condition: Refer to the refuge hunting map for designated hunting areas and restrictions.

C. Big Game Hunting. We allow deer and fox hunting on designated areas of the refuge in accordance with State regulations subject to the following conditions:

1. Condition A1 applies.

2. We allow archery hunting on designated areas of the refuge only; refer to the refuge hunting map for information on hunting in specific zones.

3. We prohibit the use of horses for any purpose.

4. We prohibit trapping, baiting, and spotlighting.

5. We prohibit permanent tree stands. We allow portable tree stands that hunters must remove from the refuge by the end of each day (see § 27.93 of this chapter). We prohibit the use of screw-in tree steps or similar objects that may damage trees (see § 32.2(i)).

* * * * *

Long Lake Wetland Management District

A. Migratory Game Bird Hunting. We allow migratory game bird hunting on Waterfowl Production Areas and Wildlife Development Areas throughout the District in accordance with State regulations subject to the following condition: You must remove boats, decoys, portable blinds, other personal property, and any materials brought onto the area for blind construction by the end of each day (see §§ 27.93 and 27.94 of this chapter). We prohibit bringing any type of live or dead vegetation onto the refuge for any purpose at any time.

B. Upland Game Hunting. We allow upland game hunting on Waterfowl Production Areas and Wildlife Development Areas throughout the District in accordance with State regulations subject to the following condition: We prohibit the use of horses for any purpose.

C. Big Game Hunting. We allow big game hunting on Waterfowl Production Areas and Wildlife Development Areas throughout the District in accordance with State regulations subject to the following condition: We prohibit the use of horses for any purpose.

D. Sport Fishing. We allow sport fishing on Waterfowl Production Areas and Wildlife Development Areas throughout the District in accordance with State regulations subject to the following condition: You must remove boats, motor vehicles, fishing equipment, and other personal property (excluding ice houses) by the end of each day (see §§ 27.93 and 27.94 of this chapter).

* * * * *

Lostwood Wetland Management District

A. Migratory Game Bird Hunting. We allow migratory game bird hunting on Waterfowl Production Areas throughout the District in accordance with State regulations subject to the following condition: You must remove boats, decoys, portable blinds, other personal property, and any materials brought onto the area for blind construction by the end of each day (see §§ 27.93 and 27.94 of this chapter). We prohibit bringing any type of live or dead vegetation onto the refuge for any purpose at any time.

B. Upland Game Hunting. We allow upland game hunting on Waterfowl Production Areas throughout the District in accordance with State regulations subject to the following condition: We prohibit the use of horses for any purpose.

C. Big Game Hunting. We allow big game hunting on Waterfowl Production Areas throughout the District in accordance with State regulations subject to the following condition: We prohibit the use of horses for any purpose.

D. Sport Fishing. We allow sport fishing on Waterfowl Production Areas throughout the District in accordance with State regulations subject to the following condition: You must remove boats, motor vehicles, fishing equipment, and other personal property (excluding ice houses) by the end of each day (see §§ 27.93 and 27.94 of this chapter).

* * * * *

Tewaukon Wetland Management District

A. Migratory Game Bird Hunting. We allow migratory game bird hunting on Waterfowl Production Areas and Wildlife Development Areas throughout the District in accordance with State regulations subject to the following condition: You must remove boats, decoys, portable blinds, other personal property, and any materials brought onto the area for blind construction by the end of each day (see §§ 27.93 and 27.94 of this chapter). We prohibit bringing any type of live or dead vegetation onto the refuge for any purpose at any time.

B. Upland Game Hunting. We allow upland game hunting on Waterfowl Production Areas and Wildlife Development Areas throughout the District in accordance with State regulations subject to the following condition: We prohibit the use of horses for any purpose.

C. Big Game Hunting. We allow big game hunting on Waterfowl Production Areas and Wildlife Development Areas throughout the District in accordance with State regulations subject to the following condition: We prohibit the use of horses for any purpose.

D. Sport Fishing. We allow sport fishing on Waterfowl Production Areas and Wildlife Development Areas throughout the District in accordance with State regulations subject to the following condition: You must remove boats, motor vehicles, fishing equipment, and other personal property (excluding ice houses) by the end of each day (see §§ 27.93 and 27.94 of this chapter).

Upper Souris National Wildlife Refuge

* * * * *

B. Upland Game Hunting. * * *

* * * * *

2. We require hunters, and nonhunters accompanying hunters, to wear the State-required, legal-orange clothing when hunting game birds during the deer gun season.

* * * * *

D. Sport Fishing. * * *

* * * * *

13. * * *

ii. SILVER BRIDGE—We allow bank fishing from the road right-of-way around the bridge abutments. You may walk onto the ice from this area for ice fishing.

* * * * *

Valley City Wetland Management District

A. Migratory Game Bird Hunting. We allow migratory game bird hunting on Waterfowl Production Areas throughout the District in accordance with State regulations subject to the following condition: You must remove boats, decoys, portable blinds, other personal property, and any materials brought onto the area for blind construction by the end of each day (see §§ 27.93 and 27.94 of this chapter). We prohibit bringing any type of live or dead vegetation onto the refuge for any purpose at any time.

B. Upland Game Hunting. We allow upland game hunting on Waterfowl Production Areas throughout the District in accordance with State regulations subject to the following condition: We prohibit the use of horses for any purpose.

C. Big Game Hunting. We allow big game hunting on Waterfowl Production Areas throughout the District in accordance with State regulations subject to the following condition: We prohibit the use of horses for any purpose.

D. Sport Fishing. We allow sport fishing on Waterfowl Production Areas throughout the District in accordance with State regulations subject to the following condition: You must remove boats, motor vehicles, fishing equipment, and other personal property (excluding ice houses) by the end of each day (see §§ 27.93 and 27.94 of this chapter).

29. Amend § 32.55 Oklahoma by:

a. Revising the introductory text of paragraph C. and redesignating paragraphs C.4., C.5., and C.6. as paragraphs C.5., C.6., and C.7, adding a new paragraph C.4., and revising paragraph C.6. of Deep Fork National Wildlife Refuge;

b. Revising paragraph A.2. and adding paragraph C.5. of Little River National Wildlife Refuge;

c. Removing paragraphs B.2. and B.3. of Optima National Wildlife Refuge;

d. Adding paragraph A.10. of Sequoyah National Wildlife Refuge; and

e. Removing paragraph B.2. and redesignating paragraph B.3. as B.2. of Washita National Wildlife Refuge to read as follows:

§ 32.55 Oklahoma.

* * * * *

Deep Fork National Wildlife Refuge

* * * * *

C. Big Game Hunting. We allow hunting of white-tailed deer and feral hog on designated areas of the refuge in accordance with State regulations subject to the following conditions:

* * * * *

4. You may hunt feral hog during any established refuge hunting season. Refuge permits and legal weapons apply for the current hunting season.

* * * * *

6. You may use tree stands, but you must remove them (see § 27.93 of this chapter) immediately following the end of the hunt season.

* * * * *

Little River National Wildlife Refuge

A. Migratory Game Bird Hunting. * * *

* * * * *

2. We prohibit building and use of permanent blinds. You may only use portable blinds. You must remove blinds, decoys, and all personal equipment from the refuge daily (see §§ 27.93 and 27.94 of this chapter).

* * * * *

C. Big Game Hunting. * * *

* * * * *

5. You may only hunt big game during designated refuge seasons.

* * * * *

Sequoyah National Wildlife Refuge

A. Migratory Game Bird Hunting. * * *

* * * * *

10. We prohibit hunters entering the Sandtown Bottom Unit prior to 5 a.m. during hunting season. Hunters must leave the Sandtown Bottom Unit by 1 hour after legal sunset during hunting season.

* * * * *

30. Amend § 32.56 Oregon by:

a. Adding paragraphs A.9. and B.3. of Cold Springs National Wildlife Refuge;

b. Revising the introductory text of paragraph A. and revising paragraphs A.2., B., C., and D. of Malheur National Wildlife Refuge;

c. Adding paragraphs A.8. and B.1. of McKay Creek National Wildlife Refuge; and

d. Adding paragraphs A.8, B.4., and revising paragraph C. of Umatilla National Wildlife Refuge to read as follows:

§ 32.56 Oregon.

* * * * *

Cold Springs National Wildlife Refuge

A. Migratory Game Bird Hunting. * * *

* * * * *

9. You may not shoot or discharge any firearm from, across, or along a public highway, designated route of travel, road, road shoulder, road embankment, or designated parking area.

B. Upland Game Hunting. * * *

* * * * *

3. Condition A9 applies.

* * * * *

Malheur National Wildlife Refuge

A. Migratory Game Bird Hunting. We allow hunting of dove, goose, duck, merganser, coot, snipe, and pigeon on designated areas of the refuge in accordance with State regulations subject to the following conditions:

* * * * *

2. You may possess only approved nontoxic shot while in the field (see § 32.2(k)).

B. Upland Game Hunting. We allow hunting of pheasant, quail, partridge, chukar, coyote, and rabbit on designated areas of the refuge in accordance with State regulations subject to the following conditions:

1. We allow hunting of pheasant, quail, partridge, chukar, and rabbit from the third Saturday in November until the end of the State pheasant season on designated areas of the Blitzen Valley east of Highway 205. We allow hunting of pheasant, quail, partridge, chukar, and rabbit on designated areas on Malheur Lake concurrent with the State pheasant season.

2. We allow hunting of all upland game species during authorized State seasons on designated areas of the refuge west of Highway 205 and south of Foster Flat Road.

3. You may possess only approved nontoxic shot while in the field (see § 32.2(k) of this chapter) on designated areas east of Highway 205 and on Malheur Lake.

C. Big Game Hunting. We allow hunting of deer and pronghorn on designated areas of the refuge west of Highway 205 and south of Foster Flat Road in accordance with State regulations.

D. Sport Fishing. We allow fishing on designated areas of the refuge in accordance with State regulations subject to the following conditions:

1. We allow fishing year-round in the Blitzen River, East Canal, and Mud Creek upstream from and including Bridge Creek. We allow fishing in Krumbo Reservoir from the fourth Saturday in April until the end of October.

2. We prohibit boats, except for nonmotorized boats and boats with electric motors, on Krumbo Reservoir.

McKay Creek National Wildlife Refuge

A. Migratory Game Bird Hunting. * * *

* * * * *

8. You may not shoot or discharge any firearm from, across, or along a public highway, designated route of travel, road, road shoulder, road embankment, or designated parking area.

B. Upland Game Hunting. * * *

1. Conditions A1, A2, and A8 apply.

* * * * *

Umatilla National Wildlife Refuge

A. Migratory Game Bird Hunting. * * *

* * * * *

8. You may not shoot or discharge any firearm from, across, or along a public highway, designated route of travel, road, road shoulder, road embankment, or designated parking area.

B. Upland Game Hunting. * * *

* * * * *

4. Condition A8 applies.

C. Big Game Hunting. We allow hunting of deer on designated areas of the refuge in accordance with State regulations subject to the following conditions:

1. We allow hunting by special refuge permit only. You must possess and carry the special refuge permit at all times while hunting.

2. Condition A8 applies.

* * * * *

31. Amend § 32.57 Pennsylvania by revising paragraphs A.2., A.3., B., C.2., C.4., D.1., D.3., D.4., D.5., and adding paragraphs D.8. and D.9. of Erie National Wildlife Refuge to read as follows:

§ 32.57 Pennsylvania.

* * * * *

Erie National Wildlife Refuge

A. Migratory Game Bird Hunting. * * *

* * * * *

2. We only allow nonmotorized boats for waterfowl hunting. Hunters must remove boats (see § 27.93 of this chapter) from the refuge by legal sunset.

3. We require that hunters remove blinds and decoys from the refuge by legal sunset (see §§ 27.93 and 27.94 of this chapter)

* * * * *

B. Upland Game Hunting. We allow hunting of grouse, squirrel, rabbit, woodchuck, pheasant, quail, raccoon, fox, coyote, skunk, and opossum on designated areas of the refuge in accordance with State regulations subject to the following conditions:

1. We allow hunting on the refuge from September 1 through the end of February.

2. We require all persons to possess and carry a refuge Special Use Permit while hunting fox, coyote, and raccoon on the refuge.

3. We allow dogs for hunting; however, they must be under the immediate control of the hunter at all times (see § 26.21(b) of this chapter).

C. Big Game Hunting. * * *

* * * * *

2. Hunters must remove blinds, scaffolds, tree stands, and decoys (see § 27.93 of this chapter) from the refuge by legal sunset.

* * * * *

4. We require all persons to possess and carry a refuge Special Use Permit while hunting bear on the refuge.

* * * * *

D. Sport Fishing. * * *

1. We allow bank fishing only on the Seneca Unit of the refuge. We prohibit wading.

* * * * *

3. We prohibit the use of watercraft for fishing, with the exception of Area 5 where we allow nonmotorized watercraft use from the second Saturday in June through September 15. They must remain in an area from the dike to 3,000 feet (900 m) upstream.

4. We require that all anglers must remove watercraft from the refuge by legal sunset (see § 27.93 of this chapter).

5. We allow ice fishing in Areas 5 and 7 only.

* * * * *

8. We prohibit the possession of live baitfish on the Seneca Unit.

9. We prohibit the taking or possession of shellfish on the Seneca Unit of the refuge.

* * * * *

32. Amend § 32.60 South Carolina by:

a. Adding paragraphs C.15. and C.16. of Pinckney Island National Wildlife Refuge; and

b. Adding paragraph B.4. of Waccamaw National Wildlife Refuge to read as follows:

§ 32.60 South Carolina.

* * * * *

Pinckney Island National Wildlife Refuge

* * * * *

C. Big Game Hunting. * * *

* * * * *

15. Hunters age 15 and younger must possess and carry a valid hunter education card in order to hunt.

16. Youth hunters age 15 and younger must remain within sight and normal voice contact of an adult age 21 or older, possessing a license. One adult may supervise no more than one youth hunter.

* * * * *

Waccamaw National Wildlife Refuge

* * * * *

B. Upland Game Hunting. * * *

* * * * *

4. We prohibit squirrel hunting from a boat or other water conveyance on the refuge.

* * * * *

33. Amend § 32.61 South Dakota by:

a. Revising Huron Wetland Management District;

b. Revising Lake Andes Wetland Management District;

c. Revising Madison Wetland Management District;

d. Removing the listing of Pocasse National Wildlife Refuge;

e. Revising Sand Lake Wetland Management District; and

f. Revising Waubay Wetland Management District to read as follows:

§ 32.61 South Dakota.

* * * * *

Huron Wetland Management District

A. Migratory Game Bird Hunting. We allow migratory game bird hunting on Waterfowl Production Areas throughout the District in accordance with State regulations subject to the following condition: You must remove boats, decoys, portable blinds, other personal property, and any materials brought onto the area for blind construction by the end of each day (see §§ 27.93 and 27.94 of this chapter). We prohibit bringing any type of live or dead vegetation onto the refuge for any purpose at any time.

B. Upland Game Hunting. We allow upland game hunting on Waterfowl Production Areas throughout the District in accordance with State regulations subject to the following condition: We prohibit the use of horses for any purpose.

C. Big Game Hunting. We allow big game hunting on Waterfowl Production Areas throughout the District in accordance with State regulations subject to the following conditions:

1. We allow hunters to leave portable tree stands and free-standing elevated platforms on Waterfowl Production Areas from the first Saturday after August 25 through February 15.

2. You must label portable tree stands and free-standing elevated platforms with your name and address or current hunting license number so it is legible from the ground.

3. We prohibit the use of horses for any purpose.

4. You must remove portable ground blinds and other personal property by the end of each day (see §§ 27.93 and 27.94 of this chapter).

D. Sport Fishing. We allow sport fishing on Waterfowl Production Areas throughout the District in accordance with State regulations subject to the following condition: You must remove boats, motor vehicles, fishing equipment, and other personal property (excluding ice houses) by the end of each day (see §§ 27.93 and 27.94 of this chapter).

* * * * *

Lake Andes Wetland Management District

A. Migratory Game Bird Hunting. We allow migratory game bird hunting on Waterfowl Production Areas throughout the District in accordance with State regulations subject to the following condition: You must remove boats, decoys, portable blinds, other personal property, and any materials brought onto the area for blind construction by the end of each day (see §§ 27.93 and 27.94 of this chapter). We prohibit bringing any type of live or dead vegetation onto the refuge for any purpose at any time.

B. Upland Game Hunting. We allow upland game hunting on Waterfowl Production Areas throughout the District in accordance with State regulations subject to the following condition: We prohibit the use of horses for any purpose.

C. Big Game Hunting. We allow big game hunting on Waterfowl Production Areas throughout the District in accordance with State regulations subject to the following conditions:

1. We allow hunters to leave portable tree stands and free-standing elevated platforms on Waterfowl Production Areas from the first Saturday after August 25 through February 15.

2. You must label portable tree stands and free-standing elevated platforms with your name and address or current hunting license number so it is legible from the ground.

3. We prohibit the use of horses for any purpose.

4. You must remove portable ground blinds and other personal property by the end of each day (see §§ 27.93 and 27.94 of this chapter).

D. Sport Fishing. We allow sport fishing on Waterfowl Production Areas throughout the District in accordance with State regulations subject to the following condition: You must remove boats, motor vehicles, fishing equipment, and other personal property (excluding ice houses) by the end of each day (see §§ 27.93 and 27.94 of this chapter).

Madison Wetland Management District

A. Migratory Game Bird Hunting. We allow migratory game bird hunting on Waterfowl Production Areas throughout the District in accordance with State regulations subject to the following condition: You must remove boats, decoys, portable blinds, other personal property, and any materials brought onto the area for blind construction by the end of each day (see §§ 27.93 and 27.94 of this chapter). We prohibit bringing any type of live or dead vegetation onto the refuge for any purpose at any time.

B. Upland Game Hunting. We allow upland game hunting on Waterfowl Production Areas throughout the District in accordance with State regulations subject to the following condition: We prohibit the use of horses for any purpose.

C. Big Game Hunting. We allow big game hunting on Waterfowl Production Areas throughout the District in accordance with State regulations subject to the following conditions:

1. We allow hunters to leave portable tree stands and free-standing elevated platforms on Waterfowl Production Areas from the first Saturday after August 25 through February 15.

2. You must label portable tree stands and free-standing elevated platforms with your name and address or current hunting license number so it is legible from the ground.

3. We prohibit the use of horses for any purpose.

4. You must remove portable ground blinds and other personal property by the end of each day (see §§ 27.93 and 27.94 of this chapter).

D. Sport Fishing. We allow sport fishing on Waterfowl Production Areas throughout the District in accordance with State regulations subject to the following condition: You must remove boats, motor vehicles, fishing equipment, and other personal property (excluding ice houses) by the end of each day (see §§ 27.93 and 27.94 of this chapter).

* * * * *

Sand Lake Wetland Management District

A. Migratory Game Bird Hunting. We allow migratory game bird hunting on Waterfowl Production Areas throughout the District in accordance with State regulations subject to the following condition: You must remove boats, decoys, portable blinds, other personal property, and any materials brought onto the area for blind construction by the end of each day (see §§ 27.93 and 27.94 of this chapter). We prohibit bringing any type of live or dead vegetation onto the refuge for any purpose at any time.

B. Upland Game Hunting. We allow upland game hunting on Waterfowl Production Areas throughout the District in accordance with State regulations subject to the following condition: We prohibit the use of horses for any purpose.

C. Big Game Hunting. We allow big game hunting on Waterfowl Production Areas throughout the District in accordance with State regulations subject to the following conditions:

1. We allow hunters to leave portable tree stands and free-standing elevated platforms on Waterfowl Production Areas from the first Saturday after August 25 through February 15.

2. You must label portable tree stands and free-standing elevated platforms with your name and address or current hunting license number so it is legible from the ground.

3. We prohibit the use of horses for any purpose.

4. You must remove portable ground blinds and other personal property by the end of each day (see §§ 27.93 and 27.94 of this chapter).

D. Sport Fishing. We allow sport fishing on Waterfowl Production Areas throughout the District in accordance with State regulations subject to the following condition: You must remove boats, motor vehicles, fishing equipment, and other personal property (excluding ice houses) by the end of each day (see §§ 27.93 and 27.94 of this chapter).

* * * * *

Waubay Wetland Management District

A. Migratory Game Bird Hunting. We allow migratory game bird hunting on Waterfowl Production Areas throughout the District in accordance with State regulations subject to the following condition: You must remove boats, decoys, portable blinds, other personal property, and any materials brought onto the area for blind construction by the end of each day (see §§ 27.93 and 27.94 of this chapter). We prohibit bringing any type of live or dead vegetation onto the refuge for any purpose at any time.

B. Upland Game Hunting. We allow upland game hunting on Waterfowl Production Areas throughout the District in accordance with State regulations subject to the following condition: We prohibit the use of horses for any purpose.

C. Big Game Hunting. We allow big game hunting on Waterfowl Production Areas throughout the District in accordance with State regulations subject to the following conditions:

1. We allow hunters to leave portable tree stands and free-standing elevated platforms on Waterfowl Production Areas from the first Saturday after August 25 through February 15.

2. You must label portable tree stands and free-standing elevated platforms with your name and address or current hunting license number so it is legible from the ground.

3. We prohibit the use of horses for any purpose.

4. You must remove portable ground blinds and other personal property by the end of each day (see §§ 27.93 and 27.94 of this chapter).

D. Sport Fishing. We allow sport fishing on Waterfowl Production Areas throughout the District in accordance with State regulations subject to the following condition: You must remove boats, motor vehicles, fishing equipment, and other personal property (excluding ice houses) by the end of each day (see §§ 27.93 and 27.94 of this chapter).

34. Amend § 32.63 Tennessee by:

a. Revising paragraphs A.3., A.5., B.2., B.3., C.1., C.4., and D. of Chickasaw National Wildlife Refuge;

b. Revising Hatchie National Wildlife Refuge; and

c. Revising paragraphs A.3., A.5., A.8., B.2., B.3., C.1., C.4., C.5., D.4., and D.7. of Lower Hatchie National Wildlife Refuge to read as follows:

§ 32.63 Tennessee.

* * * * *

Chickasaw National Wildlife Refuge

* * * * *

A. Migratory Game Bird Hunting. * * *

* * * * *

3. You must possess and carry a signed refuge permit and report game taken as specified within the permit.

* * * * *

5. Mourning dove, woodcock, and snipe seasons close during all firearms and muzzleloader deer seasons.

* * * * *

B. Upland Game Hunting. * * *

* * * * *

2. Spring squirrel season is closed on the refuge.

3. Squirrel, rabbit, and quail seasons close during all firearms and muzzleloader deer seasons.

* * * * *

C. Big Game Hunting. * * *

1. Conditions A1 through A3, and A7 through A8 (each adult may supervise only one youth hunter) apply.

* * * * *

4. We only allow the use of portable blinds and tree stands on the refuge. You must remove blinds, tree stands, and all other personal equipment (see §§ 27.93 and 27.94 of this chapter) from the refuge at the end of each day's hunt.

D. Sport Fishing. We allow sport fishing on designated areas of the refuge in accordance with State regulations subject to the following conditions:

1. We only allow fishing from legal sunrise to legal sunset.

2. We only allow fishing with pole and line or rod and reel.

3. We prohibit possession of unauthorized fishing gear, including trotlines, limblines, juglines, yo-yos, nets, spears, and snag hooks, while fishing on the refuge.

4. We allow the use of bow and arrow or a gig to take nongame fish on refuge waters.

5. We prohibit taking frog or turtle on the refuge (see § 27.21 of this chapter).

* * * * *

Hatchie National Wildlife Refuge

A. Migratory Game Bird Hunting. We allow hunting of migratory game birds on designated areas of the refuge in accordance with State regulations subject to the following conditions:

1. The refuge is a day-use area only, with the exception of legal hunting/fishing activities.

2. We prohibit the use of motorized off-road vehicles (e.g., ATVs) on the refuge (see § 27.31(f) of this chapter).

3. You must possess and carry a signed refuge permit and report game taken as specified within the permit.

4. We only allow waterfowl hunting on Tuesdays, Thursdays, and Saturdays. Legal hunting hours for duck, goose, coot, and merganser are ½ hour before legal sunrise to 12 p.m. (noon).

5. Mourning dove, woodcock, and snipe seasons close during all firearms and muzzleloader deer seasons.

6. We allow only portable blinds, and hunters must remove all boats, blinds, and decoys (see §§ 27.93 and 27.94 of this chapter) from the refuge by 1 p.m. daily.

7. We allow hunters to access the refuge no more than 2 hours before legal sunrise, and they must leave the refuge no more than 2 hours after legal sunset.

8. Each youth hunter (under age 16) must remain within sight and normal voice contact of an adult (age 21 or older).

B. Upland Game Hunting. We allow hunting of squirrel, rabbit, quail, raccoon, and opossum on designated areas of the refuge in accordance with State regulations subject to the following conditions:

1. Conditions A1 through A3 and A7 through A8 apply.

2. Spring squirrel season is closed on the refuge.

3. Squirrel, rabbit, and quail seasons close during all firearms and muzzleloader deer seasons.

4. Hunting hours for raccoon and opossum are legal sunset to legal sunrise.

C. Big Game Hunting. We allow hunting of white-tailed deer and turkey on designated areas of the refuge in accordance with State regulations subject to the following conditions:

1. Conditions A1 through A3, A7, and A8 (each adult may supervise only one youth hunter) apply.

2. You may only participate in the refuge deer gun hunts with a special quota permit issued through random drawing. Information for permit applications and season dates is available at the refuge headquarters.

3. You may only possess approved nontoxic shot (see § 32.2(k)) while hunting turkey.

4. We only allow the use of portable blinds and tree stands on the refuge. You must remove blinds, tree stands, and all other personal equipment (see §§ 27.93 and 27.94 of this chapter) from the refuge at the end of each day's hunt.

5. We allow archery-only hunting between State Highway 76 and Interstate 40.

6. We only allow archery hunting the first 16 days of the State season.

7. We are closed to Youth-Deer hunting.

D. Sport Fishing. We allow sport fishing on designated areas of the refuge in accordance with State regulations subject to the following conditions:

1. Conditions A1 and A2 apply.

2. We only allow fishing with pole and line or rod and reel.

3. We prohibit possession of unauthorized fishing gear, including trotlines, limblines, juglines, yo-yos, nets, spears, and snag hooks, while fishing on the refuge.

4. We allow use of a bow and arrow or gig to take nongame fish on refuge waters.

5. We prohibit taking frog or turtle on the refuge (see § 27.21 of this chapter).

6. We seasonally close the sanctuary areas of the refuge to the public November 15 through March 15.

7. We open Oneal Lake for fishing during a restricted season and for authorized special events. Information on event and season dates is available at the refuge headquarters.

8. You must immediately release all largemouth bass under 14 inches (30 cm) in length on Goose and Quail Hollow Lakes.

9. We allow the use of nonmotorized boats and boats with electric motors only.

10. We only allow bank fishing on Goose Lake.

Lower Hatchie National Wildlife Refuge

A. Migratory Game Bird Hunting. * * *

* * * * *

3. You must possess and carry a signed refuge permit and report game taken as specified within the permit.

* * * * *

5. Mourning dove, woodcock, and snipe seasons close during all firearms and muzzleloader deer seasons.

* * * * *

8. We close Sunk Lake Public Use Natural Area to all migratory game bird hunting, and we close the southern unit of Sunk Lake Public Use Natural Area to all hunting.

* * * * *

B. Upland Game Hunting. * * *

* * * * *

2. Spring squirrel season is closed on the refuge.

3. Squirrel, rabbit, and quail seasons close during all firearms and muzzleloader deer seasons.

* * * * *

C. Big Game Hunting. * * *

1. Conditions A1 through A3, and A7 through A9 (each adult may supervise only one youth hunter) apply.

* * * * *

4. We only allow the use of portable blinds and tree stands on the refuge. You must remove blinds, tree stands, and all other personal equipment (see §§ 27.93 and 27.94 of this chapter) from the refuge at the end of each day's hunt.

5. We allow archery-deer hunting only on the northern unit of Sunk Lake Public Use Natural Area.

D. Sport Fishing. * * *

* * * * *

4. We allow use of a bow and arrow or a gig to take nongame fish on refuge waters.

* * * * *

7. We allow the use of nonmotorized boats and boats with electric motors only on Sunk Lake Public Use Natural Area.

* * * * *

35. Amend § 32.63 Texas by:

a. Redesignating paragraphs A.1. through A.18. as paragraphs A.2. through A.19., adding a new paragraph A.1., and revising paragraphs A.12., A.13., and A.14. of Anahuac National Wildlife Refuge;

b. Redesignating paragraphs A.1. through A.3. as paragraphs A.2. through A.4. and adding a new paragraph A.1. of Big Boggy National Wildlife Refuge;

c. Redesignating paragraphs A.1. through A.4. as paragraphs A.2. through A.5., adding a new paragraph A.1., and revising paragraph D. of Brazoria National Wildlife Refuge;

d. Revising paragraphs C.2., C.3., C.5., C.6., and adding paragraph C.17. of Laguna Atascosca National Wildlife Refuge;

e. Revising the introductory text of paragraph A., redesignating paragraphs A.1. through A.15. as paragraphs A.2. through A.16., adding a new paragraph A.1., revising paragraphs A.4. and A.5., revising paragraph D.5., and removing paragraph D.6. of McFaddin National Wildlife Refuge;

f. Redesignating paragraphs A.1. through A.4. as paragraphs A.2. through A.5., adding a new paragraph A.1., revising paragraph A.2., and revising paragraph D. of San Bernard National Wildlife Refuge;

g. Redesignating paragraphs A.1. through A.13. as paragraphs A.2. through A.14., adding a new paragraph A.1., revising paragraphs A.5., A.6., A.11., A.13., and revising paragraph D.4. of Texas Point National Wildlife Refuge; and

h. Revising paragraphs B.2., B.4., and the introductory text of paragraph D. of Trinity River National Wildlife Refuge to read as follows:

§ 32.63 Texas.

* * * * *

Anahuac National Wildlife Refuge

A. Migratory Game Bird Hunting. * * *

1. Season dates will be concurrent with the State for the September teal season, youth-only season, and duck and coot regular season in the Texas South Zone, and goose regular season in the Texas East Zone, with the exception that we will prohibit duck (not including the September teal and youth-only seasons) and coot hunting on the refuge until the last Saturday in October. If the State-specified duck and coot regular season opens later than the last Saturday in October, then hunting on the refuge will open consistent with the State-specified season date.

* * * * *

12. We prohibit the use of airboats, marsh buggies, ATVs (see § 27.31(f) of this chapter) and personal watercraft.

13. On inland waters of refuge hunt areas open to motorized boats, we restrict the operation of motorized boats to lakes, ponds, ditches, and other waterways. We prohibit the operation of motorized boats on or through emergent wetland vegetation.

14. On inland waters of the refuge hunt areas open to motorized boats, we restrict the use of boats powered by air-cooled or radiator-cooled engines to those powered by a single engine of 25 hp or less and utilizing a propeller 9 inches (22.5 cm) in diameter or less.

* * * * *

Big Boggy National Wildlife Refuge

A. Migratory Game Bird Hunting. * * *

1. Season dates will be concurrent with the State for the September teal season, youth-only season, and duck and coot regular season in the Texas South Zone, and goose regular season in the Texas East Zone, with the exception that we will prohibit duck (not including the September teal and youth-only seasons) and coot hunting on the refuge until the last Saturday in October. If the State-specified duck and coot regular season opens later than the last Saturday in October, then hunting on the refuge will open consistent with the State-specified season date.

* * * * *

Brazoria National Wildlife Refuge

A. Migratory Game Bird Hunting. * * *

1. Season dates will be concurrent with the State for the September teal season, youth-only season, and duck and coot regular season in the Texas South Zone, and goose regular season in the Texas East Zone, with the exception that we will prohibit duck (not including the September teal and youth-only seasons) and coot hunting on the refuge until the last Saturday in October. If the State-specified duck and coot regular season opens later than the last Saturday in October, then hunting on the refuge will open consistent with the State-specified season date.

* * * * *

D. Sport Fishing. We allow fishing in accordance with State regulations subject to the following conditions:

1. We allow fishing only on Nick's Lake, Salt Lake, and Lost Lake and along the Salt Lake Weir Dike and the Bastrop Bayou Public Fishing Areas.

2. We allow access for shore fishing at Bastrop Bayou, Clay Banks and Salt Lake Public Fishing Areas, and Salt Lake Weir Dike.

3. We open Bastrop Bayou to fishing 24 hours a day; we prohibit camping.

4. We open all other fishing areas from legal sunrise to legal sunset.

5. We only allow nonmotorized boat launching at the Salt Lake Public Fishing Area. The refuge provides no other boat launching facilities.

6. We prohibit the use of trotlines, sail lines, set lines, jugs, gigs, spears, bush hooks, snatch hooks, crossbows, or bows and arrows of any type.

* * * * *

Laguna Atascosa National Wildlife Refuge

* * * * *

C. Big Game Hunting. * * *

* * * * *

2. We allow archery and firearm hunting on designated units of the refuge. Units 1, 2, 3, 5, 6, and 8 are open to archery hunting during designated dates. Units 2, 3, 5, 6, and 8 are open to firearm hunting during designated dates. We close the following areas to hunting: Adolph Thomae, Jr. County Park in Unit 3, posted “No Hunting Zones” within all hunt units, La Selva Verde Tract (Armstrong), Waller Tract, COHYCO, Inc. Tract, Bahia Grande Unit, and South Padre Unit.

3. We offer hunting during specific portions of the State hunting season. We determine specific deer hunt dates annually, and they usually fall within November, December, and January. We may provide special feral pig and nilgai antelope hunts to reduce populations at any time during the year.

* * * * *

5. We require hunters to visibly wear 400 square inches (2,600 cm²) of hunter orange, which includes wearing a minimum of 144 square inches (936 cm²) visible on the chest, a minimum of 144 square inches (936 cm²) visible on the back, and a hunter-orange hat or cap visible on the head when in the field. We allow hunter-orange camouflage patterns. We allow archery hunters during the archery-only hunts to remove their hunter orange in the field only when hunting at a stationary location.

6. Each youth hunter, ages 12 to 17, must be accompanied by and remain within sight and normal voice contact of an adult age 18 or older. Hunters must be at least age 12.

* * * * *

17. We require written documentation from a licensed physician to certify a hunter as temporarily or permanently disabled or mobility impaired no later than 10 calendar days before the start of the scouting or hunt period. We allow the use of all-terrain vehicles (ATVs), which excludes motorcycles and full-size passenger vehicles, for hunters with mobility impairments and other disabilities through the issuance of a Special Use Permit.

* * * * *

McFaddin National Wildlife Refuge

A. Migratory Game Bird Hunting. We allow hunting of goose, duck, and coot on designated areas of the refuge in accordance with State regulations subject to the following conditions:

1. Season dates will be concurrent with the State for the September teal season, youth-only season, and duck and coot regular season in the Texas South Zone, and goose regular season in the Texas East Zone, with the exception that we will prohibit duck (not including the September teal and youth-only seasons) and coot hunting on the refuge until the last Saturday in October. If the State-specified duck and coot regular season opens later than the last Saturday in October, then hunting on the refuge will open consistent with the State-specified season date.

* * * * *

4. You may access hunt areas by foot, nonmotorized watercraft, outboard motorboat, or airboat. Airboats may not exceed 10 hp with direct drive with a propeller length of 48 inches (120 cm) or less. Engines may not exceed 2 cylinders and 484 cc. We prohibit all other motorized vehicles. We prohibit marsh buggies, ATVs, and personal watercraft (see § 27.31(f) of this chapter).

5. On inland waters of the refuge open to motorized boats, we restrict the use of boats powered by air-cooled or radiator-cooled engines to those powered by a single engine of 25 hp or less and utilizing a propeller 9 inches (22.5 cm) in diameter or less.

* * * * *

D. Sport Fishing. * * *

* * * * *

5. Conditions A5 and A6 apply.

San Bernard National Wildlife Refuge

A. Migratory Game Bird Hunting. * * *

1. Season dates will be concurrent with the State for the September teal season, youth-only season, and duck and coot regular season in the Texas South Zone, and goose regular season in the Texas East Zone, with the exception that we will prohibit duck (not including the September teal and youth-only seasons) and coot hunting on the refuge until the last Saturday in October. If the State-specified duck and coot regular season opens later than the last Saturday in October, then hunting on the refuge will open consistent with the State-specified season date.

2. We prohibit the building or use of pits and permanent blinds (see §§ 27.92 and 27.93 of this chapter).

* * * * *

D. Sport Fishing. We allow sport fishing on designated areas of the refuge in accordance with State regulations subject to the following conditions:

1. We allow fishing only on the refuge portions of Cow Trap Lakes, Cedar Lakes, and along Cedar Lake Creek.

2. We prohibit the use of trotlines, sail lines, set lines, jugs, gigs, spears, bush hooks, snatch hooks, crossbows, or bows and arrows of any type.

Texas Point National Wildlife Refuge

A. Migratory Game Bird Hunting. * * *

1. Season dates will be concurrent with the State for the September teal season, youth-only season, and duck and coot regular season in the Texas South Zone, and goose regular season in the Texas East Zone, with the exception that we will prohibit duck (not including the September teal and youth-only seasons) and coot hunting on the refuge until the last Saturday in October. If the State-specified duck and coot regular season opens later than the last Saturday in October, then hunting on the refuge will open consistent with the State-specified season date.

* * * * *

5. You may access hunt areas by foot, nonmotorized watercraft, outboard motorboat, or airboat. Airboats may not exceed 10 hp with direct drive with a propeller length of 48 inches (120 cm) or less. Engines may not exceed 2 cylinders and 484 cc. We prohibit all other motorized vehicles. We prohibit marsh buggies, ATVs, and personal watercraft (see § 27.31(f) of this chapter).

6. On inland waters of the refuge open to motorized boats, we restrict the use of boats powered by air-cooled or radiator-cooled engines to those powered by a single engine of 25 hp or less and utilizing a propeller 9 inches (22.5 cm) in diameter or less.

* * * * *

11. We prohibit pits and permanent blinds. We allow portable binds or temporary natural vegetation blinds. You must remove portable blinds (see §§ 27.93 and 27.94 of this chapter) from the refuge daily.

* * * * *

13. Dogs accompanying hunters must be under the immediate control of handlers at all times (see § 26.21(b) of this chapter).

* * * * *

D. Sport Fishing. * * *

* * * * *

4. Conditions A6 and A7 apply.

Trinity River National Wildlife Refuge

* * * * *

B. Upland Game Hunting. * * *

* * * * *

2. We allow hunting during a designated 23-day season. Hunters may enter the refuge and park in an assigned parking area no earlier than 4:30 a.m. We allow hunting from ½ hour before legal sunrise to legal sunset. We require hunters to return a data log card.

* * * * *

4. We prohibit the use of dogs, feeders, baiting (see § 32.2(h)), campsites, fires (see § 27.95(a) of this chapter), horses, bicycles, and all-terrain vehicles.

* * * * *

D. Sport Fishing. We allow fishing on most refuge tracts in accordance with State regulations subject to the following conditions:

* * * * *

36. Amend § 32.64 Utah by revising paragraph A.1. of Bear River Migratory Bird Refuge to read as follows:

§ 32.64 Utah.

* * * * *

Bear River Migratory Bird Refuge

A. Migratory Game Bird Hunting. * * *

1. Hunters may not shoot or hunt within 100 yards (90 m) of principal refuge roads (the tour route).

* * * * *

37. Amend § 32.66 Virginia by:

a. Revising paragraph C.2.vi. of Chincoteague National Wildlife Refuge;

b. Revising paragraphs C.7. through C.12. and adding paragraph C.13. of James River National Wildlife Refuge;

c. Revising paragraphs A.3. and A.7. of Plum Tree Island National Wildlife Refuge;

d. Revising paragraphs C.1., C.5. through C.8., and adding paragraph C.9. of Presquile National Wildlife Refuge; and

e. Revising paragraph C., D.1., D.2., and D.5. of Rappahannock River Valley National Wildlife Refuge to read as follows:

§ 32.66 Virginia.

* * * * *

Chincoteague National Wildlife Refuge

* * * * *

C. Big Game Hunting. * * *

* * * * *

2. * * *

* * * * *

vi. We reserve Zone 2 for hunters confined to wheelchairs. Hunters confined to wheelchairs must remain on the paved trail or overlook platform on Woodland Trail. Hunters confined to wheelchairs who require assistance retrieving or dressing harvested animals must have a nonhunting assistant available.

* * * * *

James River National Wildlife Refuge

* * * * *

C. Big Game Hunting. * * *

* * * * *

7. During firearms season, all hunters must wear in a visible manner on head, chest, and back a minimum of 400 square inches (2,600 cm²) of solid-colored, hunter-orange clothing or material.

8. During archery only season, archers must wear in a visible manner a solid-colored, hunter-orange hat or cap while moving to and from their stand.

9. We require that firearm hunters remain within 25 feet (7.5 m) of their assigned stand unless tracking or retrieving a wounded deer.

10. We allow hunters to retrieve wounded deer from closed areas with prior consent from a refuge employee only.

11. We require hunters to unload all weapons while on the refuge (see § 27.42(b) of this chapter), except when at their assigned stand.

12. We prohibit the discharge of firearm or archery equipment across or within refuge roads, including roads closed to vehicles.

13. You must be at least age 18 to hunt without an accompanying, qualified adult. Youth hunters between ages 12 and 17 may only hunt when accompanied by an adult age 21 or older, who must also possess and carry a valid hunting license. The minimum age for hunters is 12.

* * * * *

Plum Tree Island National Wildlife Refuge

A. Migratory Game Bird Hunting. * * *

* * * * *

3. You may hunt from: the location of your choice, unimproved shore locations, camouflaged boats (float blinds) anchored to the shore, or temporary blinds erected on the interior of the island.

* * * * *

7. On all hunt days, hunters must retrieve and remove all decoys, temporary blinds, and equipment and leave Cow Island by 1 p.m. (see §§ 27.93 and 27.94 of this chapter).

* * * * *

Presquile National Wildlife Refuge

* * * * *

C. Big Game Hunting. * * *

1. We require hunters to purchase a refuge hunt permit. You may obtain permits by contacting the Charles City office at (804) 829-9020. The hunter must possess and carry the signed permit while on refuge property.

* * * * *

5. We allow only portable tree stands that hunters must remove at the end of each hunt day (see §§ 27.93 and 27.94 of this chapter).

6. We require hunters to wear in a conspicuous manner on head, chest, and back a minimum of 400 square inches (2,600 cm2) of solid-colored, hunter-orange clothing or material.

7. We require hunters to remain within 25 feet (7.5 m) of their designated stand unless tracking or retrieving a wounded deer.

8. We require all hunters to unload all firearms while on the refuge, except when at their assigned stand (see § 27.42(b) of this chapter).

9. You must be at least age 18 to hunt without an accompanying, qualified adult. Youth hunters between ages 12 and 17 may only hunt when accompanied by an adult age 21 or older who must also possess and carry a valid hunting license. The minimum age for hunters is 12.

* * * * *

Rappahannock River Valley National Wildlife Refuge

* * * * *

C. Big Game Hunting. We allow hunting of white-tailed deer on designated areas of the refuge in accordance with State regulations subject to the following conditions:

1. We require hunters to purchase a refuge hunt permit. You may obtain permits by contacting the refuge headquarters at (804) 333-1470. The hunter must possess and carry the permit while on refuge property.

2. We allow shotgun, muzzleloader, and archery hunting on designated refuge hunt days.

3. We allow the take of two deer of either sex per day.

4. We prohibit dogs.

5. We allow only portable tree stands that hunters must remove at the end of each hunt day (see §§ 27.93 and 27.94 of this chapter).

6. During firearm seasons, all hunters must wear in a visible manner on head, chest, and back a minimum of 400 square inches (2,600 cm²) of solid-colored, hunter-orange clothing or material.

7. During archery only season, archers must wear in a visible manner a solid-colored, hunter-orange hat or cap while moving to and from their stand.

8. We prohibit the possession of loaded firearms or nocked arrows while on the refuge roads.

9. We require hunters to unload all weapons while traveling between the hunting sites (see § 27.42(b) of this chapter).

10. We prohibit the discharge of a firearm or archery equipment across or within refuge roads, including roads closed to vehicles.

11. We allow hunters to retrieve wounded deer from closed areas only with prior consent from a refuge employee.

12. You must be at least age 18 to hunt without an accompanying, qualified adult. Youth hunters between ages 12 and 17 may only hunt when accompanied by an adult age 21 or older who must also possess and carry a valid hunting license. The minimum age for hunters is 12.

D. Sport Fishing. * * *

1. We allow fishing access from legal sunrise to legal sunset.

2. We allow fishing from the Wilna Pond pier, banks of the dam, and watercraft. We prohibit fishing from the aluminum catwalk.

* * * * *

5. We prohibit the use of lead sinkers.

* * * * *

38. Amend § 32.67 Washington by:

a. Adding paragraphs A.3., B.3., and C.3. of Columbia National Wildlife Refuge;

b. Revising paragraphs A. and C. of Conboy Lake National Wildlife Refuge;

c. Adding paragraph A.5., removing paragraphs B.4., B.5., adding a new paragraph B.4., removing paragraphs C.3., and C.4., and adding a new paragraph C.3. of Hanford Reach National Monument/Saddle Mountain National Wildlife Refuge;

d. Revising paragraphs A. and C. of Julia Butler Hansen Refuge for the Columbian White-Tailed Deer;

e. Revising paragraphs A., B., and C. of Little Pend Oreille National Wildlife Refuge;

f. Adding paragraphs A.14. and B.5. and revising paragraph C. of McNary National Wildlife Refuge;

g. Revising paragraphs A. and D. of Ridgefield National Wildlife Refuge;

h. Adding paragraphs A.9 and B.4. of Toppenish National Wildlife Refuge;

i. Adding paragraphs A.9. and B.3, and revising paragraph C. of Umatilla National Wildlife Refuge; and

j. Adding paragraphs A.7. and B.5, revising the introductory text of paragraph C., revising paragraph C.3., and adding paragraph C.5. of Willapa National Wildlife Refuge to read as follows:

§ 32.67 Washington.

* * * * *

Columbia National Wildlife Refuge

A. Migratory Game Bird Hunting. * * *

* * * * *

3. You may not shoot or discharge any firearm from, across, or along a public highway, designated route of travel, road, road shoulder, road embankment, or designated parking area.

B. Upland Game Hunting. * * *

* * * * *

3. Condition A3 applies.

C. Big Game Hunting. * * *

* * * * *

3. Condition A3 applies.

* * * * *

Conboy Lake National Wildlife Refuge

A. Migratory Game Bird Hunting. We allow hunting of dove, goose, duck, coot, and common snipe on designated areas of the refuge in accordance with State regulations subject to the following conditions:

1. Waterfowl and snipe hunters may possess only approved nontoxic shot while in the field (see § 32.2(k)).

2. You may not shoot or discharge any firearm from, across, or along a public highway, designated route of travel, road, road shoulder, road embankment, or designated parking area.

* * * * *

C. Big Game Hunting. We allow hunting of deer on designated areas of the refuge in accordance with State regulations subject to the following condition: Condition A2 applies.

* * * * *

Hanford Reach National Monument/Saddle Mountain National Wildlife Refuge

A. Migratory Game Bird Hunting. * * *

* * * * *

5. We prohibit shooting or discharging any firearm from, across, or along a public highway, designated route of travel, road, road shoulder, road embankment, or designated parking area.

B. Upland Game Hunting. * * *

* * * * *

4. Condition A5 applies.

C. Big Game Hunting. * * *

* * * * *

3. Condition A5 applies.

* * * * *

Julia Butler Hansen Refuge for the Columbian White-Tailed Deer

A. Migratory Game Bird Hunting. We allow hunting of goose, duck, coot, and common snipe on designated areas of the Hunting Island Unit in accordance with State regulations subject to the following conditions:

1. You may possess only approved nontoxic shot while in the field (see § 32.2(k)).

2. You may not shoot or discharge any firearm from, across, or along a public highway, designated route of travel, road, road shoulder, road embankment, or designated parking area.

* * * * *

C. Big Game Hunting. We allow hunting of elk on designated areas of the refuge in accordance with State regulations subject to the following conditions:

1. We conduct the refuge hunt by State permit only. We require hunters to possess and carry current Washington State elk licenses, valid for the refuge's hunt unit.

2. We allow a maximum of ten hunters to use the refuge in any one day, with one hunt period consisting of 5 consecutive days (Monday through Friday only).

3. We allow a maximum of four hunt periods per hunt season; two regular permit hunts, and if required, two “as needed” permit hunts.

4. We will use the State Second Elk Tag As-Needed hunt program as necessary to control elk numbers during months outside the normal hunting season, except we prohibit hunting during the period April through August.

5. The State will publish the hunting dates, number of permits to be issued, and other regulations for the refuge hunt in the State's Big Game hunting pamphlet. You may also obtain this information by contacting the refuge headquarters.

6. We allow hunting of elk using muzzleloading firearms only.

7. We require hunters to attend a refuge-specific orientation session each year prior to hunting on the refuge.

8. We allow hunting on Mondays through Fridays only. We close the refuge to hunting on weekends and Federal holidays.

9. We require hunters to sign in and out each day at the refuge headquarters. When signing out for the day, you must report hunting success, failure, and any hit-but-not retrieved animals.

10. No more than one unlicensed person may assist each licensed hunter during the hunt.

11. Additional persons may assist hunters during elk retrieval only.

12. We prohibit hunters from operating motorized vehicles on the refuge.

13. Condition A2 applies.

* * * * *

Little Pend Oreille National Wildlife Refuge

A. Migratory Game Bird Hunting. We allow hunting of migratory game birds on designated areas of the refuge in accordance with State regulations subject to the following conditions:

1. We prohibit waterfowl hunting on any creek or stream.

2. We allow hunting during approved State hunting seasons occurring September through December and during the State spring wild turkey season only. We prohibit hunting and discharge of firearms during all other periods.

3. You may not shoot or discharge any firearm from, across, or along a public highway, designated route of travel, road, road shoulder, road embankment, or designated parking area.

B. Upland Game Hunting. We allow hunting of upland game on designated areas of the refuge in accordance with State regulations subject to the following conditions:

1. We prohibit use of dogs except for hunting and retrieving upland game birds.

2. Conditions A2 and A3 apply.

C. Big Game Hunting. We allow hunting of big game on designated areas of the refuge in accordance with State regulations subject to the following conditions:

1. We prohibit all use of dogs for hunting of big game.

2. Conditions A2 and A3 apply.

* * * * *

McNary National Wildlife Refuge

A. Migratory Game Bird Hunting. * * *

* * * * *

14. You may not shoot or discharge any firearm from, across, or along a public highway, designated route of travel, road, road shoulder, road embankment, or designated parking area.

B. Upland Game Hunting. * * *

* * * * *

5. Condition A14 applies.

C. Big Game Hunting. We allow hunting of deer only on the Stateline, Juniper Canyon, and Wallula Units in accordance with State regulations subject to the following conditions:

1. On the Wallula Unit, we only allow shotgun and archery hunting.

2. Condition A14 applies.

* * * * *

Ridgefield National Wildlife Refuge

A. Migratory Game Bird Hunting. We allow hunting of goose, duck, and coot on designated areas of the refuge in accordance with State regulations subject to the following conditions:

1. We allow hunting by special refuge permit only. You must possess and carry the special refuge permit at all times while hunting.

2. You may not shoot or discharge any firearm from, across, or along a public highway, designated route of travel, road, road shoulder, road embankment, or designated parking area.

* * * * *

D. Sport Fishing. We allow fishing and frogging on designated areas of the refuge in accordance with State regulations subject to the following conditions:

1. We allow fishing and frogging from March 1 through September 30 only.

2. We allow fishing and frogging from legal sunrise to legal sunset only.

Toppenish National Wildlife Refuge

A. Migratory Game Bird Hunting. * * *

* * * * *

9. You may not shoot or discharge any firearm from, across, or along a public highway, designated route of travel, road, road shoulder, road embankment, or designated parking area.

B. Upland Game Hunting. * * *

* * * * *

4. Condition A9 applies.

* * * * *

Umatilla National Wildlife Refuge

A. Migratory Game Bird Hunting. * * *

* * * * *

9. You may not shoot or discharge any firearm from, across, or along a public highway, designated route of travel, road, road shoulder, road embankment, or designated parking area.

B. Upland Game Hunting. * * *

* * * * *

3. Condition A9 applies.

C. Big Game Hunting. We allow hunting of deer on designated areas of the refuge in accordance with State regulations subject to the following conditions:

1. We allow hunting by special refuge permit only. You must possess and carry the special refuge permit at all times while hunting.

2. Condition A9 applies.

* * * * *

Willapa National Wildlife Refuge

A. Migratory Game Bird Hunting. * * *

* * * * *

7. You may not shoot or discharge any firearm from, across, or along a public highway, designated route of travel, road, road shoulder, road embankment, or designated parking area.

B. Upland Game Hunting. * * *

* * * * *

5. Condition A7 applies.

C. Big Game Hunting. We allow hunting of deer, elk, and bear on Long Island, and deer and elk only on designated areas of the refuge north of the Bear River and east of Wallapa Bay, in accordance with State regulations subject to the following conditions:

* * * * *

3. We prohibit bear hunting on any portion of the refuge except Long Island.

* * * * *

5. Condition A7 applies.

* * * * *

39. Amend § 32.69 Wisconsin by revising paragraphs B.1. and B.4., adding paragraph B.6., and revising paragraph C. of Necedah National Wildlife Refuge to read as follows:

§ 32.69 Wisconsin.

* * * * *

Necedah National Wildlife Refuge

* * * * *

B. Upland Game Hunting. * * *

1. Shotgun hunters may possess only approved nontoxic shot while hunting on the refuge (see § 32.2(k)). This includes turkey hunters.

* * * * *

4. You may use dogs only when hunting migratory game birds and upland game (except raccoon).

* * * * *

6. You may possess only unloaded guns in the retrieval zone of the Refuge Area 2 between 20th Street West and Suk-Cerney flowage during the State waterfowl hunting season, except while hunting deer during the deer gun season.

C. Big Game Hunting. We allow hunting of white-tailed deer on designated areas of the refuge in accordance with State regulations subject to the following conditions:

1. We prohibit possession of a loaded firearm or a nocked arrow on a bow within 50 feet (15 m) of the centerline of all public roads. Also, during the gun deer season, we prohibit possession of a loaded firearm within 50 feet (15 m) of the center of refuge trails, and we prohibit discharge of guns from, across, down, or alongside these trails.

2. We prohibit possession of a centerfire rifle capable of holding more than seven cartridges.

3. We prohibit construction or use of permanent blinds, stands, or ladders.

4. You may use portable elevated devices but must lower them to ground level at the close of shooting hours each day. You must remove all blinds, stands, platforms, and ladders from the refuge at the end of the hunting season (see §§ 27.93 and 27.94 of this chapter).

5. Hunters must clearly mark all non-natural blinds, stands, platforms, and ladders on the exterior with the owner's name and address in letters that are 1 inch (2.5 cm) high. You may also use an attached metal tag with stamped or engraved lettering that is clearly visible.

6. We permanently close Refuge Area 1 to all hunting.

7. Refuge Area 2 is open to deer hunting during State archery, gun, and muzzleloader seasons, except for any October special Zone-T gun hunts.

8. Refuge Area 3 is open to deer hunting during the State regular gun, muzzleloader, and late archery seasons. Unarmed deer hunters may enter Area 3 to scout beginning the Saturday prior to the gun deer season

9. We prohibit target or practice shooting.

10. You may utilize clothes pins marked with flagging or reflective material. We allow no other types of marking. You must clearly identify the owner's name and address on the clothes pin or the flagging itself. Hunters must remove all clothes pins by the last day of archery season.

11. Beginning the Saturday prior to the opening of the State regular gun deer season, you may use nonmotorized boats on Sprague-Goose Pools until freeze-up in order to access areas for deer hunting.

* * * * *

Dated: August 26, 2005.
Craig Manson,
Assistant Secretary for Fish and Wildlife and Parks.

[FR Doc. 05-17792 Filed 9-12-05; 8:45 am]

BILLING CODE 4310-55-P